DEPARTMENT OF COMMERCE

Bureau of Industry and Security

15 CFR Parts 744 and 746

[Docket No. 230221-0047]

RIN 0694-AJ09

Implementation of Additional Sanctions Against Russia and Belarus Under the Export Administration Regulations (EAR) and Refinements to Existing Controls

AGENCY: Bureau of Industry and Security, Department of Commerce.

ACTION: Final rule.

SUMMARY: In response to the Russian Federation's (Russia's) ongoing aggression against Ukraine, as substantially enabled by Belarus, the Department of Commerce is expanding and strengthening the existing sanctions against Russia and Belarus, including the scope of the Export Administration Regulations (EAR)'s Russian and Belarusian industry sector sanctions and `luxury goods' sanctions. This rule also refines existing export controls on Russia and Belarus. The Department of Commerce is taking these actions to enhance the effectiveness of its controls on both countries and to better align them with those implemented by U.S. allies and partners.

DATES: This rule is effective on February 24, 2023.

FOR FURTHER INFORMATION CONTACT: For general questions on this final rule, contact Eileen Albanese, Director, Office of National Security and Technology Transfer Controls, Bureau of Industry and Security, Department of Commerce, Phone: (202) 482-0092, Fax: (202) 482-482-3355, Email: rpd2@bis.doc.gov. For emails, include “Russia and Belarus February 2023 sanctions” in the subject line.

SUPPLEMENTARY INFORMATION:

I. Background

In response to Russia's February 2022 further invasion of Ukraine, BIS imposed extensive sanctions on Russia under the Export Administration Regulations (15 CFR parts 730-774) (EAR) as part of the final rule Implementation of Sanctions Against Russia Under the Export Administration Regulations (EAR) (the Russia Sanctions Rule), effective on February 24, 2022, and published on March 3, 2022 (87 FR 12226). Effective March 2, 2022, BIS also imposed similar sanctions on Belarus under the EAR in a final rule, Implementation of Sanctions Against Belarus (“Belarus Sanctions Rule”), published on March 8, 2022 (87 FR 13048). Since the publication of the Russia Sanctions Rule and the Belarus Sanctions Rule, BIS has published several other final rules imposing stringent export controls on Russia and Belarus. These actions reflect the U.S. Government's position that Russia's invasion of Ukraine, and Belarus's complicity in the invasion, flagrantly violated international law, are contrary to U.S. national security and foreign policy interests, and undermine global order, peace, and security.

The export control measures in this final rule build upon the policy objectives set forth in the earlier rules referenced above. The adoption of these measures, undertaken in part to better align U.S. controls with stringent measures implemented by partner and ally countries, will enhance the effectiveness of the multilateral sanctions on Russia by further limiting access to items that enable Russia's military capabilities and sources of revenue that could support those capabilities. Additionally, the new or expanded controls specified in this rule target Belarus as part of the U.S. response to the country's complicity in Russia's aggression.

II. Overview of New Controls

This rule revises the EAR to enhance and strengthen the existing sanctions against Russia and Belarus by expanding the scope of the Russian and Belarusian industry sector sanctions and the `luxury goods' sanctions to better align them with the controls that have been implemented by U.S. allies and partners imposing substantially similar controls on Russia and Belarus. For similar policy reasons, this rule also refines other existing controls on Russia and Belarus that were imposed in response to the February 2022 further invasion of Ukraine.

III. Amendments to the Export Administration Regulations (EAR)

This rule enhances and strengthens the sanctions that have been implemented on Russia and Belarus under the EAR, as described under Sections A and B below. The regulatory revisions described under Section A. Imposition of new export controls on Russia and Belarus, including to align the EAR's controls with those imposed by U.S. allies and partners, include:

• Revisions to the sanctions under supplement no. 2 to part 746 to make conforming changes with other supplements (supplements nos. 4 and 6 to part 746) used under the Russian and Belarusian Industry Sector Sanctions to provide alignment with sanctions imposed by U.S. partners and allies, and make the EAR sanctions stronger, more effective, and easier to understand;

• Expansion of Russian Industry Sector Sanctions under supplement no. 4 to part 746 by adding additional items to align the sanctions with sanctions imposed by U.S. partners and allies and by making other changes to render the EAR's sanctions stronger, more effective, and easier to understand;

• Expansion of Russian Industry Sector Sanctions under supplement no. 6 to part 746 by adding additional items to align them with sanctions imposed by U.S. partners and allies and by making other changes to render the EAR's sanctions stronger, more effective, and easier to understand;

• Expansion of `Luxury Goods' Sanctions by adding additional items to supplement no. 5 to part 746 to align them with sanctions imposed by U.S. allies and partners; and

• Alignment changes to supplement no. 3 to part 746 of the EAR (Countries Excluded from Certain License Requirements of §§ 746.7 and 746.8) to add Taiwan.

The remaining changes are described under Section B. Corrections and clarifications to existing controls on Russian and Belarus. The changes described under Section B include:

• Clarification that § 744.7 extends to transfers (in-country), in addition to exports and reexports;

• Clarification that the exclusion for items controlled under ECCN 5A992 or 5D992 under § 746.8 also applies to `Luxury Goods Sanctions' license requirements under § 746.10(a)(1); and

• Conforming changes to the licensing policies under §§ 746.5, 746.8, and 746.10 and addition of a case-by-case license review policy for applications for the disposition of items needed as part of companies curtailing or closing all operations in Russia or Belarus.

A. Imposition of New Export Controls on Russia and Belarus, Including Changes To Align Controls With Those Imposed by U.S. Allies and Partners

This rule expands the scope of the Russian Industry Sector Sanctions by adding additional items to supplement no. 4 to part 746 that will require a license under § 746.5(a)(1)(ii), as described further below. This rule also expands the scope of the “Luxury Goods” Sanctions by adding additional items to supplement no. 5 to part 746 that will require a license under § 746.10, as described further below.

1. Revisions to the Heading and Contents of Supplement No. 2 to Part 746 so That It Conforms With Other Supplements That Relate to the Russian and Belarusian Industry Sector Sanctions, Thereby Providing Alignment With Controls Imposed by U.S. Partners and Allies and Also Make the EAR's Controls Stronger, More Effective, and Easier To Understand

a. Clarifying changes to the heading of supplement no. 2 to part 746.

In supplement no. 2 to part 746—Russian Industry Sector Sanctions, this rule makes a clarifying change by revising the section heading to add Belarus and a reference to § 746.5(a)(1)(i). These two changes are made to conform this supplement's heading with the same heading structure used in the other two supplements used to identify items that require a license under the Russian and Belarusian Industry Sector Sanctions, i.e., supplements nos. 4 and 6. These two clarifying changes are intended to make it easier for exporters, reexporters, and transferors to understand the scope of supplement no. 2 to part 746 and to create greater consistency in the three supplement headings used to identify items that require a license if destined for Russian and Belarusian industry sectors.

b. Changing the methodology for identifying items by using the HTS-6 Code and HTS Description to make it easier to align with U.S. allies' and partners' controls.

In supplement no. 2 to part 746, this rule revises the table to remove the columns for `Schedule B' and `Schedule B description' and adds in their place columns to identify the same set of items but by using the Harmonized Tariff Schedule (HTS)-6 Code and HTS Description. With these changes in the methodology used to identify items, the supplement will now utilize HTS-6 Codes and HTS Descriptions, instead of the applicable Schedule B number and Schedule B Description. This change aligns the underlying controls with those of U.S. allies and partners who are generally using the HS-6 Codes and HS Descriptions, which are equivalent to the HTS-6 Codes and HTS Descriptions used under the U.S. Harmonized Tariff Schedule. Because the HS-6 Codes and HS Descriptions are recognized and used internationally, it will make it easier to align the EAR controls with those of U.S. allies and partners.

c. Conforming changes to supplement no. 2 to part 746 introductory text to reflect the use of the HTS-6 Codes and HTS Descriptions and to better align this supplement with supplement no. 4 to part 746 introductory text.

This rule makes a conforming change that revises the introductory text of supplement no. 2 to part 746 to remove references to the Schedule B numbers and Schedule B descriptions and adds in their place references to the applicable HTS-6 codes and HTS descriptions, as well as specifying that the source for the HTS-6 codes and descriptions in this list comes from the United States International Trade Commission (USITC's) Harmonized Tariff Schedule of the United States (2023). The revised introductory text to supplement no. 2 is modeled after the same type of description text as used in supplement no. 4 to part 746 and is similarly intended to make it easier for exporters, reexporters, and transferors to understand and comply with the EAR's Russian and Belarusian industry sector sanctions as a whole. The rule also revises the sentence in the introductory text by removing references to three Schedule B numbers that were listed in both supplements nos. 2 and 4 prior to this rule and identifying instead the applicable six HTS-6 codes: 841350, 841360, 842139, 843049, 843139, and 847989.

d. Expansion and clarification of supplement no. 2 to part 746 to strengthen the controls by specifying that the supplement includes any modified or designed “parts,” “components,” “accessories,” and “attachments” for the items identified in the table to better align the supplement with supplement no. 4 to part 746.

Also in supplement no. 2 to part 746, this rule expands the scope of the items that are subject to the Russian and Belarusian Industry Sector Sanctions by revising newly added paragraph (a) in the introductory text to specify that the items captured include any modified or designed “components,” “parts,” “accessories,” and “attachments” therefor, regardless of their HTS Code or HTS Description.” In many cases these “components,” “parts,” “accessories,” and “attachments” are not specifically identified by HTS Code or HTS Description. Paragraph (a) also specifies that the expansion does not include any “part” or minor “component” that is a fastener (e.g., screw, bolt, nut, nut plate, stud, insert, clip, rivet, pin), washer, spacer, insulator, grommet, bushing, spring, wire, or solder. By expanding the scope of the items set forth in the supplement in this manner, this revision aligns this aspect of supplement no. 2 with supplement no. 4, which also already included the same text for “components,” “parts,” “accessories,” and “attachments,” and generally promotes and enhances the strength and effectiveness of the sanctions set forth in this supplement.

e. Clarifications to supplement no. 2 to part 746 introductory text to specify that the scope of the license requirement applies to an item's HTS-6 Code and describe how such information relates to other information in the supplement's table, as well as to content describing other HTS Codes that are longer but still derived from HTS-6 Codes.

This rule adds a new paragraph (b) to specify that the items identified in the HTS-6 Code column of supplement no. 2 to part 746 are the items that are subject to the license requirement under § 746.5(a)(1)(i). This rule adds one sentence to paragraph (b) to clarify that that HTS Description is included as a column heading under the table to assist exporters with their Automated Export System (AES) filing responsibilities and to have a better idea of the types of items that fall under specific HTS-6 Codes. This rule also adds a sentence to specify that the HTS-6 Code governs in determining the license requirement. For example, if an exporter “knows” their item is classified under an HTS-6 Code in supplement no. 2 to part 746, but does not believe that their item matches the corresponding HTS Description in supplement no. 2 to part 746, the HTS-6 Code will control for determining the license requirement under § 746.5(a)(1)(i). Likewise, if someone believes their item could potentially meet the description of more than one HTS Description, the HTS-6 Code will control. As noted above, the HTS Description is intended to assist exporters with their AES filing responsibilities but does not govern whether an item is identified under supplement no. 2 to part 746. Lastly, this rule adds a sentence to new paragraph (b) to clarify that the license requirements extend to HTS Codes at the 8 and 10 digit level when those HTS-8 and HTS-10 codes begin with the HTS-6 Codes as their first 6 numbers. This text is intended to prevent an exporter from identifying an item at the 8 or 10 digit level as a way to try to evade these controls. If the 8 or 10 digit code for the item begins with one of the HTS-6 Codes (that is, matches the first six numbers of the latter) that are specified in the table, the item will require a license under § 746.5(a)(1)(i).

BIS estimates these changes to supplement no. 2 to part 746 will result in an additional two license applications submitted to BIS annually.

2. Expansion of Russian and Belarusian Industry Sector Sanctions Under Supplement No. 4 to Part 746 To Add Additional Items To Align With Controls Imposed by U.S. Partners and Allies and Make Other Changes To Render the EAR's Controls Stronger, More Effective, and Easier To Understand

a. Expansion of the controls by adding 322 HTS-6 Codes to supplement no. 4 to part 746.

In supplement no. 4 to part 746—Russian and Belarusian Industry Sector Sanctions pursuant to § 746.5(a)(1)(ii), this rule expands the scope of the Russian and Belarusian Industry Sector Sanctions by adding 322 additional HTS-6 Code entries corresponding to 322 industrial items that will require a license for export or reexport to or transfer within Russia or Belarus under § 746.5(a)(1)(ii). The restrictions on these additional industrial items are intended to further undermine the Russian and Belarusian industrial bases and their ability to continue to support the Russian invasion of and subsequent military aggression in Ukraine. The items added include a variety of electronics, industrial machinery, and equipment. The complete list of 322 new HTS-6 Codes this rule adds to supplement no. 4 are as follows: 720810, 720825, 720826, 720827, 720836, 720837, 720838, 720839, 720840, 720851, 720852, 720853, 720854, 720890, 720915, 720916, 720917, 720918, 720925, 720926, 720927, 720928, 720990, 721011, 721012, 721020, 721030, 721041, 721049, 721050, 721061, 721069, 721070, 721119, 721123, 721190, 721220, 721230, 721240, 721250, 721911, 721912, 721913, 721914, 721921, 721922, 721923, 721924, 721931, 721932, 721933, 721934, 721935, 721990, 722011, 722012, 722020, 722090, 722511, 722540, 722550, 722591, 722592, 722611, 722619, 722620, 722692, 722699, 730810, 730820, 730830, 730840, 730890, 731021, 731029, 761010, 761090, 761210, 840410, 840420, 840490, 840510, 840681, 840682, 840721, 840729, 840810, 840820, 840890, 840999, 841090, 841111, 841112, 841121, 841122, 841191, 841311, 841319, 841330, 841350, 841360, 841381, 841410, 841610, 841620, 841630, 841690, 841720, 841919, 841950, 841960, 841990, 842111, 842611, 842619, 842620, 842630, 842641, 842649, 842691, 842710, 842790, 842831, 842870, 842911, 842920, 842930, 842940, 842951, 842952, 843049, 843120, 843139, 843141, 844319, 845420, 845490, 845522, 845530, 845620, 845640, 845710, 845730, 845811, 845819, 845891, 845899, 845921, 845931, 845941, 845961, 846012, 846019, 846022, 846023, 846024, 846029, 846031, 846039, 846040, 846222, 846223, 846224, 846225, 846226, 846229, 846232, 846233, 846239, 846242, 846249, 846251, 846259, 846261, 846262, 846263, 846269, 846290, 846310, 846320, 846330, 846390, 846410, 846420, 846490, 846691, 846693, 846694, 846810, 846820, 846880, 847330, 847431, 847730, 847981, 847982, 848130, 848250, 848310, 848320, 848330, 848340, 848350, 848360, 848390, 848520, 848530, 848590, 848610, 848620, 848630, 848640, 848710, 850153, 850211, 850212, 850300, 850511, 850590, 850710, 850720, 851110, 851120, 851130, 851140, 851150, 851180, 851190, 851220, 851290, 851411, 851419, 851420, 851490, 851511, 851519, 851521, 851529, 851680, 851771, 851779, 852351, 852581, 852582, 852583, 852589, 852610, 852721, 852849, 852910, 853080, 853221, 853224, 853229, 853230, 853290, 853400, 853510, 853521, 853650, 853690, 853810, 853929, 853951, 853952, 854121, 854129, 854130, 854141, 854142, 854143, 854149, 854320, 854330, 854411, 854430, 854449, 854470, 854520, 854710, 854800, 854911, 854912, 854913, 854914, 854919, 854921, 854929, 854931, 854939, 854991, 854999, 870310, 870423, 870510, 870540, 871690, 900110, 900510, 900580, 900590, 901380, 901410, 901420, 901480, 901490, 901510, 901520, 902480, 902519, 902590, 902710, 902781, 902789, 902920, 902990, 903032, 903039, 903040, 903082, and 903089.

b. Removal of Schedule B and Schedule B Description columns under supplement no. 4 to part 746 to make it easier to understand the supplement's scope and to align the controls with those imposed by U.S. allies and partners.

Also in supplement no. 4 to part 746, this rule revises the table to remove the columns for Schedule B and Schedule B Description while retaining the existing HTS Code and HTS Description columns. With these changes, the supplement will now utilize HTS-6 Code and the HTS Description, instead of the Schedule B and Schedule B Description. This change aligns the underlying controls with those of U.S. allies and partners who generally use HS-6 Codes and HS Descriptions, which are equivalent to the HTS-6 Codes and HTS Descriptions used under the U.S. Harmonized Tariff Schedule. Because the HS-6 Codes and HS Descriptions are recognized and used internationally, these changes will make it easier to align these EAR controls with those of U.S. allies and partners.

c. Revision to the column used to identify the license requirement under supplement no. 4 to part 746 to use the HTS-6 Code column instead of the HTS Description column.

Prior to this rule, the supplement no. 4 to part 746 introductory text specified that the HTS Description column is determinative in identifying the items that require a license under § 746.5(a)(1)(ii). BIS determined that in making changes to align the EAR's controls in this supplement with those imposed by U.S. allies and partners, it would be preferable from a consistency and precision perspective to make the HTS-6 Code, as opposed to the HTS Description, be the determinative factor in assessing licensing obligations under § 746.5(a)(1)(ii). While using the HTS-6 Code instead of the HTS Description may result in some additional items being subject to the license requirements under § 746.5(a)(1)(ii), as a general matter, using the HTS-6 column will make it easier for exporters, reexporters, and transferors to understand and comply with these controls. This revision may also facilitate the licensing of these items by BIS. The use of the HTS-6 Code to identify the items subject to the license requirement under § 746.5(a)(1)(ii) will also help to improve the effectiveness of enforcement-related activities because it will be easier for BIS and other U.S. Government enforcement officials to identify items that require a license under supplement no. 4 to part 746 due to the fact that if there is a match between an HTS-6 Code in the Electronic Export Information (EEI) data filed in the Automated Export System (AES) and an HTS-6 Code identified under supplement no. 4 to part 746, a license will be required for the export of the item at issue.

d. Clarifications to the supplement no. 4 to part 746 introductory text to specify how the HTS-6 Codes relate to other information in the table, as well as to content referring to other HTS Codes that are longer but derived from HTS-6 Codes.

Similar to the clarifications described above to the supplement no. 2 to part 746 introductory text, this rule revises paragraph (b) under the supplement no. 4 to part 746 introductory text to clarify that that HTS Description is included as a column heading under the table to assist exporters with their AES filing responsibilities, as well as to provide them with clarity regarding the types of items that fall under specific HTS-6 Codes. This rule also adds a sentence to specify that the HTS-6 Code governs in determining the license requirement. As with the example provided above for supplement no. 2 to part 746 where an exporter believes more than one HTS Description may apply to their item, the HTS-6 Code governs the license requirements for the items set forth in supplement no. 4 to part 746. Lastly, this rule adds a sentence to new paragraph (b) to clarify that the license requirements extend to HTS Codes at the 8 and 10 digit level when those HTS-8 and HTS-10 codes begin with the HTS-6 Codes as their first 6 numbers. This text is intended to prevent an exporter from identifying an item at the 8 or 10 digit level as a way to try to evade these controls. If the 8 or 10 digit code begins with the six numbers of one of the HTS-6 Codes in the table, it will require a license under § 746.5(a)(1)(i).

BIS estimates these changes to supplement no. 4 to part 746 will result in an additional 10 license applications submitted to BIS annually.

3. Expansion of Russian and Belarusian Industry Sector Sanctions Under Supplement No. 6 to Part 746 To Add Additional Items To Align With Controls Imposed by U.S. Partners and Allies and Make Other Changes To Render the Controls Stronger, More Effective, and Easier To Understand

In supplement no. 6 to part 746, this rule expands the list of items that require a license under § 746.5(a)(1)(iii) to better align these Russian and Belarusian Russian Industry Sector Sanctions with the U.S. allies' and partners' controls. This rule also makes certain clarifying changes to facilitate understanding of the controls, such as adding explanatory notes. Specifically, this rule makes the following changes to supplement no. 6 to part 746:

a. Under paragraph (c), by expanding the scope of the paragraph to add `thiafentanil' as an additional chemical to align with controls imposed by U.S. allies and partners on the same chemical.

b. Under paragraph (e), this rule makes the following changes:

Under paragraph (e)(4) this rule clarifies the scope of items controlled by adding the words “isolated or purified' before the references to nucleotides and oligonucleotides and by adding an `and' between the terms nucleotides and oligonucleotides. This rule also deletes the phrase `and reagents for oligonucleotide synthesis' and the `or' at the end of the paragraph. These words are no longer needed because of the greater specificity that has been added by the other changes to this paragraph. Additionally, due to the addition of new paragraphs (e)(6) and (7), the `or' is no longer needed between paragraphs (e)(4) and (5).

Under paragraph (e)(5), this rule clarifies the scope of items controlled by adding the words “isolated or purified' before amino acids, peptides, and proteins. This rule also adds an `and' between the terms peptides and proteins and deletes the phrase `and resins and reagents for peptide synthesis at the end of the paragraph. This deletion is being made in light of the greater specificity that has been added with the other changes to paragraph (e)(5).

This rule adds a new paragraph (e)(6) to control reagents and materials for oligonucleotide synthesis, n.e.s. This rule also adds a new paragraph (e)(7) to control resins, reagents, and materials for peptide synthesis under the Russian and Belarusian Industry Sector Sanctions set forth in § 746.5(a)(1)(iii). These expansions are made to align with the U.S. allies' and partners' controls on these items and to further strengthen the EAR's controls.

c. Under paragraph (f), this rule makes the following changes:

Under paragraph (f)(1), this rule removes the term `fermenters' because it is not needed for defining the scope of the control, as fermenters are listed under paragraph (f)(12) of this rule. This change is made to align this control with the controls imposed by the U.S. allies and partners and to make it easier for exporters to understand the scope of the control.

Under paragraph (f)(2), this rule removes the phrase `in which all surfaces that come into direct contact with the chemicals being processed are made from controlled materials' and in its place adds the broader term `n.e.s.' This phrase was removed because the words `controlled materials' was confusing from a compliance perspective. Under paragraph (f)(3), this rule adds the term “components” to the scope of the control and adds quotes around the terms “parts” and “accessories” to clarify that these terms are defined terms under the EAR. This clarification addresses questions that BIS has received from exporters regarding whether consumables are captured under paragraph (f)(3). As described below, this rule adds a note to paragraph (f) to specify that “components, parts, and accessories” include consumables.

Under paragraph (f)(10), this rule expands the scope of the control by adding `and microarrays' after well plates. This term is added to better achieve the intended scope of the control and to strengthen it.

Under paragraph (f)(13), this rule clarifies the scope of the paragraph by adding the term “and ultracentrifuges” and by adding quotes around the EAR-defined terms “components” and “accessories.” Biological sample separation capabilities capture `ultracentrifuges' as well as `centrifuges.' The addition of the term `ultracentrifuges' will make the scope of the control parameter clearer.

Under paragraphs (f)(14) through (17), this rule expands their scope by adding the defined EAR terms “components,” “parts,” and “accessories.” These terms are added to better achieve the intended scope of these controls, to better align them with U.S. allies' and partners' controls, and to strengthen the EAR's controls. In addition, under paragraph (f)(16), this rule adds the term `and qPCR' to clarify that these types of instruments are caught under the control parameter in addition to Polymerase chain reaction (PCR) instruments. While `qPCR' instruments already fell under the scope of the paragraph (e)(16) control parameter, this added text will make it clearer and better align with the U.S. allies' and partners' controls, which reference the term `qPCR.'

Under paragraph (f)(18), this rule adds quotes around the EAR-defined terms “components,” “parts,” and “accessories” and adds the term “n.e.s.' to clarify the scope of this control parameter.

Under paragraph (f)(19), this rule expands the scope of the paragraph by adding the EAR-defined terms “components,” “parts,” and “accessories.” These terms are added to better achieve the intended scope of these controls and strengthen them, as well as better align them with U.S. allies' and partners' controls.

Under paragraph (f)(22), this rule removes the word `or' because it is no longer needed with the addition of new paragraphs (f)(24) through (27) described below.

Under paragraph (f)(23), this rule expands the scope of the paragraph by adding the EAR-defined terms “parts” and “accessories,” as well as adding term `n.e.s.' These terms are added to better achieve the intended scope of these controls and strengthen them, as well as better align them with U.S. allies' and partners' controls.

This rule adds a new paragraph (f)(24) to control “microreactors, n.e.s.” This rule adds a new paragraph (f)(25) to control `solid and liquid aerosol generating equipment, n.e.s.'; a new paragraph (f)(26) to control `laboratory milling equipment, “components,” “parts,” and “accessories,” n.e.s.'; and a new paragraph (f)(27) to control `peptide synthesizers, “components,” “parts,” and “accessories.” These expansions are made to align BIS's controls with the controls that U.S. allies and partners have imposed on these items and to strengthen them.

As mentioned above, this rule also adds a new Note 6 to paragraph (f). The new note clarifies that consistent with the definitions in part 772 of the EAR, “components,” “parts,” and “accessories” include consumables. The clarifications to paragraph (f), along with the new Note 6 to paragraph (f), will clarify that consumables are within the scope of the control parameters.

Lastly, under paragraph (f)(23), this rule revises Technical Note 1 to paragraph (f)(23) to specify that consistent with EU List X.B.X.001, for purposes of paragraph (f)(23), `continuous flow reactors' consist of plug and play systems. This revised technical note clarifies that these are plug and play systems in which reactants are continuously fed into the reactor and the resultant product is collected at the outlet.

BIS estimates these changes to supplement no. 2 to part 746 will result in an additional 10 license applications submitted to BIS annually.

4. Expansion of `Luxury Goods' Sanctions To Add Additional Items To Supplement No. 5 to Part 746 To Align With U.S. Allies' and Partners' `Luxury Goods' Controls and Strengthen the EAR's Controls

In supplement no. 5 to part 746—`Luxury Goods' Sanctions for Russia and Belarus Pursuant to § 746.10(a)(1) and (2), this rule expands the scope of the `Luxury Goods' Sanctions by adding two hundred and seventy-six additional entries that will require a license for export or reexport to or transfers within Russia or Belarus and for designated Russian and Belarusian oligarchs and malign actors worldwide under § 746.10(a)(1) and (2). The restrictions on these additional items are intended to impose additional costs on Russians and Belarusians supporting the Russian government's invasion of Ukraine. The items this rule adds include a variety of `luxury goods.' The addition of these items will strengthen BIS's controls under the EAR and also align them with the controls imposed by U.S. allies and partners on these items.

BIS estimates these changes to supplement no. 5 to part 746 will result in an additional 15 license applications submitted to BIS annually.

5. Alignment Changes To Supplement No. 3 to Part 746 of the EAR To Add Taiwan

As noted above, in response to Russia's February 2022 invasion of Ukraine and Belarus's s complicity in the invasion, BIS imposed extensive export controls on Russia and Belarus under the EAR. However, certain of the new licensing requirements pertaining to foreign-produced items under § 746.8 do not apply to countries that have committed to implementing substantially similar export controls on Russia and Belarus under their domestic laws. These countries are listed in supplement no. 3. to part 746 of the EAR. Pursuant to § 746.8(a)(5) of the EAR, countries that have made such a commitment receive full or partial exclusions, as appropriate, from the Foreign Direct Product rules' license requirements set forth under § 746.8(a)(2) and (3), as well as under § 746.7(a)(1)(iii), as a result of a revision included in another rule published in today's Federal Register that revised supplement no. 3 to part 746 as described further below. Similarly, in the case of such “excluded” countries, the license requirements in § 746.8(a)(1) are not used to determine U.S.-origin controlled content under the EAR's de minimis rules, as set forth in supplement no. 2 to part 734 of the EAR, provided that the criteria in § 746.8(a)(5)(i) and (ii) are met.

Pursuant to the Russia Sanctions rule, 32 countries were added to new supplement no. 3. In March 2022, BIS published a rule that added South Korea to the list of countries,¹ and in April 2022, it published a rule that added Iceland, Liechtenstein, Norway, and Switzerland to the list.² Taiwan has implemented measures on Russia and Belarus that are substantially similar to those imposed by BIS. In this rule, in recognition of Taiwan's implementation of such measures, BIS is adding Taiwan to supplement no. 3 to part 746 of the EAR with the designation of “full.”

¹ 87 FR 13627 (Mar. 10, 2022).

² 87 FR 21554 (Apr. 12, 2022).

Lastly, this rule makes a conforming change to the heading of supplement no. 3 to part 746 to conform with a revision that is being made by another final rule published in today's issue of the Federal Register, Export Control Measures on Iran Under the Export Administration Regulations (EAR) to Address Iranian Unmanned Aerial Vehicles (UAV) and Their Use by Russia Against Ukraine, that is revising the heading of supplement no. 3 to part 746.

B. Corrections and Clarifications to Existing Controls on Russian and Belarus

BIS estimates the changes described in Section B of this final rule will not result in the submission of any additional license applications to BIS. Some of the clarifications this rule makes were also described above under Section A where the clarifications and expansions were being made to the same EAR section or supplement. The corrections and clarifications under Section B do not include expansion of the controls, which includes the clarifications to § 744.7.

1. Clarification That § 744.7 Also Extends to Transfers (In-Country), in Addition to Exports and Reexports

In § 744.7, this rule adds the term “transfer (in-country)” wherever the terms “exports” and “reexports” occur to clarify that the license requirements of this section also apply to transfers (in-country). BIS is making this clarification as part of this rule due to the increased importance of this part 744 end-use control for imposing license requirements for Russian and Belarusian aircraft and vessels. In addition, BIS has received a number of questions recently from the public on whether the controls extend to transfers (in-country). These questioners have typically requested confirmation that their understanding is correct that the § 744.7 requirements included transfers (in-country), indicating that there is not a misunderstanding of this provision by the exporting community. However, to provide further guidance to exporters and to help further strengthen understanding and compliance with the Russia and Belarus sanctions related to items being exported, reexported, transferred (in-country) to such aircraft or vessels, this rule adds transfer (in-country) to § 744.7.

2. Clarification That the Exclusion for Items Controlled Under ECCN 5A992 or 5D992 Under § 746.8 Also Applies to `Luxury Goods Sanctions' License Requirements Under § 746.10(a)(1)

In § 746.10 (`Luxury goods' sanctions against Russia and Belarus and Russian and Belarusian oligarchs and malign actors), this rule adds introductory text to paragraph (a) to clarify that the same exclusion for ECCNs 5A992 or 5D992 under § 746.8(a) introductory text also applies to the `luxury goods' sanctions under § 746.10(a)(1). This exclusion text is added to ensure that the `luxury goods' license requirements under § 746.10(a)(1) do not undermine the scope of the ECCNs 5A992 and 5D992 exclusion under § 746.8 because certain items under supplement no. 5 to part 746 are also classified under ECCNs 5A992 or 5D992, which effectively negates some of the exclusion under § 746.8. This rule addresses this by adding the same exclusion text for ECCNs 5A992 and 5D992, so that the license requirement under § 746.10(a)(1) does not impose a separate license requirement on items that are within the scope of the exclusion text in § 746.8.

3. Conforming Changes to the Licensing Policies Under §§ 746.5, 746.8, and 746.10 and Addition of Case-by-Case License Review Policy for Applications for the Disposition of Items Needed as Part of Companies Curtailing or Closing All Operations in Russia or Belarus

In §§ 746.5, 746.8, and 746.10, this rule makes two changes to the license review policies of these sections to make conforming changes and to add one additional case-by-case license review policy.

a. Conforming changes to the license review policies in §§ 746.5, 746.8, and 746.10.

In §§ 746.5(b)(1) and (2) and 746.10(b), this rule makes conforming changes to each of the licensing policies to conform to the structure of the licensing policy paragraph under § 746.8(b). This rule does so by revising each of the sentences that specifies the policy of denial license review policy by adding a period and then adding a new sentence adding the same case-by-case license review policy text to §§ 746.5(b)(1) and (2) and 746.10(b), as is currently found in § 746.8(b). These changes also specify that license applications under those sections, will be reviewed on a case-by-case basis to determine whether the transaction in question would benefit the Russian or Belarusian government or defense sector.

b. Addition of case-by-case license review policy for applications for the disposition of items by companies curtailing or closing all operations in Russia or Belarus.

In §§ 746.5(b)(1) and (2), 746.8(b), and 746.10(b), this rule adds a new case-by-case license review policy for applications for the disposition of items by companies not headquartered in Country Group D:1, D:5, E:1 or E:2 that are curtailing or closing all operations in Russia or Belarus. Companies deciding to curtail or close all operations in Russia put further pressure on the Russian government and on the Russian and Belarusian defense industrial base, as their departure will hollow out both countries' industrial capacity and economy, which may lead to further degradation of their defense industrial base. BIS encourages companies to exit the Russian and Belarusian markets and is making these changes to facilitate such decisions. In curtailing or closing operations in Russia or Belarus, many companies and other entities have encountered difficulties, such as issues related to the disposition of items subject to the EAR that may be too large or cost-prohibitive to remove from Russia. The new case-by-case license review policy added by this rule will facilitate the orderly exit of companies and entities from Russia and Belarus in a manner consistent with U.S. national security and foreign policy interests. As discussed above, BIS will review such license application to determine whether the disposition of these items will benefit the Russian or Belarusian government or military.

Savings Clause

For the changes being made in this final rule, shipments of items removed from eligibility for a License Exception or export, reexport, or transfer (in-country) without a license (NLR) as a result of this regulatory action that were en route aboard a carrier to a port of export, reexport, or transfer (in-country), on February 24, 2023, pursuant to actual orders for export, reexport, or transfer (in-country) to or within a foreign destination, may proceed to that destination under the previous eligibility for a License Exception or export, reexport, or transfer (in-country) without a license (NLR), provided the export, reexport, or transfer (in-country) is completed no later than on March 27, 2023.

Export Control Reform Act of 2018

On August 13, 2018, the President signed into law the John S. McCain National Defense Authorization Act for Fiscal Year 2019, which included the Export Control Reform Act of 2018 (ECRA) (codified, as amended, at 50 U.S.C. 4801-4852). ECRA provides the legal basis for BIS's principal authorities and serves as the authority under which BIS issues this rule. To the extent it applies to certain activities that are the subject of this rule, the Trade Sanctions Reform and Export Enhancement Act of 2000 (TSRA) (codified, as amended, at 22 U.S.C. 7201-7211) also serves as authority for this rule.

Rulemaking Requirements

1. This final rule is not a “significant regulatory action” because it “pertain[s]” to a “military or foreign affairs function of the United States” under sec. 3(d)(2) of Executive Order 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number.

This rule involves the following OMB-approved collections of information subject to the PRA:

• 0694-0088, “Multi-Purpose Application,” which carries a burden hour estimate of 29.4 minutes for a manual or electronic submission;

• 0694-0096 “Five Year Records Retention Period,” which carries a burden hour estimate of less than 1 minute; and

• 0607-0152 “Automated Export System (AES) Program,” which carries a burden hour estimate of 3 minutes per electronic submission.

BIS estimates that these new controls on Russia and Belarus under the EAR will result in an increase of 37 license applications submitted annually to BIS. However, the additional burden falls within the existing estimates currently associated with these control numbers. Additional information regarding these collections of information—including all background materials—can be found at https://www.reginfo.gov/public/do/PRAMain by using the search function to enter either the title of the collection or the OMB Control Number.

3. This rule does not contain policies with federalism implications as that term is defined in Executive Order 13132.

4. Pursuant to section 1762 of the Export Control Reform Act of 2018 (50 U.S.C. 4821) (ECRA), this action is exempt from the Administrative Procedure Act (APA) (5 U.S.C. 553) requirements for notice of proposed rulemaking, opportunity for public participation, and delay in effective date. While section 1762 of ECRA provides sufficient authority for such an exemption, this action is also independently exempt from these APA requirements because it involves a military or foreign affairs function of the United States (5. U.S.C. 553(a)(1)).

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects

15 CFR Part 744

Exports, Reporting and recordkeeping requirements, Terrorism.

15 CFR Part 746

Exports, Reporting and recordkeeping requirements.

For the reasons stated in the preamble, parts 744 and 746 of the Export Administration Regulations (15 CFR parts 730 through 774) are amended as follows:

PART 744—CONTROL POLICY: END USE AND END USER CONTROLS

1. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Section 744.7 is amended by revising paragraphs (a) introductory text, (b)(1) introductory text, and (b)(2) introductory text to read as follows:

§ 744.7 Restrictions on certain exports to and for the use of certain foreign vessels or aircraft.

(a) General end-use prohibition. In addition to the license requirements for items specified on the CCL, you may not export, reexport, or transfer (in-country) an item subject to the EAR to, or for the use of, a foreign vessel or aircraft, whether an operating vessel or aircraft or one under construction, located in any port including a Canadian port, unless a License Exception or NLR permits the shipment to be made:

* * * * *

(b) Exception for U.S. and Canadian carriers. (1) Exception to general end-use prohibition. Notwithstanding the general end-use prohibition in paragraph (a) of this section, export, reexport, and transfer (in-country) may be made of the commodities described in paragraph (b)(3) of this section, for use by or on a specific vessel or plane of U.S. or Canadian registry located at any seaport or airport outside the United States or Canada except a port in Country Group D:1 (excluding the PRC), (see supplement no. 1 to part 740) provided that such commodities are all of the following:

* * * * *

(2) Exports to U.S. or Canadian Airline's Installation or Agent. Exports, reexports, and transfers (in-country) of the commodities described in paragraph (e) of this section, except fuel, may be made to a U.S. or Canadian airline's installation or agent in any foreign destination except Country Group D:1 (excluding the PRC), (see supplement no. 1 to part 740) provided such commodities are all of the following:

* * * * *

PART 746—EMBARGOES AND OTHER SPECIAL CONTROLS

3. The authority citation for 15 CFR part 746 is revised to read as follows:

Authority: 50 U.S.C. 4801-4852; 50 U.S.C. 4601 et seq.; 50 U.S.C. 1701 et seq.; 22 U.S.C. 287c; Sec 1503, Pub. L. 108-11, 117 Stat. 559; 22 U.S.C. 2151 note; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 66 FR 44025, 3 CFR, 2001 Comp., p. 783; E.O. 13338, 69 FR 26751, 3 CFR, 2004 Comp., p 168; Presidential Determination 2003-23, 68 FR 26459, 3 CFR, 2004 Comp., p. 320; Presidential Determination 2007-7, 72 FR 1899, 3 CFR, 2006 Comp., p. 325; Notice of May 9, 2022, 87 FR 28749 (May 10, 2022).

4. Section 746.5 is amended by revising paragraph (b) to read as follows:

§ 746.5 Russian and Belarusian Industry Sector Sanctions.

* * * * *

(b) Licensing policy. (1) Applications for the export, reexport, or transfer (in-country) of any item pursuant to paragraph (a)(1)(i) of this section that requires a license for Russia or Belarus will be reviewed under a policy of denial when for use directly or indirectly for exploration or production from deepwater (greater than 500 feet), Arctic offshore, or shale projects in Russia or Belarus that have the potential to produce oil or gas. The following types of license applications will be reviewed on a case-by-case basis to determine whether the transaction in question would benefit the Russian or Belarusian government or defense sector: applications for export, reexport, or transfer (in-country) of items that may be necessary for health and safety reasons and applications for the disposition of items by companies not headquartered in Country Group D:1, D:5, E:1 or E:2 in supplement no. 1 to part 740 that are curtailing or closing all operations in Russia or Belarus.

(2) Applications for the export, reexport, or transfer (in-country) of any item pursuant to paragraph (a)(1)(ii) or (iii) of this section that requires a license for Russia or Belarus will be reviewed under a policy of denial. The following types of license applications will be reviewed on a case-by-case basis to determine whether the transaction in question would benefit the Russian or Belarusian government or defense sector: applications for export, reexport, or transfer (in-country) of items that may be necessary for health and safety reasons; applications for items that meet humanitarian needs; and applications for the disposition of items by companies not headquartered in Country Group D:1, D:5, E:1 or E:2 in supplement no. 1 to part 740 that are curtailing or closing all operations in Russia or Belarus.

* * * * *

5. Section 746.8 is amended by revising paragraph (b) to read as follows:

§ 746.8 Sanctions against Russia and Belarus.

* * * * *

(b) Licensing policy. With limited exceptions, applications for the export, reexport, or transfer (in-country) of any item that requires a license pursuant to the requirements of this section will be reviewed with a policy of denial. The following types of license applications for licenses required under paragraphs (a)(1) and (2) of this section will be reviewed on a case-by-case basis to determine whether the transaction in question would benefit the Russian or Belarusian government or defense sector: applications related to safety of flight; applications related to maritime safety; applications for civil nuclear safety; applications to meet humanitarian needs; applications that support government space cooperation; applications for items destined to wholly-owned U.S. subsidiaries, branches, or sales offices, foreign subsidiaries, branches, or sales offices of U.S. companies that are joint ventures with other U.S. companies, joint ventures of U.S. companies with companies headquartered in countries from Country Group A:5 and A:6 in supplement no. 1 to part 740 of the EAR, the wholly-owned subsidiaries, branches, or sales offices of companies headquartered in countries from Country Group A:5 and A:6 in supplement no. 1 to part 740, joint ventures of companies headquartered in Country Groups A:5 and A:6 with other companies headquartered in Country Groups A:5 and A:6; applications for companies headquartered in Country Groups A:5 and A:6 to support civil telecommunications infrastructure; applications for government-to-government activities; and applications for the disposition of items by companies not headquartered in Country Group D:1, D:5, E:1 or E:2 in supplement no. 1 to part 740 that are curtailing or closing all operations in Russia or Belarus. License applications required under paragraph (a)(3) of this section will be reviewed under a policy of denial in all cases.

* * * * *

6. Section 746.10 is amended by adding paragraph (a) introductory text and revising paragraph (b) to read as follows:

§ 746.10 `Luxury Goods' Sanctions Against Russia and Belarus and Russian and Belarusian Oligarchs and Malign Actors.

(a) License requirements. For purposes of paragraphs (a)(1) of this section, commodities and software classified under ECCNs 5A992 or 5D992 that have been `classified in accordance with § 740.17' do not require a license to or within Russia or Belarus for civil end-users that are wholly-owned U.S. subsidiaries, branches, or sales offices, foreign subsidiaries, branches, or sales offices of U.S. companies that are joint ventures with other U.S. companies, joint ventures of U.S. companies with companies headquartered in countries from Country Group A:5 and A:6 in supplement no. 1 to part 740 of the EAR, the wholly-owned subsidiaries, branches, or sales offices of companies headquartered in countries from Country Group A:5 and A:6 in supplement no. 1 to part 740, or joint ventures, branches, or sales offices of companies headquartered in Country Group A:5 and A:6 with other companies headquartered in Country Groups A:5 and A:6. In addition, for purposes of paragraphs (a)(1) and (2), transfers within Russia or Belarus for reexports (i.e., return) to the United States or a country in Country Group A:5 or A:6 of any item, provided the owner retains title to and control of the item at all times, do not require a license. If a license is required for a reexport to a Country Group A:5 or A:6 country from Russia or Belarus, a separate EAR authorization is required to authorize the reexport.

* * * * *

(b) Licensing policy. Applications for the export, reexport, or transfer (in-country) of any item that requires a license for pursuant to the requirements of this section will be reviewed with a policy of denial. The following types of license applications will be reviewed on a case-by-case basis to determine whether the transaction in question would benefit the Russian or Belarusian government or defense sector: applications involving items to meet humanitarian needs and applications for the disposition of items by companies not headquartered in Country Group D:1, D:5, E:1 or E:2 in supplement no. 1 to part 740 that are curtailing or closing all operations in Russia or Belarus. The case-by-case license application review policy for items to meet humanitarian needs is included to address certain `luxury goods' items that may be used in medical devices or situations in which a case-by-case analysis is needed to determine whether a license application should be approved to meet humanitarian needs while also taking into account the applicable broader U.S. national security and foreign policy concerns.

* * * * *

7. Supplement No. 2 to part 746 is revised to read as follows:

Supplement No. 2 to Part 746—Russian and Belarusian Industry Sector Sanction List Pursuant to § 746.5(a)(1)(i)

(a) The source for the Harmonized Tariff Schedule (HTS)-6 codes and descriptions in this list comes from the United States International Trade Commission (USITC's) Harmonized Tariff Schedule of the United States (2023). The items described in supplement no. 2 to part 746 include any modified or designed “components,” “parts,” “accessories,” and “attachments” therefor regardless of the HTS Code or HTS Description of the “components,” “parts,” “accessories,” and “attachments,” apart from any “part” or minor “component” that is a fastener (e.g., screw, bolt, nut, nut plate, stud, insert, clip, rivet, pin), washer, spacer, insulator, grommet, bushing, spring, wire, or solder. This supplement includes two columns consisting of the HTS Code and HTS Description to assist exporters, reexporters, and transferors in identifying the products in this supplement. For information on HTS codes in general, you may contact a local import specialist at U.S. Customs and Border Protection at the nearest port. HTS-6 codes 841350, 841360, 842139, 843049, 843139, and 847989 are listed in both this supplement and supplement no. 4 to this part, so exporters, reexporters, and transferors must comply with the license requirements under both § 746.5(a)(1)(i) and (ii) as applicable.

(b) The items identified in the HTS-6 Code column of this supplement are subject to the license requirement under § 746.5(a)(1)(i). The other column—HTS Description—is intended to assist exporters with their Automated Export System (AES) filing responsibilities. The license requirements apply to HTS Codes at the 8 and 10 digit level (HTS-8 and HTS-10 Codes, respectively) when such longer HTS codes begin with the HTS-6 Codes as their first 6 numbers.

HTS-6 code | HTS description
730411 | LINE PIPE FOR OIL AND GAS PIPELINES, OF STAINLESS STEEL.
730419 | LINE PIPE FOR OIL AND GAS PIPELINES, OF SEAMLESS IRON (OTHER THAN CAST IRON) OR STEEL, NES.
730422 | DRILL PIPE OF A KIND USED IN DRILLING FOR OIL OR GAS, OF STAINLESS STEEL.
730423 | DRILL PIPE OF A KIND USED IN DRILLING FOR OIL OR GAS, OF IRON (EXCEPT CAST IRON) OR STEEL. NES.
730424 | CASING & TUBING USED IN DRILLING FOR OIL OR GAS, OTHER OF STAINLESS STEEL.
730429 | CASING AND TUBING OF A KIND USED IN DRILLING FOR OIL OR GAS, OF IRON (EXCEPT CAST IRON) OR STEEL.
730511 | LINE PIPE FOR OIL OR GAS PIPELINES, EXTERNAL DIAMETER OVER 406.4 MM (16 IN.), OF IRON OR STEEL, LONGITUDINALLY SUBMERGED ARC WELDED.
730512 | LINE PIPE FOR OIL OR GAS PIPELINES, EXTERNAL DIAMETER OVER 406.4 MM (16 IN.), OF IRON OR STEEL, LONGITUDINALLY WELDED NESOI.
730519 | LINE PIPE FOR OIL OR GAS PIPELINES, EXTERNAL DIAMETER OVER 406.4 MM (16 IN.), OF IRON OR STEEL, RIVETED OR SIMILARLY CLOSED NESOI.
730520 | CASING FOR OIL OR GAS DRILLING, EXTERNAL DIAMETER OVER 406.4 MM (16 IN.), OF IRON OR STEEL.
730611 | LINE PIPE FOR OIL OR GAS PIPELINES, WELDED, OF STAINLESS STEEL, NESOI.
730619 | LINE PIPE FOR OIL OR GAS PIPELINES, OF IRON OR STEEL, NESOI.
731100 | CONTAINERS FOR COMPRESSED OR LIQUEFIED GAS, OF IRON OR STEEL.
761300 | ALUMINUM CONTAINERS FOR COMPRESSED OR LIQUEFIED GAS.
820713 | ROCK DRILLING OR EARTH BORING TOOLS WITH WORKING PART OF CERMETS, AND PARTS THEREOF.
820719 | INTERCHANGEABLE TOOLS FOR HANDTOOLS, WHETHER OR NOT POWER-OPERATED, OR FOR MACHINE-TOOLS, INCLUDING ROCK DRILLING OR EARTH BORING TOOLS; BASE METL PARTS.
841350 | RECIPROCATING POSITIVE DISPLACEMENT PUMPS, NESOI.
841360 | ROTARY POSITIVE DISPLACEMENT PUMPS, NESOI.
841382 | LIQUID ELEVATORS.
841392 | PARTS OF LIQUID ELEVATORS.
842139 | FILTERING OR PURIFYING MACHINERY AND APPARATUS FOR GASES, NESOI.
843049 | BORING OR SINKING MACHINERY, NESOI, OTHER THAN SELF-PROPELLED.
843139 | PARTS FOR LIFTING, HANDLING, LOADING OR UNLOADING MACHINERY, NESOI.
843143 | PARTS FOR BORING OR SINKING MACHINERY, NESOI.
847989 | MACHINES AND MECHANICAL APPLIANCES HAVING INDIVIDUAL FUNCTIONS, NESOI.
870520 | MOBILE DRILLING DERRICKS.
870899 | PARTS AND ACCESSORIES FOR MOTOR VEHICLES, NESOI.
890520 | FLOATING OR SUBMERSIBLE DRILLING OR PRODUCTION PLATFORMS.
890590 | LIGHT VESSELS, FIRE FLOATS, FLOATING CRANES AND OTHER VESSELS WITH NAVIGABILITY NOT THE MAIN FUNCTION, NESOI; FLOATING DOCKS.

8. Supplement no. 3 to part 746 is amended by revising the heading of the supplement and adding an entry for “Taiwan,” to the table in alphabetical order to read as follows:

Supplement No. 3 to Part 746—Countries Excluded From Certain License Requirements of §§ 746.7 and 746.8

* * * * *

Country | Scope | Federal Register citation
* * * * * * *
Taiwan | Full | 87 FR [INSERT FR PAGE NUMBER], 2/27/2023.
* * * * * * *

9. Supplement No. 4 to part 746 is revised to read as follows:

Supplement No. 4 to Part 746—Russian and Belarusian Industry Sector Sanctions Pursuant to § 746.5(a)(1)(ii)

(a) The source for the Harmonized Tariff Schedule (HTS)-6 codes and descriptions in this list comes from the United States International Trade Commission (USITC's) Harmonized Tariff Schedule of the United States (2023). The items described in supplement no. 4 to part 746 include any modified or designed “components,” “parts,” “accessories,” and “attachments” therefor regardless of the HTS Code or HTS Description of the “components,” “parts,” “accessories,” and “attachments,” apart from any “part” or minor “component” that is a fastener (e.g., screw, bolt, nut, nut plate, stud, insert, clip, rivet, pin), washer, spacer, insulator, grommet, bushing, spring, wire, or solder. This supplement includes two columns consisting of the HTS Code and HTS Description to assist exporters, reexporters, and transferors in identifying the products in this supplement. For information on HTS codes in general, you may contact a local import specialist at U.S. Customs and Border Protection at the nearest port. HTS-6 codes 841350, 841360, 842139, 843049, 843139, and 847989 are listed in both this supplement and supplement no. 2 to this part, so exporters, reexporters, and transferors must comply with the license requirements under both § 746.5(a)(1)(i) and (ii) as applicable.

(b) The items identified in the HTS-6 Code column of this supplement are subject to the license requirement under § 746.5(a)(1)(ii). The other column—HTS Description—is intended to assist exporters with their AES filing responsibilities. The license requirements extend to HTS Codes at the 8 and 10 digit level (HTS-8 and HTS-10 codes, respectively) when such longer HTS Codes begin with the HTS-6 Codes as their first 6 numbers.

HTS-6 code | HTS description
381519 | SUPPORTED CATALYSTS, NESOI.
440810 | VENEER SHEETS AND SHEETS FOR PLYWOOD, ETC. WHETHER OR NOT PLANED, ETC., NOT OVER 6 MM (.236 IN.) THICK, OF CONIFEROUS WOOD.
440890 | VENEER SHEETS AND SHEETS FOR PLYWOOD, ETC. WHETHER OR NOT PLANED, ETC., NOT OVER 6 MM (.236 IN.) THICK, OF NONCONIFEROUS WOOD, NESOI.
441600 | CASKS, BARRELS, VATS, TUBS AND OTHER COOPERS' PRODUCTS AND PARTS THEREOF, OF WOOD, INCLUDING STAVES.
720810 | FLAT-ROLLED PRODUCTS OF IRON OR NONALLOY STEEL, OF A WIDTH OF 600 MM OR MORE, IN COILS, NOT FURTHER WORKED THAN HOT-ROLLED, WITH PATTERNS IN RELIEF.
720825 | FLAT-ROLLED PRODUCTS OF IRON OR NONALLOY STEEL, OF A WIDTH OF 600 MM OR MORE, COILS, HOT-ROLLED WORKED ONLY, PICKLED, THICKNESS 4.75 MM OR MORE, NESOI.
720826 | FLAT-ROLLED PRODUCTS OF IRON OR NONALLOY STEEL, OF A WIDTH OF 600 MM OR MORE, COILS, HOT-ROLLED WORKED ONLY, PICKLED, 3 MM BUT <4.75 MM THICK, N.E.S.O.I.
720827 | FLAT-ROLLED PRODUCTS OF IRON OR NONALLOY STEEL, WIDTH OF 600 MM OR MORE, IN COILS, HOT-ROLLED WORKED ONLY, PICKLED, LESS THAN 3 MM THICK, N.E.S.O.I.
720836 | FLAT-ROLLED PRODUCTS OF IRON OR NONALLOY STEEL, WIDTH OF 600 MM OR MORE IN COILS, HOT-ROLLED WORKED ONLY, OF A THICKNESS EXCEEDING 10 MM, N.E.S.O.I.
720837 | FLAT-ROLLED PRODUCTS OF IRN OR NONALLOY STEEL, WIDTH OF 600 MM OR MORE, IN COILS, HOT-ROLLED WORKED ONLY, OF A THICKNESS 4.75 MM BUT NOT OVER 10 MM NESOI.
720838 | FLAT-ROLLED PRODUCTS OF IRON OR NONALLOY STEEL, WIDTH 600 MM OR MORE, IN COILS,HOT-ROLLED WORKED ONLY, OF A THICKNESS 3 MM OR MORE BUT UNDER 4.75 MM, NESOI.
720839 | FLAT-ROLLED PRODUCTS OF IRON OR NONALLOY STEEL, WIDTH 600 MM OR MORE, IN COILS,HOT-ROLLED WORKED ONLY, OF A THICKNESS OF LESS THAN 3 MM, N.E.S.O.I.
720840 | FLAT-ROLLED IRON OR NONALLOY STEEL, 600 MM OR MORE WIDE, HOT-ROLLED, NOT CLAD, PLATED OR COILS, PATTERNS IN RELIEF.
720851 | FLAT-ROLLED PRODUCTS OF IRON OR NONALLOY STEEL, WIDTH 600 MM OR MORE, NOT IN COILS, HOT-ROLLED WORKED ONLY, OF A THICKNESS EXCEEDING 10 MM, N.E.S.O.I.
720852 | FLAT-ROLLED IRON OR NONALLOY STEEL, 600 MM OR MORE WIDE, HOT-ROLLED, NOT CLAD, PLATED, COATED OR COILS, 4.75 MM TO 10 MM THICK.
720853 | FLAT-ROLLED IRON OR NONALLOY STEEL, 600 MM OR MORE WIDE, HOT-ROLLED, NOT CLAD, PLATED, COATED OR COILS, 3 MM TO UNDER 4.75 MM THICK.
720854 | FLAT-ROLLED IRON OR NONALLOY STEEL, 600 MM OR MORE WIDE, HOT-ROLLED, NOT CLAD, PLATED, COATED OR COILS, LESS THAN 3 MM THICK.
720890 | FLAT-ROLLED IRON OR NONALLOY STEEL PRODUCTS, 600 MM OR MORE WIDE, HOT-ROLLED, NOT CLAD, PLATED OR COATED, NESOI.
720915 | FLAT-ROLLED PRODUCTS OF IRON OR NONALLOY STEEL, WIDTH 600 MM OR MORE, IN COILS, COLD-ROLLED WORKED ONLY, OF A THICKNESS OF 3 MM OR MORE.
720916 | FLAT-ROLLED PRODUCTS OF IRON OR NONALLOY STEEL, WIDTH 600 MM OR MORE, IN COILS, COLD-ROLLED WORKED ONLY, OF A THICKNESS OVER ONE MM BUT LESS THAN 3 MM.
720917 | FLAT-ROLLED PRODUCTS OF IRON OR NONALLOY STEEL, WIDTH 600 MM OR MORE, IN COILS, COLD-ROLLED WORKED ONLY, OF A THICKNESS 0.5 MM OR MORE BUT NOT OVER 1 MM.
720918 | FLAT-ROLLED PRODUCTS OF IRON OR NONALLOY STEEL, WIDTH 600 MM OR MORE, IN COILS, COLD-ROLLED WORKED ONLY, OF A THICKNESS OF LESS THAN 0.5 MM.
720925 | FLAT-ROLLED PRODUCTS OF IRON OR NONALLOY STEEL, WIDTH 600 MM OR MORE, NOT IN COILS, COLD-ROLLED WORKED ONLY, OF A THICKNESS OF 3 MM OR MORE.
720926 | FLAT-ROLLED PRODUCTS OF IRON OR NONALLOY STEEL, WIDTH 600 MM OR MORE, NOT IN COILS, COLD-ROLLED WORKED ONLY, OF A THICKNESS OVER 1 MM BUT LESS THAN 3 MM.
720927 | FLAT-ROLLED PRODUCTS OF IRON OR NONALLOY STEEL, WIDTH 600 MM OR MORE, NOT IN COILS, COLD-ROLLED WORKED ONLY, OF A THICKNESS 0.5 MM OR MORE BUT N/O 1 MM.
720928 | FLAT-ROLLED PRODUCTS OF IRON OR NONALLOY STEEL, WIDTH 600 MM OR MORE, NOT IN COILS, COLD-ROLLED WORKED ONLY, OF A THICKNESS OF LESS THAN 0.5 MM.
720990 | FLAT-ROLLED IRON OR NONALLOY STEEL PRODUCTS, 600 MM OR MORE WIDE, COLD-ROLLED, NOT CLAD, PLATED OR COATED, NESOI.
721011 | FLAT-ROLLED IRON OR NONALLOY STEEL PRODUCTS, 600 MM OR MORE WIDE, PLATED OR COATED WITH TIN, 0.5 MM OR MORE THICK.
721012 | FLAT-ROLLED IRON OR NONALLOY STEEL PRODUCTS, 600 MM OR MORE WIDE, PLATED OR COATED WITH TIN, UNDER 0.5 MM THICK.
721020 | FLAT-ROLLED IRON OR NONALLOY STEEL PRODUCTS, 600 MM OR MORE WIDE, PLATED OR COATED WITH LEAD, INCLUDING TERNE-PLATE.
721030 | FLAT-ROLLED PRODUCTS OF IRON OR NONALLOY STEEL, WIDTH OF 600 MM OR MORE, ELECTROLYTICALLY PLATED OR COATED WITH ZINC.
721041 | FLAT-ROLLED IRON OR NONALLOY STEEL PRODUCTS, CORRUGATED, 600 MM OR MORE WIDE, PLATED OR COATED WITH ZINC OTHER THAN ELECTROLYTICALLY.
721049 | FLAT-ROLLED IRON OR NONALLOY STEEL PRODUCTS, NOT CORRUGATED, 600 MM OR MORE WIDE, PLATED OR COATED WITH ZINC OTHER THAN ELECTROLYTICALLY.
721050 | FLAT-ROLLED IRON OR NONALLOY STEEL PRODUCTS, 600 MM OR MORE WIDE, PLATED OR COATED WITH CHROMIUM OXIDES OR WITH CHROMIUM AND CHROMIUM OXIDES.
721061 | FLAT-ROLLED IRON OR NONALLOY STEEL 600 MM OR MORE, PLATED OR COATED WITH ALUMINUM-ZINC ALLOYS.
721069 | FLAT-ROLLED IRON OR NONALLOY STEEL 600 MM OR MORE, PLATED OR COATED WITH OTHER ALUMINUM.
721070 | FLAT-ROLLED IRON OR NONALLOY STEEL PRODUCTS, 600 MM OR MORE WIDE, PAINTED, VARNISHED OR COATED WITH PLASTICS.
721119 | FLAT-ROLLED HIGH-STRENGTH NONALLLOY STEEL PRODUCTS NESOI, UNDER 600 MM WIDE, HOT-ROLLED, NOT CLAD, PLATED OR COATED, UNDER 4.75 MM THICK.
721123 | FLAT-ROLLED PRODUCTS OF IRON OR NONALLOY STEEL, WIDTH LESS THAN 600 MM, NOT FURTHER WORKED THAN COLD-ROLLED, NOT CLAD, PLATED OR COATED, <0.25% CARBON.
721190 | FLAT-ROLLED IRON OR NONALLOY STEEL PRODUCTS, UNDER 600 MM WIDE, NOT CLAD, PLATED OR COATED, NESOI.
721220 | FLAT-ROLLED PRODUCTS OF IRON OR NONALLOY STEEL, WIDTH OF LESS THAN 600 MM, ELECTROLYTICALLY PLATED OR COATED WITH ZINC.
721230 | FLAT-ROLLED IRON OR NONALLOY STEEL PRODUCTS, UNDER 600 MM WIDE, PLATED OR COATED WITH ZINC OTHER THAN ELECTROLYTICALLY.
721240 | FLAT-ROLLED IRON OR NONALLOY STEEL PRODUCTS, UNDER 600 MM WIDE, PAINTED, VARNISHED OR COATED WITH PLASTICS.
721250 | FLAT-ROLLED IRON OR NONALLOY STEEL PRODUCTS, UNDER 600 MM WIDE, PLATED OR COATED, NESOI.
721911 | FLAT-ROLLED STAINLESS STEEL IN COILS, 600 MM OR MORE WIDE, HOT-ROLLED, OVER 10 MM THICK.
721912 | FLAT-ROLLED STAINLESS STEEL IN COILS, 600 MM OR MORE WIDE, HOT-ROLLED, 4.75 MM BUT NOT OVER 10 MM THICK.
721913 | FLAT-ROLLED STAINLESS STEEL IN COILS, 600 MM OR MORE WIDE, HOT-ROLLED, 3 MM BUT UNDER 4.75 MM THICK.
721914 | FLAT-ROLLED STAINLESS STEEL IN COILS, 600 MM OR MORE WIDE, HOT-ROLLED, UNDER 3 MM THICK.
721921 | FLAT-ROLLED STAINLESS STEEL NOT IN COILS, 600 MM OR MORE WIDE, HOT-ROLLED, OVER 10 MM THICK.
721922 | FLAT-ROLLED STAINLESS STEEL NOT IN COILS, 600 MM OR MORE WIDE, HOT-ROLLED, 4.75 MM BUT NOT OVER 10 MM THICK.
721923 | FLAT-ROLLED STAINLESS STEEL NOT IN COILS, 600 MM OR MORE WIDE, HOT-ROLLED, 3 MM BUT UNDER 4.75 MM THICK.
721924 | FLAT-ROLLED STAINLESS STEEL NOT IN COILS, 600 MM OR MORE WIDE, HOT-ROLLED, UNDER 3 MM THICK.
721931 | FLAT-ROLLED STAINLESS STEEL PRODUCTS, 600 MM OR MORE WIDE, COLD-ROLLED, 4.75 MM OR MORE THICK.
721932 | FLAT-ROLLED STAINLESS STEEL PRODUCTS, 600 MM OR MORE WIDE, COLD-ROLLED, 3 MM BUT UNDER 4.75 MM THICK.
721933 | FLAT-ROLLED STAINLESS STEEL PRODUCTS, 600 MM OR MORE WIDE, COLD-ROLLED, OVER 1 MM BUT UNDER 3 MM THICK.
721934 | FLAT-ROLLED STAINLESS STEEL PRODUCTS, 600 MM OR MORE WIDE, COLD-ROLLED, 0.5 MM BUT NOT OVER 1 MM THICK.
721935 | FLAT-ROLLED STAINLESS STEEL PRODUCTS, 600 MM OR MORE WIDE, COLD-ROLLED, UNDER 0.5 MM THICK.
721990 | FLAT-ROLLED STAINLESS STEEL PRODUCTS, 600 MM OR MORE WIDE, NESOI.
722011 | FLAT-ROLLED STAINLESS STEEL PRODUCTS, UNDER 600 MM WIDE, HOT-ROLLED, 4.75 MM OR MORE THICK.
722012 | FLAT-ROLLED STAINLESS STEEL PRODUCTS, UNDER 600 MM WIDE, HOT-ROLLED, UNDER 4.75 MM THICK.
722020 | FLAT-ROLLED STAINLESS STEEL PRODUCTS, UNDER 600 MM WIDE, COLD-ROLLED.
722090 | FLAT-ROLLED STAINLESS STEEL PRODUCTS, UNDER 600 MM WIDE, NESOI.
722511 | FLAT-ROLLED SILICON ELECTRICAL STEEL 600 MM OR MORE WIDE, GRAIN-ORIENTED.
722540 | FLAT-ROLLED ALLOY STEEL (OTHER THAN STAINLESS) NOT IN COILS, 600 MM OR MORE WIDE, HOT-ROLLED, NESOI.
722550 | FLAT-ROLLED ALLOY STEEL (OTHER THAN STAINLESS) PRODUCTS, 600 MM OR MORE WIDE, COLD-ROLLED, NESOI.
722591 | FLAT-ROLLED ALLOY STEEL NESOI, 600 MM OR MORE WIDE, ELECTROLYTICALLY PLATED OR COATED WITH ZINC.
722592 | FLAT-ROLLED ALLOY STEEL NESOI 600 MM OR MORE WIDE PLATED OR COATED WITH ZINC, NOT ELECTROLYTICALLY.
722611 | FLAT-ROLLED SILICON ELECTRICAL STEEL UNDER 600 MM WIDE, GRAIN-ORIENTED.
722619 | FLAT-ROLLED SILICON ELECTRICAL STEEL UNDER 600 MM WIDE, NOT GRAIN-ORIENTED.
722620 | FLAT-ROLLED HIGH-SPEED STEEL PRODUCTS, UNDER 600 MM WIDE.
722692 | FLAT-ROLLED ALLOY STEEL (OTHER THAN STAINLESS) PRODUCTS, UNDER 600 MM WIDE, COLD-ROLLED, NESOI.
722699 | FLAT-ROLLED ALLOY STEEL (OTHER THAN STAINLESS) PRODUCTS, UNDER 600 MM WIDE, NESOI.
730810 | BRIDGES AND BRIDGE SECTIONS OF IRON OR STEEL.
730820 | TOWERS AND LATTICE MASTS OF IRON OR STEEL.
730830 | DOORS, WINDOWS AND FRAMES AND THRESHOLDS FOR DOORS, OF IRON OR STEEL.
730840 | EQUIPMENT FOR SCAFFOLDING, SHUTTERING PROPPING OR PIT-PROPPING, OF IRON OR STEEL.
730890 | STRUCTURES AND PARTS OF STRUCTURES NESOI, OF IRON OR STEEL.
730900 | RESERVOIRS, TANKS, CASKS, VATS AND SIMILAR CONTAINERS NESOI, OF A CAPACITY OF MORE THAN 300 LITERS (79.25 GAL.), OF IRON OR STEEL.
731010 | TANKS, DRUMS, CANS, AND SIMILAR PLAIN CONTAINERS, A CAPACITY OF 50 LITERS (13.21 GAL.) OR MORE, BUT NOT OVER 300 LITERS (79.25 GAL.), OF IRON OR STEEL.
731021 | CANS, PLAIN, UNFITTED, OF A CAPACITY OF LESS THAN 50 LITERS (13.21 GAL.), WHICH WILL BE CLOSED BY SOLDERING OR CRIMPING, OF IRON OR STEEL.
731029 | TANKS, CASKS, DRUMS, CANS, BOXES AND SIMILAR PLAIN, UNFITTED CONTAINERS NESOI, OF A CAPACITY OF LESS THAN 50 LITERS (13.21 GAL.), OF IRON OR STEEL.
761010 | ALUMINUM DOORS, WINDOWS AND THEIR FRAMES AND THRESHOLDS FOR DOORS.
761090 | ALUMINUM STRUCTURES AND PARTS OF STRUCTURES, NESOI.
761210 | ALUMINUM COLLAPSIBLE TUBULAR CONTAINERS, OF A CAPACITY NOT OVER 300 LITERS (79.30 GAL.).
820760 | TOOLS FOR BORING OR BROACHING, AND PARTS THEREOF, OF BASE METAL.
820810 | KNIVES AND CUTTING BLADES FOR METAL WORKING, AND PARTS THEREOF, OF BASE METAL.
820820 | KNIVES AND CUTTING BLADES FOR WOOD WORKING, AND PARTS THEREOF, OF BASE METAL.
820830 | KNIVES AND CUTTING BLADES FOR KITCHEN APPLIANCES OR FOR MACHINES USED BY THE FOOD INDUSTRY, AND PARTS THEREOF, OF BASE METAL.
820840 | KNIVES AND CUTTING BLADES FOR AGRICULTURAL OR FORESTRY MACHINES, AND PARTS THEREOF, OF BASE METAL.
820890 | KNIVES AND CUTTING BLADES FOR MACHINES OR MECHANICAL APPLIANCES NESOI, AND PARTS THEREOF, OF BASE METAL.
840212 | WATERTUBE BOILERS WITH A STEAM PRODUCTION NOT EXCEEDING 45 T PER HOUR.
840219 | VAPOR GENERATING BOILERS, NESOI, INCLUDING HYBRID BOILERS.
840220 | SUPER-HEATED WATER BOILERS.
840290 | PARTS FOR SUPER-HEATED WATER BOILERS AND STEAM OR OTHER VAPOR GENERATION BOILERS (OTHER THAN CENTRAL HEATING HOT WATER BOILERS).
840410 | AUXILIARY PLANT FOR USE WITH STEAM OR OTHER VAPOR GENERATING BOILERS, SUPER-HEATED WATER BOILERS AND CENTRAL HEATING BOILERS.
840420 | CONDENSERS FOR STEAM OR OTHER VAPOR POWER UNITS.
840490 | PARTS FOR AUXILIARY PLANT FOR USE WITH STEAM OR OTHER VAPOR GENERATING BOILERS AND CONDENSER POWER UNITS, SUPER-HEATED AND CENTRAL HEATING BOILERS.
840510 | PRODUCER GAS AND WATER GAS GENERATORS, ACTYLENE GAS AND SIMILAR WATER PROCESS GAS GENERATORS, WITH OR WITHOUT THEIR PURIFIERS.
840590 | PARTS FOR PRODUCER GAS AND WATER GAS GENERATORS, ACTYLENE GAS AND SIMILAR PROCESS GAS GENERATORS.
840681 | TURBINES, STEAM AND OTHER VAPOR TYPES, OF AN OUTPUT EXCEEDING 40 MW, EXCEPT FOR MARINE PROPULSION.
840682 | TURBINES, STEAM AND OTHER VAPOR TYPES, OF AN OUTPUT NOT EXCEEDING 40 MW, EXCEPT FOR MARINE PROPULSION.
840690 | PARTS FOR STEAM AND OTHER VAPOR TURBINES.
840721 | OUTBOARD ENGINES FOR MARINE PROPULSION.
840729 | INBOARD ENGINES FOR MARINE PROPULSION.
840810 | MARINE COMPRESSION-IGNITION INTERNAL COMBUSTION PISTON ENGINES (DIESEL OR SEMI-DIESEL ENGINES).
840820 | COMPRESSION-IGNITION INTERNAL COMBUSTION PISTON ENGINES (DIESEL OR SEMI-DIESEL), FOR THE PROPULSION OF VEHICLES EXCEPT RAILWAY OR TRAMWAY STOCK.
840890 | COMPRESSION-IGNITION INTERNAL COMBUSTION PISTON ENGINES (DIESEL OR SEMI-DIESEL ENGINES), NESOI.
840999 | PARTS FOR USE WITH COMPRESSION-IGNITION INTERNAL COMBUSTION PISTON ENGINES, NESOI.
841090 | PARTS, INCLUDING REGULATORS, FOR HYDRAULIC TURBINES AND WATER WHEELS.
841111 | TURBOJETS OF A THRUST NOT EXCEEDING 25 KN.
841112 | TURBOJETS OF A THRUST EXCEEDING 25 KN.
841121 | TURBOPROPELLERS OF A POWER NOT EXCEEDING 1,100 KW.
841122 | TURBOPROPELLERS OF A POWER EXCEEDING 1,100 KW.
841191 | PARTS OF TURBOJETS OR TURBOPROPELLERS.
841210 | REACTION ENGINES OTHER THAN TURBOJETS.
841221 | HYDRAULIC POWER ENGINES AND MOTORS, LINEAR ACTING (CYLINDERS).
841229 | HYDRAULIC POWER ENGINES AND MOTORS, EXCEPT LINEAR ACTING (CYLINDERS).
841239 | PNEUMATIC POWER ENGINES AND MOTORS, EXCEPT LINEAR ACTING (CYLINDERS).
841280 | ENGINES AND MOTORS, NESOI.
841311 | PUMPS FOR DISPENSING FUEL OR LUBRICANTS, OF A TYPE USED IN FILLING-STATIONS OR GARAGES.
841319 | PUMPS FITTED OR DESIGNED TO BE FITTED WITH A MEASURING DEVISE, NESOI.
841330 | FUEL, LUBRICATING OR COOLING MEDIUM PUMPS FOR INTERNAL COMBUSTION PISTON ENGINES.
841350 | RECIPROCATING POSITIVE DISPLACEMENT PUMPS, NESOI.
841360 | ROTARY POSITIVE DISPLACEMENT PUMPS, NESOI.
841381 | PUMPS FOR LIQUIDS, NESOI.
841410 | VACUUM PUMPS.
841490 | PARTS FOR AIR OR VACUUM PUMPS, AIR OR OTHER GAS COMPRESSORS AND FANS; PARTS OF VENTILATING OR RECYCLING HOODS INCORPORATING A FAN, NESOI.
841520 | AUTOMOTIVE AIR CONDITIONERS.
841583 | AIR CONDITIONING MACHINES NESOI, NOT INCORPORATING A REFRIGERATING UNIT.
841610 | FURNACE BURNERS FOR LIQUID FUEL.
841620 | FURNACE BURNERS FOR PULVERIZED SOLID FUEL OR FOR GAS, INCLUDING COMBINATION BURNERS.
841630 | MECHANICAL STOKERS INCLUDING THEIR MECHANICAL GRATES, MECHANICAL ASH DISCHARGERS AND SIMILAR APPLIANCES.
841690 | PARTS OF FURNACE BURNERS FOR LIQUID FUEL, PULVERIZED SOLID FUEL OR GAS; PARTS OF MECHANICAL STOKERS, GRATES, ASH DISCHARGERS AND SIMILAR APPLIANCES.
841720 | BAKERY OVENS, INCLUDING BISCUIT OVENS, NONELECTRIC.
841861 | COMPRESSION TYPE HEAT PUMP UNITS WHOSE CONDENSERS ARE HEAT EXCHANGERS (EXCLUDING REVERSIBLE HEAT PUMPS CAPABLE OF CHANGING TEMPERATURE AND HUMIDITY).
841869 | REFRIGERATING OR FREEZING EQUIPMENT, NESOI.
841919 | INSTANTANEOUS OR STORAGE WATER HEATERS, EXCEPT INSTANTANEOUS GAS WATER HEATERS, NONELECTRIC.
841940 | DISTILLING OR RECTIFYING PLANT.
841950 | HEAT EXCHANGE UNITS, INDUSTRIAL TYPE.
841960 | MACHINERY FOR LIQUEFYING AIR OR OTHER GASES.
841989 | MACHINERY, PLANT OR LABORATORY EQUIPMENT FOR THE TREATMENT OF MATERIAL INVOLVING TEMPERATURE CHANGE (EXCEPT DOMESTIC MACHINERY), NESOI.
841990 | PARTS FOR MACHINERY, PLANT OR LABORATORY EQUIPMENT FOR THE TREATMENT OF MATERIAL INVOLVING TEMPERATURE CHANGE (EXCEPT DOMESTIC MACHINERY), NESOI.
842091 | CYLINDERS FOR CALENDERING OR OTHER ROLLING MACHINES, OTHER THAN FOR METALS OR GLASS.
842099 | PARTS, EXCEPT CYLINDERS, FOR CALENDERING OR OTHER ROLLING MACHINES, OTHER THAN FOR METALS OR GLASS.
842111 | CREAM SEPARATORS, CENTRIFUGAL.
842119 | CENTRIFUGES, INCLUDING CENTRIFUGAL DRYERS (OTHER THAN CLOTHES DRYERS), NESOI.
842123 | OIL OR FUEL FILTERS FOR INTERNAL COMBUSTION ENGINES.
842129 | FILTERING OR PURIFYING MACHINERY AND APPARATUS FOR LIQUIDS, NESOI.
842131 | INTAKE AIR FILTERS FOR INTERNAL COMBUSTION ENGINES.
842139 | FILTERING OR PURIFYING MACHINERY AND APPARATUS FOR GASES, NESOI.
842191 | PARTS OF CENTRIFUGES, INCLUDING CENTRIFUGAL DRYERS.
842199 | PARTS FOR FILTERING OR PURIFYING MACHINERY AND APPARATUS FOR LIQUIDS OR GASES.
842410 | FIRE EXTINGUISHERS, WHETHER OR NOT CHARGED.
842489 | MECHANICAL APPLIANCES FOR PROJECTING, DISPERSING OR SPRAYING LIQUIDS OR POWDERS, NESOI.
842490 | PARTS FOR MECHANICAL APPLIANCES FOR PROJECTING, DISPERSING OR SPRAYING, FIRE EXTINGUISHERS, SPRAY GUNS, AND STEAM OR SAND BLASTING MACHINES.
842511 | PULLEY TACKLE AND HOISTS, OTHER THAN SKIP HOISTS OR HOISTS OF A KIND USED FOR RAISING VEHICLES, POWERED BY ELECTRIC MOTOR.
842531 | WINCHES AND CAPSTANS POWERED BY ELECTRIC MOTORS.
842611 | OVERHEAD TRAVELING CRANES ON FIXED SUPPORT.
842612 | MOBILE LIFTING FRAMES ON TIRES AND STRADDLE CARRIERS.
842619 | OVERHEAD TRAVELING CRANES, TRANSPORTER CRANES, GANTRY AND BRIDGE CRANES, MOBILE LIFTING FRAMES AND STRADDLE CARRIES, NESOI.
842620 | TOWER CRANES.
842630 | PORTAL OR PEDESTAL JIB CRANES.
842641 | DERRICKS, CRANES, NESOI AND WORKS TRUCKS FITTED WITH A CRANE, SELF-PROPELLED, ON TIRES.
842649 | DERRICKS, CRANES, NESOI AND WORKS TRUCKS FITTED WITH A CRANE, SELF-PROPELLED, NOT ON TIRES.
842691 | LIFTING OR HANDLING MACHINERY DESIGNED FOR MOUNTING ON ROAD VEHICLES.
842699 | LIFTING OR HANDLING MACHINERY, NESOI.
842710 | SELF-PROPELLED LIFTING OR HANDLING TRUCKS POWERED BY AN ELECTRIC MOTOR.
842720 | SELF-PROPELLED LIFTING OR HANDLING TRUCKS POWERED BY OTHER THAN AN ELECTRIC MOTOR.
842790 | FORK-LIFT AND OTHER WORKS TRUCKS FITTED WITH LIFTING OR HANDLING EQUIPMENT, OTHER THAN SELF-PROPELLED, NESOI.
842820 | PNEUMATIC ELEVATORS AND CONVEYORS.
842831 | CONTINUOUS-ACTION ELEVATORS AND CONVEYORS, FOR GOODS OR MATERIALS, SPECIALLY DESIGNED FOR UNDERGROUND USE.
842832 | CONTINUOUS-ACTION ELEVATORS AND CONVEYORS, FOR GOODS OR MATERIALS, OTHER THAN FOR UNDERGROUND USE, BUCKET TYPE.
842833 | CONTINUOUS-ACTION ELEVATORS AND CONVEYORS, FOR GOODS OR MATERIALS, OTHER THAN FOR UNDERGROUND USE, BELT TYPE.
842839 | CONTINUOUS-ACTION ELEVATORS AND CONVEYORS, FOR GOODS OR MATERIALS, OTHER THAN FOR UNDERGROUND USE, NESOI.
842870 | LIFTING, HANDLING, LOADING OR UNLOADING MACHINERY NESOI.
842890 | LIFTING, HANDLING, LOADING OR UNLOADING MACHINERY NESOI.
842911 | BULLDOZERS AND ANGLEDOZERS, SELF-PROPELLED, TRACK LAYING.
842919 | BULLDOZERS AND ANGLEDOZERS, SELF-PROPELLED, OTHER THAN TRACK LAYING.
842920 | GRADERS AND LEVELERS, SELF-PROPELLED.
842930 | SCRAPERS, SELF-PROPELLED.
842940 | TAMPING MACHINES AND ROAD ROLLERS, SELF-PROPELLED.
842951 | MECHANICAL FRONT-END SHOVEL LOADERS, SELF-PROPELLED.
842952 | MECHANICAL SHOVELS, EXCAVATORS AND SHOVEL LOADERS WITH 360 DEGREE REVOLVING SUPERSTRUCTURE, SELF-PROPELLED.
842959 | MECHANICAL SHOVELS, EXCAVATORS AND SHOVEL LOADERS NESOI, SELF-PROPELLED.
843010 | PILE-DRIVERS AND PILE-EXTRACTORS.
843039 | COAL OR ROCK CUTTERS AND TUNNELING MACHINERY, OTHER THAN SELF-PROPELLED.
843049 | BORING OR SINKING MACHINERY, NESOI, OTHER THAN SELF-PROPELLED.
843050 | MOVING, GRADING, LEVELING, SCRAPING, EXCAVATING, TAMPING, COMPACTING OR EXTRACTING MACHINERY FOR EARTH, MINERALS OR ORES, NESOI, SELF-PROPELLED.
843069 | MOVING, GRADING, LEVELING, EXCAVATING, EXTRACTING MACHINERY FOR EARTH, MINERALS OR ORES, NESOI, NOT SELF-PROPELLED.
843120 | PARTS FOR FORK-LIFT TRUCKS AND OTHER WORKS TRUCKS FITTED WITH LIFTING OR HANDLING EQUIPMENT.
843139 | PARTS FOR LIFTING, HANDLING, LOADING OR UNLOADING MACHINERY, NESOI.
843141 | BUCKETS, SHOVELS, GRABS AND GRIPS FOR DERRICKS, CRANES, BULLDOZERS, ANGLEDOZERS, GRADERS, SCRAPERS, BORERS, EXTRACTING, ETC. MACHINERY.
843149 | PARTS AND ATTACHMENTS, NESOI, FOR DERRICKS, CRANES, SELF-PROPELLED BULLDOZERS, GRADERS ETC. AND OTHER GRADING, SCRAPING, ETC. MACHINERY.
843910 | MACHINERY FOR MAKING PULP OF FIBROUS CELLULOSIC MATERIAL.
843930 | MACHINERY FOR FINISHING PAPER OR PAPERBOARD.
844090 | PARTS FOR BOOKBINDING MACHINERY, INCLUDING PARTS FOR BOOK-SEWING MACHINES.
844130 | MACHINES FOR MAKING PAPER CARTONS, BOXES, CASES, DRUMS AND SIMILAR CONTAINERS, OTHER THAN BY MOLDING.
844230 | MACHINERY, APPARATUS AND EQUIPMENT, NESOI, FOR PREPARING OR MAKING PRINTING BLOCKS, PLATES, CYLINDERS OR OTHER PRINTING COMPONENTS.
844240 | PARTS OF MACHINERY, APPARATUS AND EQUIPMENT, NESOI, FOR TYPESETTING ETC. AND PREPARING OR MAKING PRINTING BLOCKS OR OTHER PRINTING COMPONENTS.
844311 | OFFSET PRINTING MACHINERY, REEL-FED.
844313 | OFFSET PRINTING MACHINERY, NESOI.
844315 | LETTERPRESS PRINTING MACHINERY, OTHER THAN REEL FED, EXCLUDING FLEXOGRAPHIC PRINTING.
844316 | FLEXOGRAPHIC PRINTING MACHINERY.
844317 | GRAVURE PRINTING MACHINERY.
844319 | OFFSET PRINTING MACHINERY, NESOI.
844391 | PARTS AND ACCESSORIES OF PRINTING MACHINERY USED FOR PRINTING BY MEANS OF PLATES, CYLINDERS AND OTHER PRINTING COMPONENTS OF HEAD. 8442.
844400 | MACHINES FOR EXTRUDING, DRAWING, TEXTURING OR CUTTING MANMADE TEXTILE MATERIALS.
844621 | POWER LOOMS FOR WEAVING FABRICS OF A WIDTH EXCEEDING 30 CM, SHUTTLE TYPE.
844629 | WEAVING MACHINES (LOOMS) FOR WEAVING FABRICS OF A WIDTH EXCEEDING 30 CM, SHUTTLE TYPE, NESOI.
844811 | AUXILIARY MACHINERY FOR TEXTILE MACHINES (HEADINGS 8444 TO 8447), DOBBIES AND JACQUARDS, CARD REDUCING, COPYING, PUNCHING OR ASSEMBLING MACHINES.
844819 | AUXILIARY MACHINERY FOR TEXTILE MACHINES (HEADINGS 8444 TO 8447), NESOI.
844820 | PARTS AND ACCESSORIES FOR MACHINES FOR EXTRUDING, DRAWING, TEXTURING OR CUTTING MANMADE TEXTILE MATERIALS, OR OF THEIR AUXILIARY MACHINERY.
844833 | SPINDLES, SPINDLE FLYERS, SPINNING RINGS AND RING TRAVELLERS, FOR MACHINERY USED FOR PREPARING OR PRODUCING TEXTILE YARNS, ETC.
844839 | PARTS AND ACCESSORIES FOR TEXTILE SPINNING, DOUBLING OR TWISTING, WINDING OR REELING AND YARN PRODUCING MACHINES, ETC., NESOI.
844842 | REEDS FOR LOOMS, HEALDS AND HEALD-FRAMES.
844849 | PARTS AND ACCESSORIES OF WEAVING MACHINES (LOOMS) OR OF THEIR AUXILIARY MACHINERY, NESOI.
844851 | SINKERS, NEEDLES AND OTHER ARTICLES USED IN FORMING STITCHES FOR KNITTING MACHINES, STITCH-BONDING AND GIMPED YARN ETC. MACHINES.
845110 | DRY-CLEANING MACHINES FOR TEXTILES YARNS, FABRICS OR MADE UP TEXTILE ARTICLES.
845129 | DRYING MACHINES (EXCEPT CENTRIFUGAL TYPE) FOR TEXTILE YARNS, FABRICS OR MADE UP TEXTILE ARTICLES, WITH A DRY LINEN CAPACITY EXCEEDING 10 KG.
845130 | IRONING MACHINES AND PRESSES (INCLUDING FUSING PRESSES) FOR TEXTILE YARNS, FABRICS OR MADE UP TEXTILE ARTICLES.
845190 | PARTS FOR MACHINERY FOR WASHING, CLEANING, WRINGING ETC. TEXTILE YARNS AND FABRICS, APPLYING PASTE TO BASE FABRIC ETC. AND REELING ETC. TEXTILE FABRIC.
845230 | SEWING MACHINE NEEDLES.
845310 | MACHINES FOR PREPARING, TANNING OR WORKING HIDES, SKINS OR LEATHER.
845380 | MACHINERY (OTHER THAN SEWING MACHINES), FOR MAKING OR REPAIRING ARTICLES OF HIDES, SKINS OR LEATHER, EXCEPT FOOTWEAR.
845390 | PARTS OF MACHINERY (EXCEPT SEWING MACHINES) FOR TANNING ETC. HIDES, SKINS OR LEATHER OR FOR MAKING OR REPAIRING ARTICLES OF HIDES, SKINS OR LEATHER.
845410 | CONVERTERS USED IN METALLURGY OR METAL FOUNDRIES.
845420 | INGOT MOLDS AND LADLES USED IN METALLURGY OR METAL FOUNDRIES.
845490 | PARTS FOR CONVERTERS, LADLES, INGOT MOLDS AND CASTING MACHINES USED IN METALLURGY OR METAL FOUNDRIES.
845522 | COLD METAL-ROLLING MILLS, EXCEPT TUBE MILLS.
845530 | ROLLS FOR METAL-ROLLING MILLS.
845620 | MACHINE TOOLS FOR WORKING ANY MATERIAL BY REMOVAL OF MATERIAL, BY ULTRASONIC PROCESSES.
845640 | MACHINE TOOLS FOR WORKING ANY MATERIAL BY REMOVAL OF MATERIAL OPERATED BY PLASMA ARC PROCESSES.
845690 | MACHINE TOOLS FOR REMOVAL OF MATERIAL BY ELECTRO-CHEMICAL, ELECTRON-BEAM, IONIC-BEAM OR PLASMA ARC PROCESSES, N.E.S.O.I.
845710 | MACHINING CENTERS FOR WORKING METAL.
845730 | MULTISTATION TRANSFER MACHINES FOR WORKING METAL.
845811 | HORIZONTAL LATHES FOR REMOVING METAL, NUMERICALLY CONTROLLED.
845819 | HORIZONTAL LATHES FOR REMOVING METAL, NOT NUMERICALLY CONTROLLED.
845891 | LATHES, EXCLUDING HORIZONTAL, FOR REMOVING METAL, NUMERICALLY CONTROLLED.
845899 | LATHES, EXCLUDING HORIZONTAL, FOR REMOVING METAL, NOT NUMERICALLY CONTROLLED.
845910 | WAY-TYPE UNIT HEAD MACHINES FOR REMOVING METAL.
845921 | DRILLING MACHINES FOR REMOVING METAL NESOI, NUMERICALLY CONTROLLED.
845931 | BORING-MILLING MACHINES FOR REMOVING METAL NESOI, NUMERICALLY CONTROLLED.
845941 | NUMERICALLY CONTROLLED BORING MACHINES, NESOI.
845949 | OTHER BORING MACHINES, NESOI.
845961 | MILLING MACHINES, NOT KNEE TYPE, FOR REMOVING METAL, NUMERICALLY CONTROLLED.
845970 | THREADING OR TAPPING MACHINES, FOR REMOVING METAL.
846012 | FLAT-SURFACE GRINDING MACHINES, NUMERICALLY CONTROLLED.
846019 | FLAT-SURFACE GRINDING MACHINES FOR REMOVING METAL, AXIS ACCURACY OF 0.01 MM OR MORE, NOT NUMERICALLY CONTROLLED.
846022 | CENTERLESS GRINDING MACHINES, NUMERICALLY CONTROLLED.
846023 | OTHER CYLINDRICAL GRINDING MACHINES, NUMERICALLY CONTROLLED.
846024 | OTHER GRINDING MACHINES, NESOI, NUMERICALLY CONTROLLED.
846029 | GRINDING MACHINES FOR REMOVING METAL, EXCEPT FLAT-SURFACE, AXIS ACCURACY OF 0.01 MM OR MORE, NOT NUMERICALLY CONTROLLED.
846031 | SHARPENING (TOOL OR CUTTER GRINDING) MACHINES FOR REMOVING METAL, NUMERICALLY CONTROLLED.
846039 | SHARPENING (TOOL OR CUTTER GRINDING) MACHINES FOR REMOVING METAL, NOT NUMERICALLY CONTROLLED.
846040 | HONING OR LAPPING MACHINES FOR REMOVING METAL.
846090 | MACHINE TOOLS FOR DEBURRING, POLISHING METAL, SINTERED METAL CARBIDES, ABRASIVES OR POLISHING PRODUCTS, OTHER THAN GEAR CUTTING, ETC., NESOI.
846120 | SHAPING OR SLOTTING MACHINES FOR REMOVING METAL.
846130 | BROACHING MACHINES FOR REMOVING METAL.
846140 | GEAR CUTTING, GEAR GRINDING OR GEAR FINISHING MACHINES.
846150 | SAWING OR CUTTING-OFF MACHINES FOR REMOVING METAL.
846190 | MACHINE TOOLS WORKING BY REMOVING METAL, SINTERED METAL CARBIDES OR CERMETS, NESOI.
846211 | FORGING OR DIE-STAMPING MACHINES (INCLUDING PRESSES) AND HAMMERS FOR WORKING METAL.
846219 | FORGING OR DIE-STAMPING MACHINES (INCLUDING PRESSES) AND HAMMERS FOR WORKING METAL.
846222 | BENDING, FOLDING, STRAIGHTENING OR FLATTENING MACHINES (INCLUDING PRESSES) FOR WORKING METAL, NOT NUMERICALLY CONTROLLED.
846223 | BENDING, FOLDING, STRAIGHTENING OR FLATTENING MACHINES (INCLUDING PRESSES) FOR WORKING METAL, NUMERICALLY CONTROLLED.
846224 | BENDING, FOLDING, STRAIGHTENING OR FLATTENING MACHINES (INCLUDING PRESSES) FOR WORKING METAL, NUMERICALLY CONTROLLED.
846225 | BENDING, FOLDING, STRAIGHTENING OR FLATTENING MACHINES (INCLUDING PRESSES) FOR WORKING METAL, NUMERICALLY CONTROLLED.
846226 | BENDING, FOLDING, STRAIGHTENING OR FLATTENING MACHINES (INCLUDING PRESSES) FOR WORKING METAL, NUMERICALLY CONTROLLED.
846229 | BENDING, FOLDING, STRAIGHTENING OR FLATTENING MACHINES (INCLUDING PRESSES) FOR WORKING METAL, NOT NUMERICALLY CONTROLLED.
846232 | SHEARING MACHINES (INCLUDING PRESSES) FOR WORKING METAL, OTHER THAN COMBINED PUNCHING AND SHEARING MACHINES, NUMERICALLY CONTROLLED.
846233 | SHEARING MACHINES (INCLUDING PRESSES) FOR WORKING METAL, OTHER THAN COMBINED PUNCHING AND SHEARING MACHINES, NUMERICALLY CONTROLLED.
846239 | SHEARING MACHINES (INCLUDING PRESSES) FOR WORKING METAL, OTHER THAN COMBINED PUNCHING AND SHEARING MACHINES, NOT NUMERICALLY CONTROLLED.
846242 | PUNCHING OR NOTCHING MACHINES (INCLUDING PRESSES) FOR WORKING METAL, INCLUDING COMBINED PUNCHING AND SHEARING MACHINES, NUMERICALLY CONTROLLED.
846249 | PUNCHING OR NOTCHING MACHINES (INCLUDING PRESSES) FOR WORKING METAL, INCLUDING COMBINED PUNCHING AND SHEARING MACHINES, NOT NUMERICALLY CONTROLLED.
846251 | PUNCHING OR NOTCHING MACHINES (INCLUDING PRESSES) FOR WORKING METAL, INCLUDING COMBINED PUNCHING AND SHEARING MACHINES, NUMERICALLY CONTROLLED.
846259 | PUNCHING OR NOTCHING MACHINES (INCLUDING PRESSES) FOR WORKING METAL, INCLUDING COMBINED PUNCHING AND SHEARING MACHINES, NOT NUMERICALLY CONTROLLED.
846261 | HYDRAULIC PRESSES FOR WORKING METAL.
846262 | MACHINE TOOLS (INCLUDING PRESSES) FOR WORKING METAL BY FORGING, HAMMERING, DIE-CASTING, BENDING, FOLDING, FLATTENING, WORKING METAL CARBIDES, NESOI.
846263 | MACHINE TOOLS (INCLUDING PRESSES) FOR WORKING METAL BY FORGING, HAMMERING, DIE-CASTING, BENDING, FOLDING, FLATTENING, WORKING METAL CARBIDES, NESOI.
846269 | MACHINE TOOLS (INCLUDING PRESSES) FOR WORKING METAL BY FORGING, HAMMERING, DIE-CASTING, BENDING, FOLDING, FLATTENING, WORKING METAL CARBIDES, NESOI.
846290 | MACHINE TOOLS (INCLUDING PRESSES) FOR WORKING METAL BY FORGING, HAMMERING, DIE-CASTING, BENDING, FOLDING, FLATTENING, WORKING METAL CARBIDES, NESOI.
846310 | DRAW-BENCHES FOR BARS, TUBES, PROFILES, WIRE OR THE LIKE FOR WORKING METAL WITHOUT REMOVING MATERIAL.
846320 | THREAD ROLLING MACHINES FOR WORKING METAL WITHOUT REMOVING MATERIAL.
846330 | MACHINES FOR WORKING WIRE WITHOUT REMOVING MATERIAL.
846390 | MACHINE TOOLS FOR WORKING METAL, SINTERED METAL CARBIDES OR CERMETS, WITHOUT REMOVING MATERIAL, NESOI.
846410 | SAWING MACHINES FOR WORKING STONE, CERAMICS, CONCRETE, ASBESTOS-CEMENT OR LIKE MINERAL MATERIALS OR FOR COLD WORKING GLASS.
846420 | GRINDING OR POLISHING MACHINES FOR WORKING STONE, CERAMICS, CONCRETE, ASBESTOS-CEMENT OR LIKE MINERAL MATERIALS OR FOR COLD WORKING GLASS.
846490 | MACHINE TOOLS FOR WORKING STONE, CERAMICS, CONCRETE, ASBESTOS-CEMENT OR LIKE MINERAL MATERIALS OR FOR COLD WORKING GLASS, NESOI.
846520 | MACHINING CENTERS FOR WORKING CORK, BONE, HARD RUBBER, HARD PLASTICS OR SIMILIAR HARD MATERALS.
846593 | GRINDING, SANDING OR POLISHING MACHINES FOR WORKING WOOD, CORK, BONE, HARD RUBBER, HARD PLASTICS OR SIMILAR HARD MATERIALS.
846594 | BENDING OR ASSEMBLING MACHINES FOR WORKING WOOD, CORK, BONE, HARD RUBBER, HARD PLASTICS OR SIMILAR HARD MATERIALS.
846596 | SPLITTING, SLICING OR PARING MACHINES FOR WORKING WOOD, CORK, BONE, HARD RUBBER, HARD PLASTICS OR SIMILAR HARD MATERIALS.
846610 | TOOL HOLDERS AND SELF-OPENING DIEHEADS FOR MACHINES OR ANY TYPE OF TOOL FOR WORKING IN THE HAND.
846620 | WORK HOLDERS FOR MACHINE TOOLS.
846691 | PARTS AND ACCESSORIES FOR MACHINE TOOLS FOR WORKING STONE, CERAMICS, CONCRETE, ASBESTOS-CEMENT OR LIKE MATERIALS OR FOR COLD WORKING GLASS, NESOI.
846692 | PARTS AND ACCESSORIES FOR MACHINE TOOLS FOR WORKING WOOD, CORK, BONE, HARD RUBBER, HARD PLASTICS OR SIMILAR HARD MATERIALS, NESOI.
846693 | PARTS AND ACCESSORIES FOR MACHINE TOOLS, FOR LASER OPERATION, METALWORKING MACHINING CENTERS, LATHES AND DRILLING MACHINES, ETC., NESOI.
846694 | PARTS AND ACCESSORIES FOR MACHINES TOOLS, FOR FORGING, DIE-STAMPING, SHEARING, ETC. METAL AND THOSE FOR WORKING METAL WITHOUT REMOVING MATERIAL, NESOI.
846810 | HAND-HELD BLOW TORCHES.
846820 | GAS OPERATED MACHINERY AND APPARATUS FOR SOLDERING, BRAZING OR WELDING, OTHER THAN HAND-HELD BLOW TORCHES.
846880 | MACHINERY AND APPARATUS FOR SOLDERING, BRAZING OR WELDING, NESOI.
846890 | PARTS OF MACHINERY AND APPARATUS FOR SOLDERING, BRAZING OR WELDING, NESOI.
847210 | DUPLICATING MACHINES.
847230 | MACHINES FOR SORTING OR FOLDING MAIL, FOR INSERTING MAIL IN ENVELOPES, OR FOR OPENING OR SEALING MAIL AND MACHINES FOR AFFIXING OR CANCELLING POSTAGE.
847321 | PARTS AND ACCESSORIES FOR ELECTRONIC CALCULATORS AND CALCULATING MACHINES.
847330 | PARTS AND ACCESSORIES FOR AUTOMATIC DATA PROCESSING MACHINES AND UNITS THEREOF, MAGNETIC OR OPTICAL READERS, TRANSCRIBING MACHINES, ETC., NESOI.
847410 | MACHINES FOR SORTING, SCREENING, SEPARATING OR WASHING EARTH, STONE, ORE OR OTHER MINERAL SUBSTANCES, IN SOLID FORM.
847431 | CONCRETE OR MORTAR MIXERS.
847439 | MACHINES FOR MIXING OR KNEADING EARTH, STONE, ORE OR OTHER MINERAL SUBSTANCES IN SOLID FORM, NESOI.
847480 | MACHINERY FOR AGGLOMERATING ETC. SOLID MINERAL FUELS, CERAMIC PASTE OR OTHER MINERAL PRODUCTS; MACHINES FOR FORMING FOUNDRY MOLDS OF SAND.
847521 | MACHINES FOR MAKING OPTICAL FIBERS AND PREFORMS THEREOF.
847529 | MACHINES FOR MANUFACTURING OR HOT WORKING GLASS OR GLASSWARE, NESOI.
847590 | PARTS OF MACHINES FOR ASSEMBLING ELECTRIC OR ELECTRONIC LAMPS, TUBES ETC., IN GLASS ENVELOPES AND FOR MANUFACTURING OR HOT WORKING GLASS OR GLASSWARE.
847730 | BLOW-MOLDING MACHINES FOR WORKING RUBBER OR PLASTIC.
847740 | VACUUM-MOLDING MACHINES AND OTHER THERMOFORMING MACHINES, FOR MOLDING OR FORMING RUBBER OR PLASTICS.
847751 | MACHINERY FOR MOLDING OR RETREADING PNEUMATIC TIRES OR FOR MOLDING OR OTHERWISE FORMING INNER TUBES.
847759 | MACHINERY FOR MOLDING OR OTHERWISE FORMING RUBBER OR PLASTICS, NESOI.
847790 | PARTS OF MACHINERY FOR WORKING RUBBER OR PLASTICS OR PARTS OF MACHINERY USED IN THE MANUFACTURE OF PRODUCTS FROM RUBBER OR PLASTICS MATERIALS, NESOI.
847910 | MACHINERY FOR PUBLIC WORKS, BUILDING OR THE LIKE.
847930 | PRESSES FOR MANUFACTURING PARTICLE BOARD OR FIBER BUILDING BOARD OF WOOD OR OTHER LIGNEOUS MATERIALS AND OTHER MACHINERY FOR TREATING WOOD OR CORK.
847950 | INDUSTRIAL ROBOTS FOR MULTIPLE USES.
847981 | MACHINES AND MECHANICAL APPLIANCES FOR TREATING METAL, INCLUDING ELECTRIC WIRE COIL-WINDERS.
847982 | MACHINES AND MECHANICAL APPLIANCES FOR MIXING, KNEADING, CRUSHING, GRINDING, SCREENING, SIFTING, HOMOGENIZING, EMULSIFYING OR STIRRING, NESOI.
847989 | MACHINES AND MECHANICAL APPLIANCES HAVING INDIVIDUAL FUNCTIONS, NESOI.
847990 | PARTS OF MACHINES AND MECHANICAL APPLIANCES HAVING INDIVIDUAL FUNCTIONS, NESOI.
848020 | MOLD BASES.
848030 | MOLDING PATTERNS.
848060 | MOLDS FOR MINERAL MATERIALS.
848110 | PRESSURE-REDUCING VALVES.
848120 | VALVES FOR OLEOHYDRAULIC OR PNEUMATIC TRANSMISSIONS.
848130 | CHECK VALVES.
848140 | SAFETY OR RELIEF VALVES.
848210 | BALL BEARINGS.
848220 | TAPERED ROLLER BEARINGS, INCLUDING CONE AND TAPERED ROLLER ASSEMBLIES.
848230 | SPHERICAL ROLLER BEARINGS.
848240 | NEEDLE ROLLER BEARINGS.
848250 | CYLINDRICAL ROLLER BEARINGS NESOI.
848280 | BALL OR ROLLER BEARINGS NESOI, INCLUDING COMBINED BALL/ROLLER BEARINGS.
848291 | BALLS, NEEDLES AND ROLLERS FOR BALL OR ROLLER BEARINGS.
848299 | PARTS OF BALL OR ROLLER BEARINGS, NESOI.
848310 | TRANSMISSION SHAFTS (INCLUDING CAMSHAFTS AND CRANKSHAFTS) AND CRANKS.
848320 | HOUSED BEARINGS, INCORPORATING BALL OR ROLLER BEARINGS.
848330 | BEARING HOUSINGS; PLAIN SHAFT BEARINGS.
848340 | GEARS AND GEARING (EXCEPT TOOTHED WHEELS, CHAIN SPROCKETS, ETC.); BALL OR ROLLER SCREWS; GEAR BOXES AND OTHER SPEED CHANGERS, INCL TORQUE CONVERTERS.
848350 | FLYWHEELS AND PULLEYS, INCLUDING PULLEY BLOCKS.
848360 | CLUTCHES AND SHAFT COUPLINGS (INCLUDING UNIVERSAL JOINTS).
848390 | TOOTHED WHEELS, CHAIN SPROCKETS AND OTHER TRANSMISSION ELEMENTS PRESENTED SEPARATELY; PARTS.
848410 | GASKETS AND SIMILAR JOINTS OF METAL SHEETING COMBINED WITH OTHER MATERIAL OR OF TWO OR MORE LAYERS OF METAL.
848420 | MECHANICAL SEALS.
848490 | SETS OR ASSORTMENTS OF GASKETS AND SIMILAR JOINTS, DISSIMILAR IN COMPOSITION, PUT UP IN POUCHES, ENVELOPES OR SIMILAR PACKINGS.
848520 | MACHINERY FOR WORKING RUBBER OR PLASTICS OR FOR THE MANUFACTURE OF PRODUCTS FROM THESE MATERIALS, NESOI.
848530 | MACHINES AND MECHANICAL APPLIANCES HAVING INDIVIDUAL FUNCTIONS, NESOI.
848590 | MACHINERY PARTS, NOT CONTAINING ELECTRICAL CONNECTORS, INSULATORS, COILS, CONTACTS OR OTHER ELECTRICAL FEATURES, NESOI.
848610 | MACHINES AND APPARATUS FOR THE MANUFACTURE OF BOULES OR WAFERS.
848620 | MACHINES AND APPARATUS FOR THE MANUFACTURE OF SEMICONDUCTOR DEVICES OR OF ELECTRONIC INTEGRATES CIRCUITS.
848630 | MACHINES AND APPARATUS FOR THE MANUFACTURE OF FLAT PANEL DISPLAYS.
848640 | MACHINES AND APPARATUS SPECIFIED IN NOTE 9(C) TO CHAPTER 84.
848690 | MACHINES AND APPARATUS OF A KIND USED FOR THE MANUFACTURE OF SEMICONDUCTOR BOULES OR WAFERS, ETC, PARTS AND ACCESSORITES.
848710 | SHIPS' OR BOATS' PROPELLERS AND BLADES THEREOF.
848790 | MACHINERY PARTS, NON ELECTRIC, NESOI.
850120 | UNIVERSAL AC/DC MOTORS OF AN OUTPUT EXCEEDING 37.5 W.
850131 | DC MOTORS NESOI AND GENERATORS OF AN OUTPUT NOT EXCEEDING 750 W.
850133 | DC MOTORS NESOI AND GENERATORS OF AN OUTPUT EXCEEDING 75 KW BUT NOT EXCEEDING 375 KW.
850153 | AC MOTORS NESOI, MULTI-PHASE, OF AN OUTPUT EXCEEDING 75 KW.
850161 | AC GENERATORS (ALTERNATORS), OF AN OUTPUT NOT EXCEEDING 75 KVA.
850162 | AC GENERATORS (ALTERNATORS), OF AN OUTPUT EXCEEDING 75 KVA BUT NOT EXCEEDING 375 KVA.
850163 | AC GENERATORS (ALTERNATORS), OF AN OUTPUT EXCEEDING 375 KVA BUT NOT EXCEEDING 750 KVA.
850164 | AC GENERATORS (ALTERNATORS), OF AN OUTPUT EXCEEDING 750 KVA.
850211 | GENERATING SETS WITH COMPRESSION-IGNITION INTERNAL COMBUSTION PISTON (DIESEL OR SEMI-DIESEL) ENGINES, OF AN OUTPUT NOT EXCEEDING 75 KVA.
850212 | GENERATING SETS WITH COMPRESSION-IGNITION INTERNAL COMBUSTION PISTON (DIESEL ETC.) ENGINES, OF AN OUTPUT EXCEEDING 75 KVA NOT EXCEEDING 375 KVA.
850213 | GENERATING SETS WITH COMPRESSION-IGNITION INTERNAL COMBUSTION PISTON (DIESEL OR SEMI-DIESEL) ENGINES, OF AN OUTPUT EXCEEDING 375 KVA.
850220 | GENERATING SETS WITH SPARK-IGNITION INTERNAL COMBUSTION PISTON ENGINES.
850231 | GENERATING SETS, ELECTRIC, WIND-POWERED.
850239 | GENERATING SETS, ELECTRIC, NESOI.
850240 | ELECTRIC ROTARY CONVERTERS.
850300 | PARTS OF ELECTRIC MOTORS, GENERATORS, GENERATING SETS AND ROTARY CONVERTERS.
850432 | ELECTRICAL TRANSFORMERS NESOI, HAVING A POWER HANDING CAPACITY EXCEEDING 1 KVA BUT NOT EXCEEDING 16 KVA.
850433 | ELECTRICAL TRANSFORMERS NESOI, HAVING A POWER HANDING CAPACITY EXCEEDING 16 KVA BUT NOT EXCEEDING 500 KVA.
850434 | ELECTRICAL TRANSFORMERS NESOI, HAVING A POWER HANDLING CAPACITY EXCEEDING 500 KVA.
850511 | PERMANENT MAGNETS AND ARTICLES INTENDED TO BECOME PERMANENT MAGNETS AFTER MAGNETIZATION, MADE OF METAL.
850520 | ELECTROMAGNETIC COUPLINGS, CLUTCHES AND BRAKES.
850590 | ELECTROMAGNETS; ELECTROMAGNETIC OR PERMANENT MAGNET CHUCKS, CLAMPS AND SIMILAR HOLDING DEVICES; AND PARTS OF ELECTROMAGNETIC ARTICLES, NESOI.
850660 | PRIMARY CELLS AND PRIMARY BATTERIES, AIR-ZINC.
850690 | PARTS OF PRIMARY CELLS AND PRIMARY BATTERIES.
850710 | LEAD-ACID STORAGE BATTERIES OF A KIND USED FOR STARTING PISTON ENGINES.
850720 | LEAD-ACID STORAGE BATTERIES NESOI.
850730 | NICKEL-CADMIUM STORAGE BATTERIES.
851110 | INTERNAL COMBUSTION ENGINE SPARK PLUGS.
851120 | INTERNAL COMBUSTION ENGINE IGNITION MAGNETOS, MAGNETO-DYNAMOS AND MAGNETIC FLYWHEELS.
851130 | INTERNAL COMBUSTION ENGINE DISTRIBUTORS AND IGNITION COILS.
851140 | INTERNAL COMBUSTION ENGINE STARTER MOTORS AND DUAL PURPOSE STARTER-GENERATORS.
851150 | INTERNAL COMBUSTION ENGINE GENERATORS, NESOI.
851180 | ELECTRICAL IGNITION OR STARTING EQUIPMENT USED FOR INTERNAL COMBUSTION ENGINES, NESOI, AND EQUIPMENT USED IN CONJUNCTION WITH SUCH ENGINES, NESOI.
851190 | PARTS FOR ELECTRICAL IGNITION OR STARTING EQUIPMENT USED FOR INTERNAL COMBUSTION ENGINES; PARTS FOR GENERATORS AND CUT-OUTS USED WITH SUCH EQUIPMENT.
851220 | ELECTRICAL LIGHTING OR VISUAL SIGNALING EQUIPMENT, FOR USE ON CYCLES OR MOTOR VEHICLES, EXCEPT FOR USE ON BICYCLES.
851290 | PARTS OF ELECTRICAL LIGHTING OR SIGNALING EQUIPMENT, WINDSHIELD WIPERS, DEFROSTERS AND DEMISTERS, USED FOR CYCLES OR MOTOR VEHICLES.
851411 | INDUSTRIAL OR LABORATORY ELECTRIC FURNACES AND OVENS, RESISTANCE TYPE.
851419 | INDUSTRIAL OR LABORATORY ELECTRIC FURNACES AND OVENS, RESISTANCE TYPE.
851420 | INDUSTRIAL OR LABORATORY ELECTRIC FURNACES AND OVENS, INDUCTION OR DIELECTRIC TYPE.
851431 | INDUSTRIAL OR LABORATORY ELECTRIC FURNACES AND OVENS, NESOI.
851432 | INDUSTRIAL OR LABORATORY ELECTRIC FURNACES AND OVENS, NESOI.
851439 | INDUSTRIAL OR LABORATORY ELECTRIC FURNACES AND OVENS, NESOI.
851490 | PARTS FOR INDUSTRIAL OR LABORATORY ELECTRIC FURNACES AND OVENS; PARTS FOR INDUSTRIAL OR LABORATORY INDUCTION OR DIELECTRIC HEATING EQUIPMENT, NESOI.
851511 | ELECTRIC SOLDERING IRONS AND GUNS.
851519 | ELECTRIC BRAZING OR SOLDERING MACHINES OR APPARTAUS, NESOI.
851521 | ELECTRIC MACHINES AND APPARATUS FOR RESISTANCE WELDING OF METAL, FULLY OR PARTY AUTOMATIC.
851529 | ELECTRIC MACHINES AND APPARATUS FOR RESISTANCE WELDING OF METAL, OTHER THAN FULLY OR PARTLY AUTOMATIC.
851621 | ELECTRIC STORAGE HEATING RADIATORS.
851680 | ELECTRIC HEATING RESISTORS.
851771 | PARTS OF TELEPHONE SETS AND OTHER APPARATUS FOR THE TRANSMISSION OR RECEPTION OF VOICE, IMAGES OR OTHER DATA.
851779 | PARTS OF TELEPHONE SETS AND OTHER APPARATUS FOR THE TRANSMISSION OR RECEPTION OF VOICE, IMAGES OR OTHER DATA.
852351 | SOLID-STATE NON-VOLATILE SEMICONDUCTOR STORAGE DEVICES.
852550 | TRANSMISSION APPARATUS FOR RADIO-BROADCASTING OR TELEVISION.
852581 | TELEVISION CAMERAS, DIGITAL CAMERAS AND VIDEO CAMERA RECORDERS.
852582 | TELEVISION CAMERAS, DIGITAL CAMERAS AND VIDEO CAMERA RECORDERS.
852583 | TELEVISION CAMERAS, DIGITAL CAMERAS AND VIDEO CAMERA RECORDERS.
852589 | TELEVISION CAMERAS, DIGITAL CAMERAS AND VIDEO CAMERA RECORDERS.
852610 | RADAR APPARATUS.
852692 | RADIO REMOTE CONTROL APPARATUS.
852721 | RADIOBROADCAST RECEIVERS FOR MOTOR VEHICLES, COMBINED WITH SOUND RECORDING OR REPRODUCING APPARATUS, NOT CAPABLE OF OPERATING WITHOUT OUTSIDE POWER.
852849 | CATHODE-RAY TUBE MONITORS, NOT INCORPORATING TELEVISION RECEPTION APPARATUS, NESOI.
852910 | ANTENNAS AND ANTENNA REFLECTORS AND PARTS THEREOF.
853010 | ELECTRICAL SIGNALING, SAFETY OR TRAFFIC CONTROL EQUIPMENT FOR RAILWAYS, STREETCAR LINES OR SUBWAYS.
853080 | ELECTRICAL SIGNALING, SAFETY OR TRAFFIC CONTROL EQUIPMENT FOR ROADS, INLAND WATERWAYS, PARKING FACILITIES, PORT INSTALLATIONS OR AIRFIELDS.
853090 | PARTS FOR ELECTRICAL SIGNALING, SAFETY OR TRAFFIC CONTROL EQUIPMENT FOR RAIL LINES, ROADS, WATERWAYS, PARKING AREAS, PORT INSTALLATIONS OR AIRFIELDS.
853210 | FIXED CAPACITORS, DESIGNED FOR USE IN 50/60 HZ CIRCUITS, WITH REACTIVE POWER CAPACITY NOT LESS THAN 0.5 KVAR (POWER CAPACITORS).
853221 | TANTALUM CAPACITORS.
853224 | FIXED CAPACITORS NESOI, MULTILAYER CERAMIC DIELECTRIC.
853229 | FIXED CAPACITORS, NESOI.
853230 | VARIABLE OR ADJUSTABLE (PRE-SET) CAPACITORS.
853290 | PARTS FOR ELECTRICAL CAPACITORS.
853329 | FIXED RESISTORS, NESOI, FOR A POWER HANDLING CAPACITY EXCEEDING 20 W.
853390 | PARTS FOR ELECTRICAL RESISTORS, INCLUDING PARTS FOR RHEOSTATS AND POTENTIOMETERS.
853400 | PRINTED CIRCUITS.
853510 | FUSES FOR ELECTRICAL APPARATUS FOR A VOLTAGE EXCEEDING 1,000 V.
853521 | AUTOMATIC CIRCUIT BREAKERS FOR A VOLTAGE EXCEEDING 1,000 V BUT LESS THAN 72.5 KV.
853529 | AUTOMATIC CIRCUIT BREAKERS FOR A VOLTAGE OF 72.5 KV OR MORE.
853530 | ISOLATING SWITCHES AND MAKE-AND-BREAK SWITCHES FOR A VOLTAGE EXCEEDING 1,000 V.
853540 | LIGHTNING ARRESTERS, VOLTAGE LIMITERS, AND SURGE SUPPRESSORS FOR A VOLTAGE EXCEEDING 1,000 V.
853590 | ELECTRICAL APPARATUS FOR SWITCHING, PROTECTING OR MAKING CONNECTIONS TO OR IN ELECTRICAL CIRCUITS, FOR A VOLTAGE EXCEEDING 1,000 V, NESOI.
853650 | ELECTRICAL SWITCHES FOR A VOLTAGE NOT EXCEEDING 1,000 V, NESOI.
853669 | ELECTRICAL PLUGS AND SOCKETS FOR A VOLTAGE NOT EXCEEDING 1,000 V.
853690 | ELECTRICAL APPARATUS FOR SWITCHING, PROTECTING OR MAKING CONNECTIONS TO OR IN ELECTRICAL CIRCUITS, FOR A VOLTAGE NOT EXCEEDING 1,000 V, NESOI.
853710 | BOARDS, PANELS, CONSOLES, ETC. WITH ELECTRICAL APPARATUS, FOR ELECTRIC CONTROL OR DISTRIBUTION OF ELECTRICITY, FOR A VOLTAGE NOT EXCEEDING 1,000 V.
853810 | BOARDS, PANELS, CONSOLES, DESKS, CABINETS, AND OTHER BASES FOR ELECTRIC CONTROL ETC. EQUIPMENT, NOT EQUIPPED WITH ELECTRICAL APPARATUS.
853890 | PARTS FOR ELECTRICAL APPARATUS FOR ELECTRICAL CIRCUITS, BOARDS, PANELS ETC. FOR ELECTRIC CONTROL OR DISTRIBUTION OF ELECTRICITY, NESOI.
853929 | ELECTRIC FILAMENT LAMPS, NESOI.
853939 | ELECTRIC DISCHARGE LAMPS (OTHER THAN ULTRAVIOLET OR FLUORESCENT, HOT CATHODE LAMPS), NESOI.
853941 | ARC LAMPS.
853951 | ELECTRIC LAMPS AND LIGHTING FITTINGS, NESOI.
853952 | LIGHT-EMITTING DIODE (LED) LAMPS.
854020 | TELEVISION CAMERA TUBES; IMAGE CONVERTERS AND INTENSIFIERS; OTHER PHOTOCATHODE TUBES.
854060 | CATHODE-RAY TUBES, N.E.S.O.I.
854071 | MAGNETRON MICROWAVE TUBES.
854079 | MICROWAVE TUBES, NESOI.
854081 | RECEIVER OR AMPLIFIER TUBES.
854089 | THERMIONIC AND OTHER CATHODE TUBES, NESOI.
854091 | PARTS OF CATHODE-RAY TUBES.
854099 | PARTS OF CATHODE TUBES, NESOI.
854110 | DIODES, OTHER THAN PHOTOSENSITIVE OR LIGHT-EMITTING DIODES.
854121 | TRANSISTORS, OTHER THAN PHOTOSENSITIVE, WITH A DISSIPATION RATE OF LESS THAN 1 W.
854129 | TRANSISTORS, OTHER THAN PHOTOSENSITIVE, NESOI.
854130 | THYRISTORS, DIACS AND TRIACS, OTHER THAN PHOTOSENSITIVE DEVICES.
854141 | PHOTOSENSITIVE SEMICONDUCTOR DEVICES, INCLUDING PHOTOVOLTAIC CELLS; LIGHT-EMITTING DIODES.
854142 | PHOTOSENSITIVE SEMICONDUCTOR DEVICES, INCLUDING PHOTOVOLTAIC CELLS; LIGHT-EMITTING DIODES.
854143 | PHOTOSENSITIVE SEMICONDUCTOR DEVICES, INCLUDING PHOTOVOLTAIC CELLS; LIGHT-EMITTING DIODES.
854149 | PHOTOSENSITIVE SEMICONDUCTOR DEVICES, INCLUDING PHOTOVOLTAIC CELLS; LIGHT-EMITTING DIODES.
854151 | SEMICONDUCTOR DEVICES, EXCEPT PHOTOSENSITIVE AND PHOTOVOLTAIC CELLS, NESOI.
854159 | SEMICONDUCTOR DEVICES, EXCEPT PHOTOSENSITIVE AND PHOTOVOLTAIC CELLS, NESOI.
854160 | MOUNTED PIEZOELECTRIC CRYSTALS.
854190 | PARTS FOR DIODES, TRANSISTORS AND SIMILAR SEMICONDUCTOR DEVICES; PARTS FOR PHOTOSENSITIVE SEMICONDUCTOR DEVICES AND MOUNTED PIEZOELECTRIC CRYSTALS.
854231 | PROCESSORS AND CONTROLLERS, ELECTRONIC INTEGRATED CIRCUITS.
854232 | MEMORIES, ELECTRONIC INTEGRATED CIRCUITS.
854233 | AMPLIFIERS, ELECTRONIC INTEGRATED CIRCUITS.
854239 | ELECTRONIC INTEGRATED CIRCUITS, NESOI.
854290 | PARTS FOR ELECTRONIC INTEGRATED CIRCUITS AND MICROASSEMBLIES.
854310 | PARTICLE ACCELERATORS.
854320 | ELECTRICAL SIGNAL GENERATORS.
854330 | ELECTRICAL MACHINES AND APPARATUS FOR ELECTROPLATING, ELECTROLYSIS OR ELECTROPHORESIS.
854370 | ELECTRICAL MACHINES AND APPARATUS, HAVING INDIVIDUAL FUNCTIONS, NESOI.
854411 | INSULATED WINDING WIRE OF COPPER.
854430 | INSULATED IGNITION WIRING SETS AND OTHER WIRING SETS FOR VEHICLES, AIRCRAFT AND SHIPS.
854449 | INSULATED ELECTRIC CONDUCTORS, FOR A VOLTAGE NOT EXCEEDING 80 V, NOT FITTED WITH CONNECTORS.
854460 | INSULATED ELECTRIC CONDUCTORS, FOR A VOLTAGE EXCEEDING 1,000 V.
854470 | INSULATED OPTICAL FIBER CABLES, MADE UP OF INDIVIDUALLY SHEATHED FIBERS.
854520 | ELECTRICAL CARBON OR GRAPHITE BRUSHES.
854710 | INSULATING FITTINGS OF CERAMICS, FOR ELECTRICAL MACHINES OR APPLIANCES.
854720 | INSULATING FITTINGS OF PLASTICS, FOR ELECTRICAL MACHINES OR APPLIANCES.
854790 | INSULATING FITTINGS NESOI, FOR ELECTRICAL MACHINES OR APPLIANCES; ELECTRICAL CONDUIT TUBING AND JOINTS, OF BASE METAL LINED WITH INSULATING MATERIAL.
854800 | ELECTRICAL PARTS OF MACHINERY OR APPARATUS, NESOI.
854911 | WASTE AND SCRAP OF PRIMARY CELLS, PRIMARY BATTERIES AND ELECTRIC STORAGE BATTERIES; SPENT PRIMARY CELLS, SPENT PRIMARY AND ELECTRIC STORAGE BATTERIES.
854912 | WASTE AND SCRAP OF PRIMARY CELLS, PRIMARY BATTERIES AND ELECTRIC STORAGE BATTERIES; SPENT PRIMARY CELLS, SPENT PRIMARY AND ELECTRIC STORAGE BATTERIES.
854913 | WASTE AND SCRAP OF PRIMARY CELLS, PRIMARY BATTERIES AND ELECTRIC STORAGE BATTERIES; SPENT PRIMARY CELLS, SPENT PRIMARY AND ELECTRIC STORAGE BATTERIES.
854914 | WASTE AND SCRAP OF PRIMARY CELLS, PRIMARY BATTERIES AND ELECTRIC STORAGE BATTERIES; SPENT PRIMARY CELLS, SPENT PRIMARY AND ELECTRIC STORAGE BATTERIES.
854919 | WASTE AND SCRAP OF PRIMARY CELLS, PRIMARY BATTERIES AND ELECTRIC STORAGE BATTERIES; SPENT PRIMARY CELLS, SPENT PRIMARY AND ELECTRIC STORAGE BATTERIES.
854921 | MUNICIPAL WASTE.
854929 | WASTE AS SPECIFIED IN CHAPTER 38 NOTES, NESOI.
854931 | CULLET AND OTHER WASTE AND SCRAP OF GLASS; GLASS IN THE MASS.
854939 | WASTE AND SCRAP OF PRECIOUS METAL, NESOI.
854991 | CULLET AND OTHER WASTE AND SCRAP OF GLASS; GLASS IN THE MASS.
854999 | WASTE AND SCRAP OF PRECIOUS METAL, NESOI.
860110 | RAIL LOCOMOTIVES POWERED FROM AN EXTERNAL SOURCE OF ELECTRICITY.
860290 | RAIL LOCOMOTIVES, NESOI; LOCOMOTIVE TENDERS.
860400 | RAILWAY OR TRAMWAY MAINTENANCE OR SERVICE VEHICLES, WHETHER OR NOT SELF-PROPELLED (FOR EXAMPLE, WORKSHOPS, CRANES, BALLAST TAMPERS, TRACKLINERS, ETC.).
860692 | RAILWAY OR TRAMWAY FREIGHT CARS, OPEN, WITH NON-REMOVABLE SIDES OF A HEIGHT EXCEEDING 60 CM, NOT SELF-PROPELLED, NESOI.
870310 | PASSENGER MOTOR VEHICLES SPECIALLY DESIGNEED FOR TRAVELING ON SNOW; GOLF CARTS AND SIMILAR VEHICLES.
870410 | DUMPERS (DUMP TRUCKS) DESIGNED FOR OFF-HIGHWAY USE.
870421 | MOTOR VEHICLES FOR GOODS TRANSPORT NESOI, WITH COMPRESSION-IGNITION INTERNAL COMBUSTION PISTON ENGINE (DIESEL), GVW NOT OVER 5 METRIC TONS.
870422 | MOTOR VEHICLES FOR GOODS TRANSPORT NESOI, WITH COMPRESSION-IGNITION INTERNAL COMBUSTION PISTON ENGINE (DIESEL), GVW OVER 5 BUT NOT OVER 20 METRIC TONS.
870423 | MOTOR VEHICLES FOR GOODS TRANSPORT NESOI, WITH COMPRESSION-IGNITION INTERNAL COMBUSTION PISTON ENGINE (DIESEL), GVW OVER 20 METRIC TONS.
870432 | MOTOR VEHICLES FOR GOODS TRANSPORT NESOI, WITH SPARK-IGNITION INTERNAL COMBUSTION PISTON ENGINE, GVW OVER 5 METRIC TONS.
870510 | MOBILE CRANES.
870540 | CONCRETE MIXERS, SPECIAL PURPOSE VEHICLES.
870590 | SPECIAL PURPOSE VEHICLES, OTHER THAN THOSE PRINCIPALLY DESIGNED FOR THE TRANSPORT OF PERSONS OR GOODS, NESOI.
870911 | WORKS TRUCKS (NOT LIFTING OR HANDLING) USED IN FACTORIES ETC. AND TRACTORS USED ON RAILWAY STATION PLATFORMS, ELECTRICAL.
870990 | PARTS FOR WORKS TRUCKS (NOT LIFTING OR HANDLING) USED IN FACTORIES ETC. AND PARTS OF TRACTORS OF THE TYPE USED ON RAILWAY STATION PLATFORMS.
871620 | SELF-LOADING OR SELF-UNLOADING TRAILERS AND SEMI-TRAILERS FOR AGRICULTURAL PURPOSES.
871639 | TRAILERS AND SEMI-TRAILERS FOR THE TRANSPORT OF GOODS, NESOI.
871690 | PARTS OF TRAILERS, SEMI-TRAILERS AND OTHER VEHICLES, NOT MECHANICALLY PROPELLED.
900110 | OPTICAL FIBERS, OPTICAL FIBER BUNDLES AND CABLES, OTHER THAN OPTICAL FIBER CABLES MADE UP OF INDIVIDUALLY SHEATHED FIBERS.
900510 | BINOCULARS.
900580 | MONOCULARS, OTHER OPTICAL TELESCOPES AND MOUNTINGS; OTHER ASTRONOMICAL INSTRUMENTS AND MOUNTINGS, EXCLUDING INSTRUMENTS FOR RADIO-ASTRONOMY.
900590 | PARTS AND ACCESSORIES (INCLUDING MOUNTINGS) OF BINOCULARS, MONOCULARS, OTHEROTHER OPTICAL TELECOPES AND ASTRONOMICAL INSTRUMENTS NESOI.
900630 | CAMERAS DESIGNED FOR UNDERWATER USE, FOR AERIAL SURVEY, OR MEDICAL/SURGICAL EXAMINATION OF INTERNAL ORGANS; CAMERAS FOR FORENSIC OR CRIMINOLOGICAL USE.
900640 | INSTANT PRINT CAMERAS.
900653 | CAMERAS (STILL) NESOI, FOR ROLL FILM OF A WIDTH OF 35 MM (1.4 INCH).
900659 | PHOTOGRAPHIC CAMERAS (OTHER THAN CINEMATOGRAPHIC), NESOI.
900661 | PHOTOGRAPHIC DISCHARGE LAMP (ELECTRONIC) FLASHLIGHT APPARATUS.
900669 | PHOTOGRAPHIC FLASHLIGHT APPARATUS, NESOI.
900691 | PARTS AND ACCESSORIES FOR PHOTOGRAPHIC (OTHER THAN CINEMATOGRAPHIC) CAMERAS.
900699 | PARTS AND ACCESSORIES FOR PHOTOGRAPHIC FLASHLIGHT APPARATUS AND FLASHBULBS, NESOI.
901010 | PHOTOGRAPHIC EQUIPMENT FOR THE AUTOMATIC DEVELOPMENT OF FILM OR PAPER IN ROLLS OR AUTOMATICALLY EXPOSING DEVELOPED FILM TO ROLLS OF PHOTOGRAPHIC PAPER.
901380 | OPTICAL DEVICES, APPLIANCES AND INSTRUMENTS, NESOI.
901410 | DIRECTION FINDING COMPASSES.
901420 | INSTRUMENTS AND APPLIANCES FOR AERONAUTICAL OR SPACE NAVIGATION (OTHER THAN COMPASSES).
901480 | NAVIGATIONAL INSTRUMENTS AND APPLIANCES, NESOI.
901490 | PARTS AND ACCESSORIES FOR DIRECTION FINDING COMPASSES AND OTHER NAVIGATIONAL INSTRUMENTS AND APPLIANCES.
901510 | RANGEFINDERS.
901520 | THEODOLITES AND TACHYOMETERS.
901540 | PHOTOGRAMMETRICAL SURVEYING INSTRUMENTS AND APPLIANCES.
901580 | SURVEYING INSTRUMENTS AND APPLIANCES, NESOI, HYDROGRAPHIC, OCEANOGRAPHIC, HYDROLOGICAL, METEOROLOGICAL OR GEOPHYSICAL INSTRUMENTS AND APPLIANCES NESOI.
901590 | PARTS ETC. FOR RANGEFINDERS AND SURVEYING, HYDROGRAPHIC, OCEAN OGRAPHIC, HYDROLOGICAL, METEOROLOGICAL OR GEOPHYSICAL INSTRUMENTS AND APPLIANCES NESOI.
902480 | MACHINES AND APPLIANCES NESOI FOR TESTING THE HARDNESS, STRENGTH, COMPRESSIBILITY, ELASTICITY OR OTHER SPECIFIC PROPERTIES OF MATERIALS.
902519 | THERMOMETERS AND PYROMETERS, NOT COMBINED WITH OTHER INSTRUMENTS, NESOI.
902590 | PARTS AND ACCESSORIES FOR HYDROMETERS AND SIMILAR FLOATING INSTRUMENTS, THERMOMETERS, PYROMETERS, BAROMETERS, HYGROMETERS AND PSYCHROMETERS.
902610 | INSTRUMENTS AND APPARATUS FOR MEASURING OR CHECKING THE FLOW OR LEVEL OF LIQUIDS, NESOI.
902620 | INSTRUMENTS AND APPARATUS FOR MEASURING OR CHECKING PRESSURE OF LIQUIDS OR GASES, NESOI.
902680 | INSTRUMENTS AND APPARATUS FOR MEASURING OR CHECKING OTHER VARIABLES OF LIQUIDS OR GASES, NESOI.
902690 | PARTS AND ACCESSORIES FOR INSTRUMENTS AND APPARATUS FOR MEASURING OR CHECKING THE FLOW, LEVEL, PRESSURE OR OTHER VARIABLES OF LIQUIDS OR GASES, NESOI.
902710 | GAS OR SMOKE ANALYSIS APPARATUS.
902781 | INSTRUMENTS AND APPARATUS FOR PHYSICAL OR CHEMICAL ANALYSIS, NESOI.
902789 | INSTRUMENTS AND APPARATUS FOR PHYSICAL OR CHEMICAL ANALYSIS, NESOI.
902910 | REVOLUTION COUNTERS, PRODUCTION COUNTERS, TAXIMETERS, ODOMETERS, PEDOMETERS AND THE LIKE.
902920 | SPEEDOMETERS AND TACHOMETERS; STROBOSCOPES.
902990 | PARTS AND ACCESSORIES FOR REVOLUTION COUNTERS, PRODUCTION COUNTERS, TAXIMETERS, ODOMETERS, PEDOMETERS ETC., SPEEDOMETERS, TACHOMETERS AND STROBOSOPES.
903032 | MULTIMETERS WITH A RECORDING DEVICE.
903039 | INSTRUMENTS AND APPARATUS FOR MEASURING OR CHECKING VOLTAGE, CURRENT, RESISTANCE OR POWER, WITHOUT A RECORDING DEVICE (EXCLUDING MULTIMETERS), NESOI.
903040 | INSTRUMENTS AND APPARATUS NESOI, SPECIALLY DESIGNED FOR TELECOMMUNICATIONS (FOR EXAMPLE, CROSS-TALK METERS, GAIN MEASURING INSTRUMENTS ETC.).
903082 | INST & APP W/A RECORDING DEVICE DESIGNED TO CHECK OR MEASURE SEMICONDUCTOR WAFERS & DEVICES (SUCH AS PROBE TESTERS, RESISTIVITY CHECKERS, LOGIC ANALYZERS.
903089 | INSTRUMENTS AND APPARATUS NESOI, WITHOUT A RECORDING DEVICE FOR MEASURING OR CHECKING ELECTRICAL QUANTITIES.
903120 | TEST BENCHES.
903149 | MEASURING OR CHECKING INSTRUMENTS, APPLIANCES AND MACHINES, N.E.S.O.I.
903180 | MEASURING OR CHECKING INSTRUMENTS, APPLIANCES AND MACHINES, NESOI.
903281 | HYDRAULIC OR PNEUMATIC AUTOMATIC REGULATING OR CONTROLLING INSTRUMENTS AND APPARATUS.
903289 | AUTOMATIC REGULATING OR CONTROLLING INSTRUMENTS AND APPARATUS (EXCLUDING THERMOSTATS, MANOSTATS AND HYDRAULIC TYPES), NESOI.

10. Supplement No. 5 to part 746 is amended by:

a. Revising the heading of the supplement; and

b. Adding in numerical order the following entries to the table: “8407100020,” “8407100040,” “8407100060,” “8407100090,” “8407310000,” “8407322000,” “8407325000,” “8407332000,” “8407335000,” “8407342030,” “8407342090,” “8407345000,” “8407901010,” “8407901050,” “8407909010,” “8407909030,” “8407909050,” “8408100030,” “8408100040,” “8408100050,” “8408202000,” “8408205000,” “8408901000,” “8408909010,” “8408909020,” “8408909030,” “8408909040,” “8408909050,” “8409100040,” “8409100080,” “8409914000,” “8409918000,” “8409994000,” “8409996000,” “8409998000,” “8411114010,” “8411114050,” “8411118000,” “8411124010,” “8411124050,” “8411128000,” “8411214010,” “8411214050,” “8411218000,” “8411224010,” “8411224050,” “8411228000,” “8411814010,” “8411814050,” “8411818000,” “8411824010,” “8411824050,” “8411828000,” “8411914000,” “8411917010,” “8411917050,” “8411994000,” “8411997010,” “8411997050,” “8414510010,” “8414510090,” “8414593000,” “8414596040,” “8414599080,” “8414600000,” “8415103040,” “8415103060,” “8415103080,” “8415106000,” “8415109000,” “8418100010,” “8418100020,” “8418100030,” “8418100040,” “8418100090,” “8418210010,” “8418210020,” “8418210030,” “8418210090,” “8418291000,” “8418292000,” “8418300000,” “8418400000,” “8419815000,” “8419819040,” “8419819080,” “8422110000,” “8423100010,” “8423100050,” “8428600000,” “8431390010,” “8431390090,” “8443120000,” “8443310000,” “8443321010,” “8443321020,” “8443321030,” “8443321040,” “8443321050,” “8443321060,” “8443321070,” “8443321080,” “8443321090,” “8443325000,” “8443391000,” “8443392000,” “8443393000,” “8443394000,” “8443395000,” “8443396000,” “8443399000,” “8450110010,” “8450110090,” “8450120000,” “8450190000,” “8451210010,” “8451210090,” “8452100000,” “8470100000,” “8470210000,” “8470290000,” “8470300000,” “8471410110,” “8471410150,” “8471490000,” “8471500110,” “8471500150,” “8471601010,” “8471601050,” “8471602000,” “8471607000,” “8471608000,” “8471609030,” “8471609050,” “8471701000,” “8471702000,” “8471703000,” “8471704035,” “8471704065,” “8471704095,” “8471705035,” “8471705065,” “8471705095,” “8471706000,” “8471709000,” “8471801000,” “8471804000,” “8471809000,” “8471900000,” “8472900500,” “8472901000,” “8472905000,” “8472909002,” “8479600000,” “8483101020,” “8483101050,” “8483103010,” “8483103050,” “8483105000,” “8483200010,” “8483200050,” “8483305020,” “8483305040,” “8483308055,” “8483308065,” “8483308070,” “8483308090,” “8483401000,” “8483404010,” “8483404050,” “8483407000,” “8483408000,” “8483409000,” “8483508030,” “8483508080,” “8483604000,” “8483608000,” “8483901000,” “8483905000,” “8483908010,” “8483909500,” “8508110000,” “8508190000,” “8508600000,” “8509801000,” “8509802000,” “8509805040,” “8509805060,” “8509805091,” “8511100000,” “8511200000,” “8511300040,” “8511300080,” “8511400000,” “8511500000,” “8511802000,” “8511804000,” “8511806000,” “8511906020,” “8511908000,” “8512202000,” “8512204000,” “8512300030,” “8512300050,” “8512402000,” “8512404000,” “8516310000,” “8516500000,” “8516604000,” “8516606000,” “8516710000,” “8516720000,” “8516790000,” “8517110000,” “8517130000,” “8517180000,” “8517610000,” “8517620010,” “8517620050,” “8517690000,” “8519200000,” “8519301000,” “8519302000,” “8519811000,” “8519812000,” “8519812500,” “8519813000,” “8519814105,” “8519814110,” “8519814120,” “8519814150,” “8519891000,” “8519892000,” “8519893000,” “8521100000,” “8521900000,” “8526910010,” “8526910030,” “8526910070,” “8527120000,” “8527131100,” “8527132000,” “8527134000,” “8527136000,” “8527190000,” “8527210000,” “8527290000,” “8527910000,” “8527920000,” “8527993005,” “8527993060,” “8527995030,” “8528710000,” “8528723000,” “8528726005,” “8528726010,” “8528726040,” “8528726057,” “8529102020,” “8529102050,” “8529102090,” “8529104000,” “8529109000,” “8531100015,” “8531100025,” “8531100035,” “8531100045,” “8543702000,” “8543704000,” “8543706000,” “8543707100,” “8543708000,” “8543708500,” “8543709610,” “8543709620,” and “8544300000.”

The additions read as follows:

Supplement No. 5 to Part 746—`Luxury Goods' Sanctions for Russia and Belarus Pursuant to § 746.10(a)(1) and (2)

* * * * *

Schedule B | 2-Digit chapter heading | 10-Digit commodity description and per unit wholesale price in the U.S. if applicable
* * * * * * *
8407100020 | Nuclear reactors, boilers, machinery and mechanical appliances; parts thereof | SPARK-IGNITION RECIPROCATING OR ROTARY INTERNAL COMBUSTION PISTON ENGINES FOR CIVIL AIRCRAFT, NEW, LESS THAN 373 KW, VALUED AT $750 PER UNIT WHOLESALE PRICE IN THE US.¹
8407100040 | Nuclear reactors, boilers, machinery and mechanical appliances; parts thereof | SPARK-IGNITION RECIPROCATING OR ROTARY INTERNAL COMBUSTION PISTON ENGINES FOR CIVIL AIRCRAFT, NEW, 373 KW OR OVER, VALUED AT $500 PER UNIT WHOLESALE PRICE IN THE US.¹
8407100060 | Nuclear reactors, boilers, machinery and mechanical appliances; parts thereof | SPARK-IGNITION RECIPROCATING OR ROTARY INTERNAL COMBUSTION PISTON ENGINES FOR CIVIL AIRCRAFT, USED OR REBUILT, VALUED AT $300 PER UNIT WHOLESALE PRICE IN THE US.¹
8407100090 | Nuclear reactors, boilers, machinery and mechanical appliances; parts thereof | SPARK-IGNITION RECIPROCATING OR ROTARY INTERNAL COMBUSTION PISTON TYPE AIRCRAFT ENGINES, EXCEPT CIVIL AIRCRAFT USE, VALUED AT $300 PER UNIT WHOLESALE PRICE IN THE US.¹
* * * * * * *
8407310000 | Nuclear reactors, boilers, machinery and mechanical appliances; parts thereof | SPARK-IGNITION RECIPROCATING PISTON ENGINES OF A KIND USED FOR THE PROPULSION OF VEHICLES OF CHAPTER 87, NOT EXCEEDING 50 CC CYLINDER CAPACITY, VALUED AT $500 PER UNIT WHOLESALE PRICE IN THE US.¹
8407322000 | Nuclear reactors, boilers, machinery and mechanical appliances; parts thereof | SPARK-IGNITION PISTON ENGINES EXCEEDING 50 CC BUT NOT EXCEEDING 250 CC, TO BE INSTALLED IN ROAD TRACTORS, MOTOR BUSES, AUTOMOBILES OR TRUCKS, NEW OR USED, VALUED AT $1,000 PER UNIT WHOLESALE PRICE IN THE US.¹
8407325000 | Nuclear reactors, boilers, machinery and mechanical appliances; parts thereof | SPARK-IGNITION RECIPROCATING PISTON ENGINES EXCEEDING 50 CC BUT NOT EXCEEDING 250 CC, FOR VEHICLES OF CHAPTER 87, NESOI, VALUED AT $750 PER UNIT WHOLESALE PRICE IN THE US.¹
8407332000 | Nuclear reactors, boilers, machinery and mechanical appliances; parts thereof | SPARK-IGNITION PISTON ENGINES EXCEEDING 250 CC BUT NOT EXCEEDING 1000 CC, TO BE INSTALLED IN ROAD TRACTORS, MOTOR BUSES, AUTOMOBILES OR TRUCKS, NEW/USED, VALUED AT $1,000 PER UNIT WHOLESALE PRICE IN THE US.¹
8407335000 | Nuclear reactors, boilers, machinery and mechanical appliances; parts thereof | SPARK-IGNITION RECIPROCATING PISTON ENGINES EXCEEDING 250 CC BUT NOT EXCEEDING 1000 CC, NESOI, VALUED AT $500 PER UNIT WHOLESALE PRICE IN THE US.¹
8407342030 | Nuclear reactors, boilers, machinery and mechanical appliances; parts thereof | SPARK-IGNITION PISTON ENGINES EXCEEDING 1000CC AND NOT EXCEEDING 2000 CC TO BE INSTALLED IN ROAD TRUCKS, BUSES, AUTOMOBILES OR TRUCK TRACTORS, VALUED AT $750 PER UNIT WHOLESALE PRICE IN THE US.¹
8407342090 | Nuclear reactors, boilers, machinery and mechanical appliances; parts thereof | SPARK-IGNITION PISTON ENGINES EXCEEDING 2000 CC, TO BE INSTALLED IN ROAD TRACTORS, MOTOR BUSES, AUTOMOBILES OR TRUCK TRACTORS, VALUED AT $1,000 PER UNIT WHOLESALE PRICE IN THE US.¹
8407345000 | Nuclear reactors, boilers, machinery and mechanical appliances; parts thereof | SPARK-IGNITION RECIPROCATING PISTON ENGINES EXCEEDING 1000 CC, NESOI, VALUED AT $500 PER UNIT WHOLESALE PRICE IN THE US.¹
8407901010 | Nuclear reactors, boilers, machinery and mechanical appliances; parts thereof | SPARK-IGNITION INTERNAL COMBUSTION PISTON ENGINES LESS THAN 4,476 W TO BE INSTALLED IN AGRICULTURAL OR HORTICULTURAL MACHINERY OR EQUIPMENT, VALUED AT $500 PER UNIT WHOLESALE PRICE IN THE US.¹
8407901050 | Nuclear reactors, boilers, machinery and mechanical appliances; parts thereof | SPARK-IGNITION RECIPROCATING OR ROTARY INTERNAL COMBUSTION PISTON ENGINES, NESOI, TO BE INSTALLED IN AGRICULTURAL OR HORTICULTURAL MACHINERY OR EQUIP, VALUED AT $300 PER UNIT WHOLESALE PRICE IN THE US.¹
8407909010 | Nuclear reactors, boilers, machinery and mechanical appliances; parts thereof | SPARK-IGNITION INTERNAL COMBUSTION PISTON TYPE GAS (NATURAL OR LIQUID PROPANE (LP)) ENGINES, VALUED AT $300 PER UNIT WHOLESALE PRICE IN THE US.¹
8407909030 | Nuclear reactors, boilers, machinery and mechanical appliances; parts thereof | SPARK-IGNITION RECIPROCATING OR ROTARY INTERNAL COMBUSTION PISTON ENGINES, NESOI, LESS THAN 4476 W (6 HP), VALUED AT $750 PER UNIT WHOLESALE PRICE IN THE US.¹
8407909050 | Nuclear reactors, boilers, machinery and mechanical appliances; parts thereof | SPARK-IGNITION RECIPROCATING OR ROTARY INTERNAL COMBUSTION PISTON ENGINES, NESOI, VALUED AT $500 PER UNIT WHOLESALE PRICE IN THE US.¹
* * * * * * *
8408100030 | Nuclear reactors, boilers, machinery and mechanical appliances; parts thereof | COMPRESSION-IGNITION INTERNAL COMBUSTION PISTON ENGINES FOR MARINE PROPULSION, EXCEEDING 223.8 KW BUT NOT EXCEEDING 373 KW, VALUED AT $750 PER UNIT WHOLESALE PRICE IN THE US.¹
8408100040 | Nuclear reactors, boilers, machinery and mechanical appliances; parts thereof | COMPRESSION-IGNITION INTERNAL COMBUSTION PISTON ENGINES FOR MARINE PROPULSION, EXCEEDING 373 KW BUT NOT EXCEEDING 746 KW, VALUED AT $1,000 PER UNIT WHOLESALE PRICE IN THE US.¹
8408100050 | Nuclear reactors, boilers, machinery and mechanical appliances; parts thereof | COMPRESSION-IGNITION INTERNAL COMBUSTION PISTON ENGINES FOR MARINE PROPULSION, EXCEEDING 746 KW, VALUED AT $5,000 PER UNIT WHOLESALE PRICE IN THE US.¹
8408202000 | Nuclear reactors, boilers, machinery and mechanical appliances; parts thereof | COMPRESSION-IGNITION INTERNAL COMBUSTION PISTON ENGINES FOR PROPULSION OF VEHICLES OF CHAPTER 87, TO BE INSTALLED IN ROAD TRACTORS, BUSES, AUTOS, TRUCKS, VALUED AT $300 PER UNIT WHOLESALE PRICE IN THE US.¹
8408205000 | Nuclear reactors, boilers, machinery and mechanical appliances; parts thereof | COMPRESSION-IGNITION INTERNAL COMBUSTION PISTON ENGINES (DIESEL), FOR THE PROPULSION OF VEHICLES OF CHAPTER 87, NESOI, VALUED AT $300 PER UNIT WHOLESALE PRICE IN THE US.¹
8408901000 | Nuclear reactors, boilers, machinery and mechanical appliances; parts thereof | COMPRESSION-IGNITION INTERNAL COMBUSTION PISTON ENGINES (DIESEL), TO BE INSTALLED IN AGRICULTURAL OR HORTICULTURAL MACHINERY OR EQUIPMENT, VALUED AT $500 PER UNIT WHOLESALE PRICE IN THE US.¹
8408909010 | Nuclear reactors, boilers, machinery and mechanical appliances; parts thereof | COMPRESSION-IGNITION INTERNAL COMBUSTION PISTON ENGINES, NESOI, NOT EXCEEDING 149.2 KW, VALUED AT $300 PER UNIT WHOLESALE PRICE IN THE US.¹
8408909020 | Nuclear reactors, boilers, machinery and mechanical appliances; parts thereof | COMPRESSION-IGNITION INTERNAL COMBUSTION PISTON ENGINES, NESOI, EXCEEDING 149.2 KW BUT NOT EXCEEDING 373 KW, VALUED AT $500 PER UNIT WHOLESALE PRICE IN THE US.¹
8408909030 | Nuclear reactors, boilers, machinery and mechanical appliances; parts thereof | COMPRESSION-IGNITION INTERNAL COMBUSTION PISTON ENGINES, NESOI, EXCEEDING 373 KW NOT EXCEEDING 746 KW, VALUED AT $750 PER UNIT WHOLESALE PRICE IN THE US.¹
8408909040 | Nuclear reactors, boilers, machinery and mechanical appliances; parts thereof | COMPRESSION-IGNITION INTERNAL COMBUSTION PISTON ENGINES, NESOI, EXCEEDING 746 KW BUT NOT EXCEEDING 1,119 KW, VALUED AT $1,000 PER UNIT WHOLESALE PRICE IN THE US.¹
8408909050 | Nuclear reactors, boilers, machinery and mechanical appliances; parts thereof | COMPRESSION-IGNITION INTERNAL COMBUSTION PISTON ENGINES, NESOI, EXCEEDING 1,119 KW, VALUED AT $1,000 PER UNIT WHOLESALE PRICE IN THE US.¹
8409100040 | Nuclear reactors, boilers, machinery and mechanical appliances; parts thereof | PARTS FOR SPARK-IGNITION OR COMPRESSION-IGNITION INTERNAL COMBUSTION PISTON ENGINES FOR USE IN CIVIL AIRCRAFT, VALUED AT $500 PER UNIT WHOLESALE PRICE IN THE US.¹
8409100080 | Nuclear reactors, boilers, machinery and mechanical appliances; parts thereof | PARTS FOR SPARK-IGNITION OR COMPRESSION-IGNITION INTERNAL COMBUSTION PISTON ENGINES FOR USE IN AIRCRAFT EXCEPT CIVIL, VALUED AT $300 PER SET OF PARTS WHOLESALE PRICE IN THE US.¹
8409914000 | Nuclear reactors, boilers, machinery and mechanical appliances; parts thereof | PARTS FOR SPARK-IGNITION INTERNAL COMBUSTION PISTON ENGINES FOR USE IN ROAD TRACTORS, MOTOR BUSES, AUTOMOBILES OR TRUCKS, VALUED AT $300 PER SET OF PARTS WHOLESALE PRICE IN THE US.¹
* * * * * * *
8409918000 | Nuclear reactors, boilers, machinery and mechanical appliances; parts thereof | PARTS FOR SPARK-IGNITION INTERNAL COMBUSTION PISTON ENGINES, NESOI, VALUED AT $300 PER SET OF PARTS WHOLESALE PRICE IN THE US.¹
8409994000 | Nuclear reactors, boilers, machinery and mechanical appliances; parts thereof | PARTS FOR COMPRESSION-IGNITION INTERNAL COMBUSTION PISTON ENGINES (DIESEL) FOR USE IN ROAD TRACTORS, MOTOR BUSES, AUTOMOBILES OR TRUCKS, VALUED AT $300 PER SET OF PARTS WHOLESALE PRICE IN THE US.¹
8409996000 | Nuclear reactors, boilers, machinery and mechanical appliances; parts thereof | PARTS FOR COMPRESSION-IGNITION INTERNAL COMBUSTION PISTON ENGINES (DIESEL) FOR MARINE PROPULSION, VALUED AT $300 PER SET OF PARTS WHOLESALE PRICE IN THE US.¹
8409998000 | Nuclear reactors, boilers, machinery and mechanical appliances; parts thereof | PARTS FOR COMPRESSION-IGNITION INTERNAL COMBUSTION PISTON ENGINES (DIESEL), NESOI, VALUED AT $300 PER SET OF PARTS WHOLESALE PRICE IN THE US.¹
8411114010 | Nuclear reactors, boilers, machinery and mechanical appliances; parts thereof | TURBOJET AIRCRAFT TURBINES (ENGINES) FOR USE IN CIVIL AIRCRAFT, OF A THRUST NOT EXCEEDING 25 KN, VALUED AT $5,000 PER UNIT WHOLESALE PRICE IN THE US.¹
8411114050 | Nuclear reactors, boilers, machinery and mechanical appliances; parts thereof | TURBOJET AIRCRAFT TURBINES (ENGINES) OTHER THAN FOR CIVIL AIRCRAFT, OF A THRUST NOT EXCEEDING 25 KN, VALUED AT $750 PER UNIT WHOLESALE PRICE IN THE US.¹
8411118000 | Nuclear reactors, boilers, machinery and mechanical appliances; parts thereof | TURBOJET TURBINES (ENGINES), EXCEPT AIRCRAFT, OF A THRUST NOT EXCEEDING 25 KN, VALUED AT $5,000 PER UNIT WHOLESALE PRICE IN THE US.¹
8411124010 | Nuclear reactors, boilers, machinery and mechanical appliances; parts thereof | TURBOJET AIRCRAFT TURBINES (ENGINES) FOR USE IN CIVIL AIRCRAFT, OF A THRUST EXCEEDING 25 KN, VALUED AT $1,000 PER UNIT WHOLESALE PRICE IN THE US.¹
8411124050 | Nuclear reactors, boilers, machinery and mechanical appliances; parts thereof | TURBOJET AIRCRAFT TURBINES (ENGINES) OTHER THAN FOR CIVIL AIRCRAFT, OF A THRUST EXCEEDING 25 KN, VALUED AT $1,000 PER UNIT WHOLESALE PRICE IN THE US.¹
8411128000 | Nuclear reactors, boilers, machinery and mechanical appliances; parts thereof | TURBOJET TURBINES (ENGINES), EXCEPT AIRCRAFT, OF A THRUST EXCEEDING 25 KN, VALUED AT $750 PER UNIT WHOLESALE PRICE IN THE US.¹
8411214010 | Nuclear reactors, boilers, machinery and mechanical appliances; parts thereof | TURBOPROPELLER AIRCRAFT TURBINES (ENGINES) FOR USE IN CIVIL AIRCRAFT, OF A POWER NOT EXCEEDING 1100 KW, VALUED AT $500 PER UNIT WHOLESALE PRICE IN THE US.¹
8411214050 | Nuclear reactors, boilers, machinery and mechanical appliances; parts thereof | TURBOPROPELLER AIRCRAFT TURBINES (ENGINES) OTHER THAN FOR CIVIL AIRCRAFT, OF A POWER NOT EXCEEDING 1100 KW, VALUED AT $750 PER UNIT WHOLESALE PRICE IN THE US.¹
8411218000 | Nuclear reactors, boilers, machinery and mechanical appliances; parts thereof | TURBOPROPELLER TURBINES (ENGINES), EXCEPT AIRCRAFT, OF A POWER NOT EXCEEDING 1,100 KW, VALUED AT $500 PER UNIT WHOLESALE PRICE IN THE US.¹
8411224010 | Nuclear reactors, boilers, machinery and mechanical appliances; parts thereof | TURBOPROPELLER AIRCRAFT TURBINES (ENGINES) FOR USE IN CIVIL AIRCRAFT, OF A POWER EXCEEDING 1100 KW, VALUED AT $500 PER UNIT WHOLESALE PRICE IN THE US.¹
8411224050 | Nuclear reactors, boilers, machinery and mechanical appliances; parts thereof | TURBOPROPELLER AIRCRAFT TURBINES (ENGINES) OTHER THAN FOR USE IN CIVIL AIRCRAFT, OF A POWER EXCEEDING 1100 KW, VALUED AT $750 PER UNIT WHOLESALE PRICE IN THE US.¹
8411228000 | Nuclear reactors, boilers, machinery and mechanical appliances; parts thereof | TURBOPROPELLER TURBINES (ENGINES), EXCEPT AIRCRAFT, OF A POWER EXCEEDING 1,100 KW, VALUED AT $750 PER UNIT WHOLESALE PRICE IN THE US.¹
8411814010 | Nuclear reactors, boilers, machinery and mechanical appliances; parts thereof | AIRCRAFT TURBINES (ENGINES) FOR USE IN CIVIL AIRCRAFT, OF A POWER NOT EXCEEDING 5000 KW, VALUED AT $5,000 PER UNIT WHOLESALE PRICE IN THE US.¹
8411814050 | Nuclear reactors, boilers, machinery and mechanical appliances; parts thereof | AIRCRAFT TURBINES (ENGINES), EXCEPT FOR USE IN CIVIL AIRCRAFT, OF A POWER NOT EXCEEDING 5000 KW, VALUED AT $5,000 PER UNIT WHOLESALE PRICE IN THE US.¹
8411818000 | Nuclear reactors, boilers, machinery and mechanical appliances; parts thereof | GAS TURBINE ENGINE, EXCEPT AIRCRAFT NESOI, OF A POWER NOT EXCEEDING 5,000 KW, VALUED AT $5,000 PER UNIT WHOLESALE PRICE IN THE US.¹
8411824010 | Nuclear reactors, boilers, machinery and mechanical appliances; parts thereof | AIRCRAFT TURBINES (ENGINES) FOR USE IN CIVIL AIRCRAFT, OF A POWER EXCEEDING 5000 KW, VALUED AT $5,000 PER UNIT WHOLESALE PRICE IN THE US.¹
8411824050 | Nuclear reactors, boilers, machinery and mechanical appliances; parts thereof | AIRCRAFT TURBINES (ENGINES), EXCEPT FOR USE IN CIVIL AIRCRAFT, OF A POWER EXCEEDING 5000 KW, VALUED AT $5,000 PER UNIT WHOLESALE PRICE IN THE US.¹
8411828000 | Nuclear reactors, boilers, machinery and mechanical appliances; parts thereof | GAS TURBINE ENGINES, EXCEPT AIRCRAFT NESOI, OF A POWER EXCEEDING 5,000 KW, VALUED AT $750 PER UNIT WHOLESALE PRICE IN THE US.¹
8411914000 | Nuclear reactors, boilers, machinery and mechanical appliances; parts thereof | PARTS OF NONAIRCRAFT TURBOJETS AND TURBOPROPELLERS, VALUED AT $750 PER SET OF PARTS WHOLESALE PRICE IN THE US.¹
8411917010 | Nuclear reactors, boilers, machinery and mechanical appliances; parts thereof | PARTS OF TURBOJETS AND TURBOPROPELLER AIRCRAFT ENGINES FOR USE IN CIVIL AIRCRAFT, VALUED AT $500 PER SET OF PARTS WHOLESALE PRICE IN THE US.¹
8411917050 | Nuclear reactors, boilers, machinery and mechanical appliances; parts thereof | PARTS OF TURBOJET AND TURBOPROPELLER AIRCRAFT ENGINES, OTHER THAN FOR USE IN CIVIL AIRCRAFT, VALUED AT $1,000 PER SET OF PARTS WHOLESALE PRICE IN THE US.¹
8411994000 | Nuclear reactors, boilers, machinery and mechanical appliances; parts thereof | PARTS OF NONAIRCRAFT GAS TURBINES, VALUED AT $750 PER SET OF PARTS WHOLESALE PRICE IN THE US.¹
8411997010 | Nuclear reactors, boilers, machinery and mechanical appliances; parts thereof | PARTS OF GAS TURBINE AIRCRAFT ENGINES FOR USE IN CIVIL AIRCRAFT, VALUED AT $750 PER SET OF PARTS WHOLESALE PRICE IN THE US.¹
8411997050 | Nuclear reactors, boilers, machinery and mechanical appliances; parts thereof | PARTS OF GAS TURBINE AIRCRAFT ENGINES, OTHER THAN FOR USE IN CIVIL AIRCRAFT, VALUED AT $750 PER SET OF PARTS WHOLESALE PRICE IN THE US.¹
8414510010 | Nuclear reactors, boilers, machinery and mechanical appliances; parts thereof | FLOOR, WALL, WINDOW, CEILING OR ROOF FANS, WITH A SELF-CONTAINED ELECTRIC MOTOR OF AN OUTPUT NOT EXCEEDING 125 W, FOR PERMANENT INSTALLATION, VALUED AT $300 PER UNIT WHOLESALE PRICE IN THE US.¹
8414510090 | Nuclear reactors, boilers, machinery and mechanical appliances; parts thereof | FANS, OTHER THAN FOR PERMANENT INSTALLATION, WITH A SELF CONTAINED ELECTRIC MOTOR OF AN OUTPUT NOT EXCEEDING 125 W, VALUED AT $750 PER UNIT WHOLESALE PRICE IN THE US.¹
8414593000 | Nuclear reactors, boilers, machinery and mechanical appliances; parts thereof | TURBOCHARGERS AND SUPERCHARGERS, FAN TYPE, VALUED AT $750 PER UNIT WHOLESALE PRICE IN THE US.¹
8414596040 | Nuclear reactors, boilers, machinery and mechanical appliances; parts thereof | FANS, NESOI, SUITABLE FOR USE WITH MOTOR VEHICLES, VALUED AT $500 PER UNIT WHOLESALE PRICE IN THE US.¹
8414599080 | Nuclear reactors, boilers, machinery and mechanical appliances; parts thereof | FANS, NESOI, VALUED AT $300 PER UNIT WHOLESALE PRICE IN THE US.¹
8414600000 | Nuclear reactors, boilers, machinery and mechanical appliances; parts thereof | HOODS HAVING A MAXIMUM HORIZONTAL SIDE NOT EXCEEDING 120 CM, VALUED AT $500 PER UNIT WHOLESALE PRICE IN THE US.¹
8415103040 | Nuclear reactors, boilers, machinery and mechanical appliances; parts thereof | AIR-CONDITIONERS, WINDOW OR WALL TYPE, SELF-CONTAINED, LESS THAN 2.93 KW PER HOUR (10000 BTU/HR), VALUED AT $750 PER UNIT WHOLESALE PRICE IN THE US.¹
8415103060 | Nuclear reactors, boilers, machinery and mechanical appliances; parts thereof | AIR-CONDITIONERS, WINDOW OR WALL TYPE, SELF-CONTAINED, 2.93 KW/HR OR GREATER BUT LESS THAN 4.98 KW/HR (10000-16999BTU/HR), VALUED AT $750 PER UNIT WHOLESALE PRICE IN THE US.¹
8415103080 | Nuclear reactors, boilers, machinery and mechanical appliances; parts thereof | AIR-CONDITIONERS, WINDOW OR WALL TYPE, SELF-CONTAINED, 4.98 KW/HR OR GREATER (17000 BTU/HR), VALUED AT $500 PER UNIT WHOLESALE PRICE IN THE US.¹
8415106000 | Nuclear reactors, boilers, machinery and mechanical appliances; parts thereof | AIR CONDITIONING MACHINES INCORPORATING A REFRIGERATING UNIT, AND A VALVE FOR REVERSAL OF THE COOLING/HEAT CYCLE, WINDOW OR WALL TYPES, VALUED AT $750 PER UNIT WHOLESALE PRICE IN THE US.¹
8415109000 | Nuclear reactors, boilers, machinery and mechanical appliances; parts thereof | AIR CONDITIONING MACHINES, WINDOW OR WALL TYPE, NOT SELF CONTAINED, NESOI, VALUED AT $300 PER UNIT WHOLESALE PRICE IN THE US.¹
8418100010 | Nuclear reactors, boilers, machinery and mechanical appliances; parts thereof | REFRIGERATOR-FREEZERS COMBINED, FITTED WITH SEPERATE EXTERNAL DOORS, COMPRESSION TYPE, VOLUME UNDER 184 LITERS, VALUED AT $750 PER UNIT WHOLESALE PRICE IN THE US.¹
8418100020 | Nuclear reactors, boilers, machinery and mechanical appliances; parts thereof | REFRIGERATOR-FREEZERS COMBINED, FITTED WITH SEPERATE EXTERNAL DOORS, COMPRESSION TYPE, VOLUME OF 184 LITERS AND OVER BUT UNDER 269 LITERS, VALUED AT $750 PER UNIT WHOLESALE PRICE IN THE US.¹
8418100030 | Nuclear reactors, boilers, machinery and mechanical appliances; parts thereof | REFRIGERATOR-FREEZERS COMBINED, FITTED WITH SEPERATE EXTERNAL DOORS, COMPRESSION TYPE, VOLUME OF 269 LITERS AND OVER BUT UNDER 382 LITERS, VALUED AT $750 PER UNIT WHOLESALE PRICE IN THE US.¹
8418100040 | Nuclear reactors, boilers, machinery and mechanical appliances; parts thereof | REFRIGERATOR-FREEZERS COMBINED, FITTED WITH SEPERATE EXTERNAL DOORS, COMPRESSION TYPE, VOLUME OF 382 LITERS AND OVER, VALUED AT $750 PER UNIT WHOLESALE PRICE IN THE US.¹
8418100090 | Nuclear reactors, boilers, machinery and mechanical appliances; parts thereof | REFRIGERATOR-FREEZERS COMBINED, FITTED WITH SEPERATE EXTERNAL DOORS, EXCEPT COMPRESSION TYPE, VALUED AT $750 PER UNIT WHOLESALE PRICE IN THE US.¹
8418210010 | Nuclear reactors, boilers, machinery and mechanical appliances; parts thereof | REFRIGERATORS, HOUSEHOLD, COMPRESSION TYPE, VOLUME UNDER 184 LITERS, VALUED AT $750 PER UNIT WHOLESALE PRICE IN THE US.¹
8418210020 | Nuclear reactors, boilers, machinery and mechanical appliances; parts thereof | REFRIGERATORS, HOUSEHOLD, COMPRESSION TYPE, VOLUME OF 184 LITERS AND OVER BUT UNDER 269 LITERS, VALUED AT $750 PER UNIT WHOLESALE PRICE IN THE US.¹
8418210030 | Nuclear reactors, boilers, machinery and mechanical appliances; parts thereof | REFRIGERATORS, HOUSEHOLD, COMPRESSION TYPE, VOLUME OF 269 LITERS AND OVER BUT UNDER 382 LITERS, VALUED AT $750 PER UNIT WHOLESALE PRICE IN THE US.¹
8418210090 | Nuclear reactors, boilers, machinery and mechanical appliances; parts thereof | REFRIGERATORS, HOUSEHOLD, COMPRESSION TYPE, VOLUME OF 382 LITERS AND OVER, VALUED AT $750 PER UNIT WHOLESALE PRICE IN THE US.¹
8418291000 | Nuclear reactors, boilers, machinery and mechanical appliances; parts thereof | REFRIGERATORS, HOUSEHOLD, ABSORPTION TYPE, ELECTRICAL, VALUED AT $750 PER UNIT WHOLESALE PRICE IN THE US.¹
8418292000 | Nuclear reactors, boilers, machinery and mechanical appliances; parts thereof | REFRIGERATORS, HOUSEHOLD TYPE, NESOI, VALUED AT $750 PER UNIT WHOLESALE PRICE IN THE US.¹
8418300000 | Nuclear reactors, boilers, machinery and mechanical appliances; parts thereof | FREEZERS, CHEST TYPE, CAPACITY NOT EXCEEDING 800 LITERS, VALUED AT $750 PER UNIT WHOLESALE PRICE IN THE US.¹
8418400000 | Nuclear reactors, boilers, machinery and mechanical appliances; parts thereof | FREEZERS, UPRIGHT TYPE, CAPACITY NOT EXCEEDING 900 LITERS, VALUED AT $500 PER UNIT WHOLESALE PRICE IN THE US.¹
8419815000 | Nuclear reactors, boilers, machinery and mechanical appliances; parts thereof | COOKING STOVES, RANGES AND OVENS EXCEPT MICROWAVE OVENS, OTHER THAN OF A KIND USED FOR DOMESTIC PURPOSES, VALUED AT $750 PER UNIT WHOLESALE PRICE IN THE US.¹
8419819040 | Nuclear reactors, boilers, machinery and mechanical appliances; parts thereof | INDUSTRIAL MACHINERY OR EQUIPMENT OF A TYPE USED IN RESTAURANTS, HOTELS OR SIMILAR LOCATIONS FOR MAKING HOT DRINKS OR FOR COOKING, HEATING FOOD, NESOI, VALUED AT $750 PER UNIT WHOLESALE PRICE IN THE US.¹
8419819080 | Nuclear reactors, boilers, machinery and mechanical appliances; parts thereof | INDUSTRIAL MACHINERY OR EQUIPMENT FOR MAKING HOT DRINKS OR FOR COOKING OR HEATING FOOD, NESOI, VALUED AT $750 PER UNIT WHOLESALE PRICE IN THE US.¹
8422110000 | Nuclear reactors, boilers, machinery and mechanical appliances; parts thereof | DISHWASHING MACHINES, HOUSEHOLD TYPE.¹
8423100010 | Nuclear reactors, boilers, machinery and mechanical appliances; parts thereof | DIGITAL ELECTRONIC TYPE PERSONAL WEIGHING MACHINES, INCLUDING BABY AND HOUSEHOLD SCALES, VALUED AT $100 PER UNIT WHOLESALE PRICE IN THE US.¹
8423100050 | Nuclear reactors, boilers, machinery and mechanical appliances; parts thereof | PERSONAL WEIGHING MACHINES, INCLUDING BABY AND HOUSEHOLD SCALES, NESOI, VALUED AT $100 PER UNIT WHOLESALE PRICE IN THE US.¹
8428600000 | Nuclear reactors, boilers, machinery and mechanical appliances; parts thereof | TELEFERICS, CHAIR LIFTS, SKI DRAGLINES; TRACTION MECHANISMS FOR FUNICULARS, VALUED AT $0 PER SET OF PARTS WHOLESALE PRICE IN THE US.¹
8431390010 | Nuclear reactors, boilers, machinery and mechanical appliances; parts thereof | ELEVATOR AND CONVEYOR PARTS, NESOI, VALUED AT $5,000 PER SET OF PARTS WHOLESALE PRICE IN THE US.¹
8431390090 | Nuclear reactors, boilers, machinery and mechanical appliances; parts thereof | PARTS FOR LIFTING, HANDLING, LOADING OR UNLOADING MACHINERY, NESOI, VALUED AT $300 PER SET OF PARTS WHOLESALE PRICE IN THE US.¹
8443120000 | Nuclear reactors, boilers, machinery and mechanical appliances; parts thereof | SHEET-FED, OFFICE TYPE (SHEET SIZE NOT EXCEEDING 22X36 CM), OFFSET PRINTING MACHINERY, VALUED AT $750 PER UNIT WHOLESALE PRICE IN THE US.¹
8443310000 | Nuclear reactors, boilers, machinery and mechanical appliances; parts thereof | MACHINES WHICH PERFORM TWO OR MORE OF THE FUNCTIONS OF PRINTING, COPYING OR FACSIMILE TRANSMISSION, CAPABLE OF CONNECTING TO AN ADP MACHINE OR NETWORK, VALUED AT $750 PER UNIT WHOLESALE PRICE IN THE US.¹
8443321010 | Nuclear reactors, boilers, machinery and mechanical appliances; parts thereof | LASER PRINTERS, CAPABLE OF CONNECTING TO AN AUTOMATIC DATA PROCESSING MACHINE OR NETWORK, PRODUCING MORE THAN 20 PAGES PER MINUTE, VALUED AT $300 PER UNIT WHOLESALE PRICE IN THE US.¹
8443321020 | Nuclear reactors, boilers, machinery and mechanical appliances; parts thereof | LASER PRINTERS, CAPABLE OF CONNECTING TO AN AUTOMATIC DATA PROCESSING MACHINE OR NETWORK, PRODUCING LESS THAN 20 PAGES PER MINUTE, VALUED AT $300 PER UNIT WHOLESALE PRICE IN THE US.¹
8443321030 | Nuclear reactors, boilers, machinery and mechanical appliances; parts thereof | PRINTERS, LIGHT BAR ELECTRONIC TYPE, CAPABLE OF CONNECTING TO AN AUTOMATIC DATA PROCESSING MACHINE OR NETWORK, VALUED AT $750 PER UNIT WHOLESALE PRICE IN THE US.¹
8443321040 | Nuclear reactors, boilers, machinery and mechanical appliances; parts thereof | PRINTERS, INK JET, CAPABLE OF CONNECTING TO AN AUTOMATIC DATA PROCESSING MACHINE OR NETWORK, VALUED AT $300 PER UNIT WHOLESALE PRICE IN THE US.¹
8443321050 | Nuclear reactors, boilers, machinery and mechanical appliances; parts thereof | PRINTERS, THERMAL TRANSFER, CAPABLE OF CONNECTING TO AN AUTOMATIC DATA PROCESSING MACHINE OR NETWORK, VALUED AT $750 PER UNIT WHOLESALE PRICE IN THE US.¹
8443321060 | Nuclear reactors, boilers, machinery and mechanical appliances; parts thereof | PRINTERS, IONOGRAPHIC, CAPABLE OF CONNECTING TO AN AUTOMATIC DATA PROCESSING MACHINE OR NETWORK, VALUED AT $750 PER UNIT WHOLESALE PRICE IN THE US.¹
8443321070 | Nuclear reactors, boilers, machinery and mechanical appliances; parts thereof | PRINTERS, DAISY WHEEL, CAPABLE OF CONNECTING TO AN AUTOMATIC DATA PROCESSING MACHINE OR NETWORK, VALUED AT $300 PER UNIT WHOLESALE PRICE IN THE US.¹
8443321080 | Nuclear reactors, boilers, machinery and mechanical appliances; parts thereof | PRINTERS, DOT MATRIX, CAPABLE OF CONNECTING TO AN AUTOMATIC DATA PROCESSING MACHINE OR NETWORK, VALUED AT $300 PER UNIT WHOLESALE PRICE IN THE US.¹
8443321090 | Nuclear reactors, boilers, machinery and mechanical appliances; parts thereof | PRINTER UNITS, CAPABLE OF CONNECTING TO AN AUTOMATIC DATA PROCESSING MACHINE OR NETWORK, NESOI, VALUED AT $300 PER UNIT WHOLESALE PRICE IN THE US.¹
8443325000 | Nuclear reactors, boilers, machinery and mechanical appliances; parts thereof | COPYING AND FACSIMILE MACHINES, CAPABLE OF CONNECTING TO AN AUTOMATIC DATA PROCESSING MACHINE OR NETWORK, NESOI, VALUED AT $500 PER UNIT WHOLESALE PRICE IN THE US.¹
8443391000 | Nuclear reactors, boilers, machinery and mechanical appliances; parts thereof | ELECTROSTATIC PHOTOCOPYING APPARATUS OPERATING BY REPRODUCING THE ORIGINAL IMAGE DIRECTLY ONTO THE COPY (DIRECT PROCESS), VALUED AT $750 PER UNIT WHOLESALE PRICE IN THE US.¹
8443392000 | Nuclear reactors, boilers, machinery and mechanical appliances; parts thereof | ELECTROSTATIC PHOTOCOPYING APPARATUS OPERATING BY REPRODUCING THE ORIGINAL IMAGE VIA AN INTERMEDIATE ONTO THE COPY (INDIRECT PROCESS), VALUED AT $750 PER UNIT WHOLESALE PRICE IN THE US.¹
8443393000 | Nuclear reactors, boilers, machinery and mechanical appliances; parts thereof | OTHER PHOTOCOPYING APPARATUS INCORPORATING AN OPTICAL SYSTEM, VALUED AT $300 PER UNIT WHOLESALE PRICE IN THE US.¹
8443394000 | Nuclear reactors, boilers, machinery and mechanical appliances; parts thereof | OTHER PHOTOCOPYING APPARATUS OF THE CONTACT TYPE, VALUED AT $300 PER UNIT WHOLESALE PRICE IN THE US.¹
8443395000 | Nuclear reactors, boilers, machinery and mechanical appliances; parts thereof | THERMOCOPYING APPARATUS, VALUED AT $300 PER UNIT WHOLESALE PRICE IN THE US.¹
8443396000 | Nuclear reactors, boilers, machinery and mechanical appliances; parts thereof | COPYING MACHINES, NESOI, VALUED AT $750 PER UNIT WHOLESALE PRICE IN THE US.¹
8443399000 | Nuclear reactors, boilers, machinery and mechanical appliances; parts thereof | PRINTER AND FACSIMILE MACHINES, EXCEPT COPYING, WHETHER OR NOT COMBINED, NESOI, VALUED AT $500 PER UNIT WHOLESALE PRICE IN THE US.¹
8450110010 | Nuclear reactors, boilers, machinery and mechanical appliances; parts thereof | WASHING MACHINES, COIN OPERATED, FULLY AUTOMATIC, DRY LINEN CAPACITY NOT EXCEEDING 10 KG, HOUSEHOLD OR LAUNDRY TYPE, VALUED AT $750 PER UNIT WHOLESALE PRICE IN THE US.¹
8450110090 | Nuclear reactors, boilers, machinery and mechanical appliances; parts thereof | WASHING MACHINES, EXCEPT COIN OPERATED, FULLY AUTOMATIC, DRY LINEN CAPACITY NOT EXCEEDING 10 KG, HOUSEHOLD OR LAUNDRY TYPE, VALUED AT $750 PER UNIT WHOLESALE PRICE IN THE US.¹
8450120000 | Nuclear reactors, boilers, machinery and mechanical appliances; parts thereof | WASHING MACHINES WITH BUILT-IN CENTRIFUGAL DRYERS, DRY LINEN CAPACITY NOT EXCEEDING 10 KG, HOUSEHOLD OR LAUNDRY TYPE, VALUED AT $750 PER UNIT WHOLESALE PRICE IN THE US.¹
8450190000 | Nuclear reactors, boilers, machinery and mechanical appliances; parts thereof | WASHING MACHINES, DRY LINEN CAPACITY NOT EXCEEDING 10 KG, HOUSEHOLD OR LAUNDRY-TYPE, NESOI, VALUED AT $750 PER UNIT WHOLESALE PRICE IN THE US.¹
8451210010 | Nuclear reactors, boilers, machinery and mechanical appliances; parts thereof | DRYING MACHINES, COIN OPERATED, DRY LINEN CAPACITY NOT EXCEEDING 10 KG, VALUED AT $750 PER UNIT WHOLESALE PRICE IN THE US.¹
8451210090 | Nuclear reactors, boilers, machinery and mechanical appliances; parts thereof | DRYING MACHINES, EXCEPT COIN OPERATED, DRY LINEN CAPACITY NOT EXCEEDING 10 KG, VALUED AT $750 PER UNIT WHOLESALE PRICE IN THE US.¹
8452100000 | Nuclear reactors, boilers, machinery and mechanical appliances; parts thereof | SEWING MACHINES OF THE HOUSEHOLD TYPE, VALUED AT $300 PER UNIT WHOLESALE PRICE IN THE US.¹
8470100000 | Nuclear reactors, boilers, machinery and mechanical appliances; parts thereof | ELECTRONIC CALCULATORS CAPABLE OF OPERATION WITHOUT AN EXTERNAL SOURCE OF ELECTRIC POWER AND POCKET-SIZE RECORDING, REPRODUC&DISPLAY MACH W/CAL FUNCT, VALUED AT $300 PER UNIT WHOLESALE PRICE IN THE US.¹
8470210000 | Nuclear reactors, boilers, machinery and mechanical appliances; parts thereof | ELECTRONIC CALCULATING MACHINES, NESOI, INCORPORATING A PRINTING DEVICE, VALUED AT $300 PER UNIT WHOLESALE PRICE IN THE US.¹
8470290000 | Nuclear reactors, boilers, machinery and mechanical appliances; parts thereof | ELECTRONIC CALCULATING MACHINES, NESOI, NOT INCORPORATING A PRINTING DEVICE.¹
8470300000 | Nuclear reactors, boilers, machinery and mechanical appliances; parts thereof | CALCULATING MACHINES EXCEPT ELECTRONIC, VALUED AT $750 PER UNIT WHOLESALE PRICE IN THE US.¹
* * * * * * *
8471410110 | Nuclear reactors, boilers, machinery and mechanical appliances; parts thereof | DIGITAL ADP MACH COMPRISING IN SAME HOUSING AT LEAST A CPU AND AN INPUT AND OUPUT UNIT, WHETHER OR NOT COMBINED, W/CATHODE RAY TUBE (CRT), VALUED AT $750 PER UNIT WHOLESALE PRICE IN THE US.¹
8471410150 | Nuclear reactors, boilers, machinery and mechanical appliances; parts thereof | DIGITAL ADP MACH COMPRISING IN SAME HOUSING AT LEAST A CPU AND AN INPUT AND OUTPUT UNIT WHETHER OR NOT COMBINED, WITHOUT CRT, NESOI, VALUED AT $750 PER UNIT WHOLESALE PRICE IN THE US.¹
8471490000 | Nuclear reactors, boilers, machinery and mechanical appliances; parts thereof | AUTOMATIC DATA PROCESSING MACHINES ENTERED IN THE FORM OF SYSTEMS, NESOI, VALUED AT $750 PER UNIT WHOLESALE PRICE IN THE US.¹
8471500110 | Nuclear reactors, boilers, machinery and mechanical appliances; parts thereof | PROCESS UNITS W/CATHODE RAY TUBE, WH/NOT CONTG IN THE SAME HOUSING 1 OR 2 OF STORAGE UNITS, INPUT UNITS OR OUTPUT UNITS, VALUED AT $750 PER UNIT WHOLESALE PRICE IN THE US.¹
8471500150 | Nuclear reactors, boilers, machinery and mechanical appliances; parts thereof | DIGITAL PROCESSING UNITS EXCLUDE SUBHEADING 8471.41 OR 8471.49, MAY CONTAIN IN SAME HOUSING 1 OR 2 OF FOLLOWING: STORAGE, INPUT OR OUTPUT UNITS, NESOI, VALUED AT $300 PER UNIT WHOLESALE PRICE IN THE US.¹
8471601010 | Nuclear reactors, boilers, machinery and mechanical appliances; parts thereof | COMBINED INPUT/OUTPUT UNITS, WITH CATHODE RAY TUBE (CRT), NESOI, VALUED AT $500 PER UNIT WHOLESALE PRICE IN THE US.¹
8471601050 | Nuclear reactors, boilers, machinery and mechanical appliances; parts thereof | COMBINED INPUT/OUTPUT UNITS, WITHOUT A CATHODE RAY TUBE (CRT), NESOI, VALUED AT $750 PER UNIT WHOLESALE PRICE IN THE US.¹
8471602000 | Nuclear reactors, boilers, machinery and mechanical appliances; parts thereof | KEYBOARD UNITS, VALUED AT $300 PER UNIT WHOLESALE PRICE IN THE US.¹
8471607000 | Nuclear reactors, boilers, machinery and mechanical appliances; parts thereof | INPUT/OUTPUT UNITS, NESOI, SUITABLE FOR PHYSICAL INCORPORATION INTO AUTOMATIC DATA PROCESSING MACHINES OR UNITS THEREOF, VALUED AT $750 PER UNIT WHOLESALE PRICE IN THE US.¹
8471608000 | Nuclear reactors, boilers, machinery and mechanical appliances; parts thereof | OPTICAL SCANNERS AND MAGNETIC INK RECOGNITION DEVICES, VALUED AT $750 PER UNIT WHOLESALE PRICE IN THE US.¹
8471609030 | Nuclear reactors, boilers, machinery and mechanical appliances; parts thereof | CARD KEY AND MAGNETIC MEDIA ENTRY DEVICES, VALUED AT $300 PER UNIT WHOLESALE PRICE IN THE US.¹
8471609050 | Nuclear reactors, boilers, machinery and mechanical appliances; parts thereof | ADP INPUT/OUTPUT UNITS, NESOI, VALUED AT $750 PER UNIT WHOLESALE PRICE IN THE US.¹
8471701000 | Nuclear reactors, boilers, machinery and mechanical appliances; parts thereof | MAGNETIC DISK DRIVE UNITS WITH A DISK DIAMETER GT=21 CM,WITH READ-WRITE UNITS ENTERED SEPERATELY, VALUED AT $300 PER UNIT WHOLESALE PRICE IN THE US.¹
8471702000 | Nuclear reactors, boilers, machinery and mechanical appliances; parts thereof | MAGNETIC DISK DRIVE UNTS FOR DISK OF DIAMETER EXCEEDING 21 CM (8.3 INCHES), UNTS FOR PHYSICAL INCORP INTO AUTO DATA PROCESS MACH OR UNT THEREOF, NESOI, VALUED AT $300 PER UNIT WHOLESALE PRICE IN THE US.¹
8471703000 | Nuclear reactors, boilers, machinery and mechanical appliances; parts thereof | MAGNETIC DISK DRIVE UNITS, NESOI, WITH A DISK DIAMETER GT=21 CM, VALUED AT $300 PER UNIT WHOLESALE PRICE IN THE US.¹
8471704035 | Nuclear reactors, boilers, machinery and mechanical appliances; parts thereof | FLEXIBLE (FLOPPY) MAGNETIC DISK DRIVE UNITS, NOT ASSEMBLED IN CABINETS, AND WITHOUT ATTACHED EXTERNAL POWER SUPPLY, NESOI, VALUED AT $300 PER UNIT WHOLESALE PRICE IN THE US.¹
8471704065 | Nuclear reactors, boilers, machinery and mechanical appliances; parts thereof | HARD MAGNETIC DISK DRIVE UNITS, NESOI, NOT ASSEMBLED IN CABINETS, AND W/OUT ATTACHED EXTERNAL POWER SUPPLY UNITS, VALUED AT $750 PER UNIT WHOLESALE PRICE IN THE US.¹
8471704095 | Nuclear reactors, boilers, machinery and mechanical appliances; parts thereof | DISK DRIVE UNITS, NESOI, NOT ASSEMBLED IN CABINETS, AND WITHOUT ATTACHED EXTERNAL POWER SUPPLY UNITS, VALUED AT $300 PER UNIT WHOLESALE PRICE IN THE US.¹
8471705035 | Nuclear reactors, boilers, machinery and mechanical appliances; parts thereof | FLEXIBLE (FLOPPY) MAGNETIC DISK DRIVE UNITS, NESOI, VALUED AT $300 PER UNIT WHOLESALE PRICE IN THE US.¹
8471705065 | Nuclear reactors, boilers, machinery and mechanical appliances; parts thereof | HARD MAGNETIC DISK DRIVE UNITS, NESOI, VALUED AT $300 PER UNIT WHOLESALE PRICE IN THE US.¹
8471705095 | Nuclear reactors, boilers, machinery and mechanical appliances; parts thereof | MAGNETIC DISK DRIVE UNITS, NESOI, VALUED AT $300 PER UNIT WHOLESALE PRICE IN THE US.¹
8471706000 | Nuclear reactors, boilers, machinery and mechanical appliances; parts thereof | OTHER STORAGE UNITS, NESOI, NOT ASSEMBLED IN CABINETS FOR PLACING ON A TABLE, DESK, WALL FLOOR OR SIMILAR PLACE, VALUED AT $750 PER UNIT WHOLESALE PRICE IN THE US.¹
8471709000 | Nuclear reactors, boilers, machinery and mechanical appliances; parts thereof | OTHER STORAGE UNITS, NESOI, VALUED AT $750 PER UNIT WHOLESALE PRICE IN THE US.¹
8471801000 | Nuclear reactors, boilers, machinery and mechanical appliances; parts thereof | CONTROL OR ADAPTER UNITS FOR AUTOMATIC DATA PROCESSING MACHINES, VALUED AT $300 PER UNIT WHOLESALE PRICE IN THE US.¹
8471804000 | Nuclear reactors, boilers, machinery and mechanical appliances; parts thereof | UNITS, NESOI, SUITABLE FOR PHYSICAL INCORPORATION INTO AUTOMATIC DATA PROCESSING MACHINES OR UNITS THEREOF, VALUED AT $750 PER UNIT WHOLESALE PRICE IN THE US.¹
8471809000 | Nuclear reactors, boilers, machinery and mechanical appliances; parts thereof | OTHER UNITS FOR AUTOMATIC DATA PROCESSING MACHINES, NESOI, VALUED AT $750 PER UNIT WHOLESALE PRICE IN THE US.¹
8471900000 | Nuclear reactors, boilers, machinery and mechanical appliances; parts thereof | MACHINES AND UNITS THEREOF FOR PROCESSING DATA, NESOI, VALUED AT $750 PER UNIT WHOLESALE PRICE IN THE US.¹
8472900500 | Nuclear reactors, boilers, machinery and mechanical appliances; parts thereof | ADDRESSING MACHINES AND ADDRESS PLATE EMBOSSING MACHINES, VALUED AT $750 PER UNIT WHOLESALE PRICE IN THE US.¹
8472901000 | Nuclear reactors, boilers, machinery and mechanical appliances; parts thereof | AUTOMATIC TELLER MACHINES, VALUED AT $750 PER UNIT WHOLESALE PRICE IN THE US.¹
8472905000 | Nuclear reactors, boilers, machinery and mechanical appliances; parts thereof | TYPEWRITERS OTHER THAN PRINTERS OF HEADING 8443; WORD PROCESSING MACHINES, VALUED AT $100 PER UNIT WHOLESALE PRICE IN THE US.¹
8472909002 | Nuclear reactors, boilers, machinery and mechanical appliances; parts thereof | OFFICE MACHINES, NESOI, VALUED AT $750 PER UNIT WHOLESALE PRICE IN THE US.¹
8479600000 | Nuclear reactors, boilers, machinery and mechanical appliances; parts thereof | EVAPORATIVE AIR COOLERS, VALUED AT $300 PER UNIT WHOLESALE PRICE IN THE US.¹
8483101020 | Nuclear reactors, boilers, machinery and mechanical appliances; parts thereof | CAMSHAFTS AND CRANKSHAFTS FOR USE WITH SPARK-IGNITION INTERNAL COMBUSTION PISTON ENGINES OR ROTARY ENGINES, FOR VEHICLES OF CHAPTER 87, VALUED AT $500 PER SET OF PARTS WHOLESALE PRICE IN THE US.¹
8483101050 | Nuclear reactors, boilers, machinery and mechanical appliances; parts thereof | CAMSHAFTS AND CRANKSHAFTS FOR USE WITH SPARK-IGNITION INTERNAL COMBUSTION PISTON ENGINES OR ROTARY ENGINES, NESOI, VALUED AT $300 PER SET OF PARTS WHOLESALE PRICE IN THE US.¹
8483103010 | Nuclear reactors, boilers, machinery and mechanical appliances; parts thereof | CAMSHAFTS AND CRANKSHAFTS FOR VEHICLES OF CHAPTER 87, OTHER THAN VEHICLES WITH SPARK-IGNITION INTERNAL COMBUSTION PISTON ENGINES OR ROTARY ENGINES, VALUED AT $300 PER UNIT WHOLESALE PRICE IN THE US.¹
8483103050 | Nuclear reactors, boilers, machinery and mechanical appliances; parts thereof | CAMSHAFTS AND CRANKSHAFTS, NESOI, VALUED AT $300 PER SET OF PARTS WHOLESALE PRICE IN THE US.¹
8483105000 | Nuclear reactors, boilers, machinery and mechanical appliances; parts thereof | TRANSMISSION SHAFTS AND CRANKS, EXCEPT CAMSHAFTS AND CRANKSHAFTS, VALUED AT $300 SET OF PARTS UNIT WHOLESALE PRICE IN THE US.¹
8483200010 | Nuclear reactors, boilers, machinery and mechanical appliances; parts thereof | HOUSED BEARINGS INCORPORATING BALL BEARINGS, VALUED AT $500 PER SET OF PARTS WHOLESALE PRICE IN THE US.¹
8483200050 | Nuclear reactors, boilers, machinery and mechanical appliances; parts thereof | HOUSED BEARINGS INCORPORATING ROLLER BEARINGS, VALUED AT $300 PER SET OF PARTS WHOLESALE PRICE IN THE US.¹
8483305020 | Nuclear reactors, boilers, machinery and mechanical appliances; parts thereof | BEARING HOUSINGS, BALL OR ROLLER BEARING TYPE, VALUED AT $300 PER SET OF PARTS WHOLESALE PRICE IN THE US.¹
8483305040 | Nuclear reactors, boilers, machinery and mechanical appliances; parts thereof | BEARING HOUSINGS EXCEPT BALL OR ROLLER BEARING TYPE, VALUED AT $300 PER SET OF PARTS WHOLESALE PRICE IN THE US.¹
8483308055 | Nuclear reactors, boilers, machinery and mechanical appliances; parts thereof | TRANSMISSION SHAFTS: BEARING HOUSINGS, PLAIN SHAFT BEARINGS WITH HOUSING, ROD END BEARINGS, VALUED AT $300 PER UNIT WHOLESALE PRICE IN THE US.¹
8483308065 | Nuclear reactors, boilers, machinery and mechanical appliances; parts thereof | TRANSMISSION SHAFTS AND CRANKS: BEARING HOUSINGS, PLAIN SHAFT BEARINGS WITH HOUSING, NESOI, VALUED AT $500 PER SET OF PARTS WHOLESALE PRICE IN THE US.¹
8483308070 | Nuclear reactors, boilers, machinery and mechanical appliances; parts thereof | PLAIN SHAFT BEARINGS, WITHOUT HOUSING, SPHERICAL TYPE, VALUED AT $500 PER SET OF PARTS WHOLESALE PRICE IN THE US.¹
8483308090 | Nuclear reactors, boilers, machinery and mechanical appliances; parts thereof | PLAIN SHAFT BEARINGS, WITHOUT HOUSING, EXCEPT SPHERICAL, VALUED AT $300 PER SET WHOLESALE PRICE IN THE US.¹
8483401000 | Nuclear reactors, boilers, machinery and mechanical appliances; parts thereof | TORQUE CONVERTERS, VALUED AT $750 PER UNIT WHOLESALE PRICE IN THE US.¹
8483404010 | Nuclear reactors, boilers, machinery and mechanical appliances; parts thereof | FIXED RATIO SPEED CHANGERS, EACH RATIO SELECTED BY MANUAL MANIPULATION, VALUED AT $300 PER UNIT WHOLESALE PRICE IN THE US.¹
8483404050 | Nuclear reactors, boilers, machinery and mechanical appliances; parts thereof | MULTIPLE AND VARIABLE RATIO SPEED CHANGERS, EACH RATIO SELECTED BY MANUAL MANIPULATION, VALUED AT $300 PER UNIT WHOLESALE PRICE IN THE US.¹
8483407000 | Nuclear reactors, boilers, machinery and mechanical appliances; parts thereof | SPEED CHANGERS, NESOI, VALUED AT $300 PER UNIT WHOLESALE PRICE IN THE US.¹
8483408000 | Nuclear reactors, boilers, machinery and mechanical appliances; parts thereof | BALL OR ROLLER SCREWS, VALUED AT $300 PER UNIT WHOLESALE PRICE IN THE US.¹
8483409000 | Nuclear reactors, boilers, machinery and mechanical appliances; parts thereof | GEARS AND GEARING, OTHER THAN TOOTHED WHEELS, CHAIN SPROCKETS AND OTHER TRANSMISSION ELEMENTS ENTERED SEPARATELY, VALUED AT $300 PER SET OF PARTS WHOLESALE PRICE IN THE US.¹
8483508030 | Nuclear reactors, boilers, machinery and mechanical appliances; parts thereof | GROOVED PULLEYS, NESOI, VALUED AT $300 PER SET OF PARTS WHOLESALE PRICE IN THE US.¹
8483508080 | Nuclear reactors, boilers, machinery and mechanical appliances; parts thereof | FLYWHEELS, PULLEY BLOCKS AND PULLEYS, NESOI, VALUED AT $300 PER UNIT WHOLESALE PRICE IN THE US.¹
8483604000 | Nuclear reactors, boilers, machinery and mechanical appliances; parts thereof | CLUTCHES AND UNIVERSAL JOINTS, VALUED AT $500 PER SET OF PARTS WHOLESALE PRICE IN THE US.¹
8483608000 | Nuclear reactors, boilers, machinery and mechanical appliances; parts thereof | SHAFT COUPLINGS, EXCEPT UNIVERSAL JOINTS, VALUED AT $300 PER SET OF PARTS WHOLESALE PRICE IN THE US.¹
8483901000 | Nuclear reactors, boilers, machinery and mechanical appliances; parts thereof | CHAIN SPROCKETS AND PARTS THEREOF, VALUED AT $300 PER SET OF PARTS WHOLESALE PRICE IN THE US.¹
8483905000 | Nuclear reactors, boilers, machinery and mechanical appliances; parts thereof | PARTS OF GEARING, GEAR BOXES AND OTHER SPEED CHANGERS, VALUED AT $5,000 PER SET OF PARTS WHOLESALE PRICE IN THE US.¹
8483908010 | Nuclear reactors, boilers, machinery and mechanical appliances; parts thereof | PARTS OF SHAFT COUPLINGS, EXCEPT UNIVERSAL JOINTS, VALUED AT $300 PER UNIT WHOLESALE PRICE IN THE US.¹
8483909500 | Nuclear reactors, boilers, machinery and mechanical appliances; parts thereof | PARTS, NESOI, OF BEARING HOUSINGS & PLAIN SHAFT BEARINGS, HOUSED BEARINGS, CLUTCHES, UNIVERSAL JOINTS, FLYWHEELS AND TRANSMISSION SHAFTS, VALUED AT $300 PER UNIT WHOLESALE PRICE IN THE US.¹
8508110000 | Electrical machinery and equipment and parts thereof; sound recorders and reproducers, television image and sound recorders and reproducers, and parts and accessories of such articles | VACUUM CLEANERS WITH SELF-CONTAINED ELECTRIC MOTOR OF A POWER NOT EXCEEDING 1500W & HAVING A DUST BAG OR OTHER RECEPTACLE CAPACITY NOT EXCEEDING 20 L, VALUED AT $100 PER UNIT WHOLESALE PRICE IN THE US.¹
8508190000 | Electrical machinery and equipment and parts thereof; sound recorders and reproducers, television image and sound recorders and reproducers, and parts and accessories of such articles | VACUUM CLEANERS, WITH SELF-CONTAINED ELECTRIC MOTOR, NESOI, VALUED AT $100 PER UNIT WHOLESALE PRICE IN THE US.¹
8508600000 | Electrical machinery and equipment and parts thereof; sound recorders and reproducers, television image and sound recorders and reproducers, and parts and accessories of such articles | VACUUM CLEANERS, NESOI, VALUED AT $300 PER UNIT WHOLESALE PRICE IN THE US.¹
8509801000 | Electrical machinery and equipment and parts thereof; sound recorders and reproducers, television image and sound recorders and reproducers, and parts and accessories of such articles | ELECTRIC FLOOR POLISHERS, DOMESTIC.¹
8509802000 | Electrical machinery and equipment and parts thereof; sound recorders and reproducers, television image and sound recorders and reproducers, and parts and accessories of such articles | ELECTRIC KITCHEN WASTE DISPOSALS, DOMESTIC.¹
8509805040 | Electrical machinery and equipment and parts thereof; sound recorders and reproducers, television image and sound recorders and reproducers, and parts and accessories of such articles | ELECTRIC CAN OPENERS INCLUDING COMBINATION UNITS, DOMESTIC.¹
8509805060 | Electrical machinery and equipment and parts thereof; sound recorders and reproducers, television image and sound recorders and reproducers, and parts and accessories of such articles | ELECTRICHUMIDIFIERS, DOMESTIC, VALUED AT $300 PER UNIT WHOLESALE PRICE IN THE US.¹
8509805091 | Electrical machinery and equipment and parts thereof; sound recorders and reproducers, television image and sound recorders and reproducers, and parts and accessories of such articles | ELECTROMECHANICAL DOMESTIC APPLIANCES WITH SELF-CONTAINED ELECTRIC MOTORS, NESOI, VALUED AT $300 PER UNIT WHOLESALE PRICE IN THE US.¹
8511100000 | Electrical machinery and equipment and parts thereof; sound recorders and reproducers, television image and sound recorders and reproducers, and parts and accessories of such articles | SPARK PLUGS FOR INTERNAL COMBUSTION ENGINES, VALUED AT $300 PER SET WHOLESALE PRICE IN THE US.¹
8511200000 | Electrical machinery and equipment and parts thereof; sound recorders and reproducers, television image and sound recorders and reproducers, and parts and accessories of such articles | IGNITION MAGNETOS; MAGNETO-DYNAMOS; MAGNETIC FLYWHEELS, VALUED AT $300 PER UNIT WHOLESALE PRICE IN THE US.¹
8511300040 | Electrical machinery and equipment and parts thereof; sound recorders and reproducers, television image and sound recorders and reproducers, and parts and accessories of such articles | DISTRIBUTORS FOR INTERNAL COMBUSTION ENGINES, VALUED AT $300 PER UNIT WHOLESALE PRICE IN THE US.¹
8511300080 | Electrical machinery and equipment and parts thereof; sound recorders and reproducers, television image and sound recorders and reproducers, and parts and accessories of such articles | IGNITION COILS FOR INTERNAL COMBUSTION ENGINES, VALUED AT $300 PER SET WHOLESALE PRICE IN THE US.¹
8511400000 | Electrical machinery and equipment and parts thereof; sound recorders and reproducers, television image and sound recorders and reproducers, and parts and accessories of such articles | STARTER MOTORS AND DUAL PURPOSE STARTER-GENERATORS FOR INTERNAL COMBUSTION ENGINES, VALUED AT $300 PER UNIT WHOLESALE PRICE IN THE US.¹
8511500000 | Electrical machinery and equipment and parts thereof; sound recorders and reproducers, television image and sound recorders and reproducers, and parts and accessories of such articles | GENERATORS FOR INTERNAL COMBUSTION ENGINES, NESOI, VALUED AT $500 PER UNIT WHOLESALE PRICE IN THE US.¹
8511802000 | Electrical machinery and equipment and parts thereof; sound recorders and reproducers, television image and sound recorders and reproducers, and parts and accessories of such articles | VOLTAGE AND VOLTAGE-CURRENT REGULATORS WITH CUT-OUT RELAYS, DESIGNED FOR 6V, 12V, AND 24V SYSTEMS, VALUED AT $300 PER UNIT WHOLESALE PRICE IN THE US.¹
8511804000 | Electrical machinery and equipment and parts thereof; sound recorders and reproducers, television image and sound recorders and reproducers, and parts and accessories of such articles | VOLTAGE & VOLTAGE-CURRENT REGULATORS WITH CUT-OUT RELAYS, NESOI, VALUED AT $500 PER UNIT WHOLESALE PRICE IN THE US.¹
8511806000 | Electrical machinery and equipment and parts thereof; sound recorders and reproducers, television image and sound recorders and reproducers, and parts and accessories of such articles | INTERNAL COMBUSTION ENGINE IGNITION EQUIPMENT, NESOI, VALUED AT $500 PER UNIT WHOLESALE PRICE IN THE US.¹
8511906020 | Electrical machinery and equipment and parts thereof; sound recorders and reproducers, television image and sound recorders and reproducers, and parts and accessories of such articles | DISTRIBUTOR CONTACT (BREAKER POINT) SETS (PARTS), VALUED AT $300 PER UNIT WHOLESALE PRICE IN THE US.¹
8511908000 | Electrical machinery and equipment and parts thereof; sound recorders and reproducers, television image and sound recorders and reproducers, and parts and accessories of such articles | INTERNAL COMBUSTION ENGINE PARTS, NESOI, VALUED AT $300 PER SET OF PARTS WHOLESALE PRICE IN THE US.¹
8512202000 | Electrical machinery and equipment and parts thereof; sound recorders and reproducers, television image and sound recorders and reproducers, and parts and accessories of such articles | LIGHTING EQUIPMENT FOR MOTOR VEHICLES, VALUED AT $300 PER UNIT WHOLESALE PRICE IN THE US.¹
8512204000 | Electrical machinery and equipment and parts thereof; sound recorders and reproducers, television image and sound recorders and reproducers, and parts and accessories of such articles | VISUAL SIGNALING EQUIPMENT FOR MOTOR VEHICLES (INCLUDING BRAKING LIGHTS AND TURNING SIGNAL LIGHTS), VALUED AT $300 PER UNIT WHOLESALE PRICE IN THE US.¹
8512300030 | Electrical machinery and equipment and parts thereof; sound recorders and reproducers, television image and sound recorders and reproducers, and parts and accessories of such articles | RADAR DETECTORS OF A KIND USED IN MOTOR VEHICLES, .¹
8512300050 | Electrical machinery and equipment and parts thereof; sound recorders and reproducers, television image and sound recorders and reproducers, and parts and accessories of such articles | SOUND SIGNALING EQUIPMENT FOR MOTOR VEHICLES AND CYCLES, VALUED AT $100 PER UNIT WHOLESALE PRICE IN THE US.¹
8512402000 | Electrical machinery and equipment and parts thereof; sound recorders and reproducers, television image and sound recorders and reproducers, and parts and accessories of such articles | MOTOR VEHICLE DEFROSTERS AND DEMISTERS, VALUED AT $750 PER SET WHOLESALE PRICE IN THE US.¹
8512404000 | Electrical machinery and equipment and parts thereof; sound recorders and reproducers, television image and sound recorders and reproducers, and parts and accessories of such articles | MOTOR VEHICLE WINDSHIELD WIPERS, VALUED AT $50 PER UNIT WHOLESALE PRICE IN THE US.¹
8516310000 | Electrical machinery and equipment and parts thereof; sound recorders and reproducers, television image and sound recorders and reproducers, and parts and accessories of such articles | ELECTRIC HAIR DRYERS.¹
8516500000 | Electrical machinery and equipment and parts thereof; sound recorders and reproducers, television image and sound recorders and reproducers, and parts and accessories of such articles | MICROWAVE OVENS, FOR DOMESTIC USE.¹
8516604000 | Electrical machinery and equipment and parts thereof; sound recorders and reproducers, television image and sound recorders and reproducers, and parts and accessories of such articles | ELECTRIC COOKING STOVES, RANGES AND OVENS, FOR DOMESTIC USE, VALUED AT $750 PER UNIT WHOLESALE PRICE IN THE US.¹
8516606000 | Electrical machinery and equipment and parts thereof; sound recorders and reproducers, television image and sound recorders and reproducers, and parts and accessories of such articles | ELECTRIC COOKING PLATES, BOILING RINGS, GRILLERS, & ROASTERS, VALUED AT $300 PER UNIT WHOLESALE PRICE IN THE US.¹
8516710000 | Electrical machinery and equipment and parts thereof; sound recorders and reproducers, television image and sound recorders and reproducers, and parts and accessories of such articles | ELECTRIC COFFEE OR TEA MAKERS, DOMESTIC.¹
8516720000 | Electrical machinery and equipment and parts thereof; sound recorders and reproducers, television image and sound recorders and reproducers, and parts and accessories of such articles | ELECTRIC TOASTERS.¹
8516790000 | Electrical machinery and equipment and parts thereof; sound recorders and reproducers, television image and sound recorders and reproducers, and parts and accessories of such articles | ELECTROTHERMIC APPLIANCES, DOMESTIC, NESOI, VALUED AT $500 PER UNIT WHOLESALE PRICE IN THE US.¹
8517110000 | Electrical machinery and equipment and parts thereof; sound recorders and reproducers, television image and sound recorders and reproducers, and parts and accessories of such articles | LINE TELEPHONE SETS WITH CORDLESS HANDSETS, VALUED AT $100 PER UNIT WHOLESALE PRICE IN THE US.¹
8517130000 | Electrical machinery and equipment and parts thereof; sound recorders and reproducers, television image and sound recorders and reproducers, and parts and accessories of such articles | SMARTPHONES, VALUED AT $300 PER UNIT WHOLESALE PRICE IN THE US.¹
8517180000 | Electrical machinery and equipment and parts thereof; sound recorders and reproducers, television image and sound recorders and reproducers, and parts and accessories of such articles | TELEPHONE SETS, NESOI, VALUED AT $50 PER UNIT WHOLESALE PRICE IN THE US.¹
8517610000 | Electrical machinery and equipment and parts thereof; sound recorders and reproducers, television image and sound recorders and reproducers, and parts and accessories of such articles | BASE STATIONS.¹
8517620010 | Electrical machinery and equipment and parts thereof; sound recorders and reproducers, television image and sound recorders and reproducers, and parts and accessories of such articles | MODEMS (MODULATOR-DEMODULATOR APPARATUS) OF A KIND USED WITH DATA PROCESSING MACHINES OF HEADING 8471, VALUED AT $750 PER UNIT WHOLESALE PRICE IN THE US.¹
8517620050 | Electrical machinery and equipment and parts thereof; sound recorders and reproducers, television image and sound recorders and reproducers, and parts and accessories of such articles | MACHINES FOR THE RECEPTION, CONVERSION & TRANSMISSION OR REGENERATION OF VOICE, IMAGES OR OTHER DATA, INCLUDING SWITCHING & ROUTING APPARATUS, NESOI, VALUED AT $750 PER UNIT WHOLESALE PRICE IN THE US.¹
8517690000 | Electrical machinery and equipment and parts thereof; sound recorders and reproducers, television image and sound recorders and reproducers, and parts and accessories of such articles | APPARATUS FOR TRANSMISSION OR RECEPTION OF VOICE, IMAGES OR OTHER DATA, INCLUDING APPARATUS FOR COMMUNICATION IN A WIRED OR WIRELESS NETWORK, NESOI.¹
8519200000 | Electrical machinery and equipment and parts thereof; sound recorders and reproducers, television image and sound recorders and reproducers, and parts and accessories of such articles | SOUND RECORDING/REPRODUCING APPS OPERATED BY COINS, BANKNOTES, BANK CARDS, TOKENS OR BY OTHER MEANS OF PAYMENT.¹
8519301000 | Electrical machinery and equipment and parts thereof; sound recorders and reproducers, television image and sound recorders and reproducers, and parts and accessories of such articles | TURNTABLES WITH AUTOMATIC RECORD CHANGING MECHANISM.¹
8519302000 | Electrical machinery and equipment and parts thereof; sound recorders and reproducers, television image and sound recorders and reproducers, and parts and accessories of such articles | TURNTABLES, NESOI.¹
8519811000 | Electrical machinery and equipment and parts thereof; sound recorders and reproducers, television image and sound recorders and reproducers, and parts and accessories of such articles | TRANSCRIBING MACHINES.¹
8519812000 | Electrical machinery and equipment and parts thereof; sound recorders and reproducers, television image and sound recorders and reproducers, and parts and accessories of such articles | CASSETTE TAPE PLAYERS FOR MOTOR VEHICLES.¹
8519812500 | Electrical machinery and equipment and parts thereof; sound recorders and reproducers, television image and sound recorders and reproducers, and parts and accessories of such articles | CASSETTE TAPE PLAYERS.¹
8519813000 | Electrical machinery and equipment and parts thereof; sound recorders and reproducers, television image and sound recorders and reproducers, and parts and accessories of such articles | MAGNETIC TAPE RECORDERS INCORPORATING SOUND REPORDUCING APPARATUS, DIGITAL AUDIO TYPE.¹
8519814105 | Electrical machinery and equipment and parts thereof; sound recorders and reproducers, television image and sound recorders and reproducers, and parts and accessories of such articles | TELEPHONE ANSWERING MACHINES, VALUED AT $0 PER SET WHOLESALE PRICE IN THE US.¹
8519814110 | Electrical machinery and equipment and parts thereof; sound recorders and reproducers, television image and sound recorders and reproducers, and parts and accessories of such articles | MAGNETIC TAPE RECORDERS INCORPORATING SOUND REPRODUCING APPARATUS, OTHER THAN TELEPHONE ANSWERING MACHINES, VALUED AT $300 PER UNIT WHOLESALE PRICE IN THE US.¹
8519814120 | Electrical machinery and equipment and parts thereof; sound recorders and reproducers, television image and sound recorders and reproducers, and parts and accessories of such articles | OPTICAL DISC RECORDERS, VALUED AT $500 PER UNIT WHOLESALE PRICE IN THE US.¹
8519814150 | Electrical machinery and equipment and parts thereof; sound recorders and reproducers, television image and sound recorders and reproducers, and parts and accessories of such articles | SOUND RECORDING OR REPRODUCING APPARATUS, USING MAGNETIC, OPTICAL OR SEMICONDUCTOR MEDIA.¹
8519891000 | Electrical machinery and equipment and parts thereof; sound recorders and reproducers, television image and sound recorders and reproducers, and parts and accessories of such articles | RECORD PLAYERS WITHOUT LOUDSPEAKERS.¹
8519892000 | Electrical machinery and equipment and parts thereof; sound recorders and reproducers, television image and sound recorders and reproducers, and parts and accessories of such articles | RECORD PLAYERS, NESOI.¹
8519893000 | Electrical machinery and equipment and parts thereof; sound recorders and reproducers, television image and sound recorders and reproducers, and parts and accessories of such articles | SOUND RECORDING OR REPRODUCING APPARATUS, NESOI, VALUED AT $300 PER UNIT WHOLESALE PRICE IN THE US.¹
8521100000 | Electrical machinery and equipment and parts thereof; sound recorders and reproducers, television image and sound recorders and reproducers, and parts and accessories of such articles | VIDEO RECORDING OR REPRODUCING APPARATUS, WHETHER OR NOT INCORPORATING A VIDEO TUNER, MAGNETIC TAPE-TYPE, VALUED AT $300 PER UNIT WHOLESALE PRICE IN THE US.¹
8521900000 | Electrical machinery and equipment and parts thereof; sound recorders and reproducers, television image and sound recorders and reproducers, and parts and accessories of such articles | VIDEO RECORDING OR REPRODUCING APPARATUS, WHETHER OR NOT INCORPORATING A VIDEO TUNER, EXCEPT MAGNETIC TAPE-TYPE, VALUED AT $1,000 PER UNIT WHOLESALE PRICE IN THE US.¹
8526910010 | Electrical machinery and equipment and parts thereof; sound recorders and reproducers, television image and sound recorders and reproducers, and parts and accessories of such articles | RADIO NAVIGATIONAL AID APPARATUS FOR USE IN CIVIL AIRCRAFT, VALUED AT $750 PER UNIT WHOLESALE PRICE IN THE US.¹
8526910030 | Electrical machinery and equipment and parts thereof; sound recorders and reproducers, television image and sound recorders and reproducers, and parts and accessories of such articles | RADIO NAVIGATIONAL AID APPARATUS, RECEPTION ONLY TYPE, VALUED AT $750 PER UNIT WHOLESALE PRICE IN THE US.¹
8526910070 | Electrical machinery and equipment and parts thereof; sound recorders and reproducers, television image and sound recorders and reproducers, and parts and accessories of such articles | RADIO NAVIGATIONAL AID APPARATUS, NESOI, VALUED AT $750 PER UNIT WHOLESALE PRICE IN THE US.¹
8527120000 | Electrical machinery and equipment and parts thereof; sound recorders and reproducers, television image and sound recorders and reproducers, and parts and accessories of such articles | POCKET-SIZE RADIO CASSETTE PLAYERS.¹
8527131100 | Electrical machinery and equipment and parts thereof; sound recorders and reproducers, television image and sound recorders and reproducers, and parts and accessories of such articles | RADIOBROADCAST RECEIVERS, BATTERY TYPE, COMBINATIONS INCORPORATING TAPE PLAYERS WHICH ARE INCAPABLE OF RECORDING.¹
8527132000 | Electrical machinery and equipment and parts thereof; sound recorders and reproducers, television image and sound recorders and reproducers, and parts and accessories of such articles | RADIOBROADCAST RECEIVERS, BATTERY TYPE, RADIO-TAPE RECORDER COMBINATIONS, VALUED AT $750 PER UNIT WHOLESALE PRICE IN THE US.¹
8527134000 | Electrical machinery and equipment and parts thereof; sound recorders and reproducers, television image and sound recorders and reproducers, and parts and accessories of such articles | RADIO-PHONOGRAPH COMBINATIONS, BATTERY.¹
8527136000 | Electrical machinery and equipment and parts thereof; sound recorders and reproducers, television image and sound recorders and reproducers, and parts and accessories of such articles | RADIOBROADCAST RECEIVERS, BATTERY TYPE, COMBINED WITH SOUND RECORDING/REPRODUCING APPARATUS, NESOI, VALUED AT $500 PER UNIT WHOLESALE PRICE IN THE US.¹
8527190000 | Electrical machinery and equipment and parts thereof; sound recorders and reproducers, television image and sound recorders and reproducers, and parts and accessories of such articles | RADIOBROADCAST RECEIVERS, BATTERY TYPE, NESOI, VALUED AT $500 PER UNIT WHOLESALE PRICE IN THE US.¹
8527210000 | Electrical machinery and equipment and parts thereof; sound recorders and reproducers, television image and sound recorders and reproducers, and parts and accessories of such articles | RADIOBROADCAST RECEIVERS FOR MOTOR VEHICLES, COMBINED WITH SOUND RECORDER/REPRODUCING APPARATUS, NOT CAPABLE OF OPERATING WITHOUT OUTSIDE POWER, VALUED AT $300 PER UNIT WHOLESALE PRICE IN THE US.¹
8527290000 | Electrical machinery and equipment and parts thereof; sound recorders and reproducers, television image and sound recorders and reproducers, and parts and accessories of such articles | RADIOBROADCAST RECEIVERS, FOR MOTOR VEHICLES NOT CAPABLE OF OPERATING WITHOUT OUTSIDE POWER, NESOI, VALUED AT $300 PER UNIT WHOLESALE PRICE IN THE US.¹
8527910000 | Electrical machinery and equipment and parts thereof; sound recorders and reproducers, television image and sound recorders and reproducers, and parts and accessories of such articles | RADIOBROADCAST RECEIVERS WITH SOUND RECORDERS OR PLAYERS, NESOI, VALUED AT $500 PER UNIT WHOLESALE PRICE IN THE US.¹
8527920000 | Electrical machinery and equipment and parts thereof; sound recorders and reproducers, television image and sound recorders and reproducers, and parts and accessories of such articles | RADIOBROADCAST RECEIVERS, WITHOUT PLAYERS OR RECORDERS, BUT COMBO WITH CLOCK, NESOI, VALUED AT $500 PER UNIT WHOLESALE PRICE IN THE US.¹
8527993005 | Electrical machinery and equipment and parts thereof; sound recorders and reproducers, television image and sound recorders and reproducers, and parts and accessories of such articles | RADIO RECEIVERS FOR USE IN CIVIL AIRCRAFT, VALUED AT $300 PER UNIT WHOLESALE PRICE IN THE US.¹
8527993060 | Electrical machinery and equipment and parts thereof; sound recorders and reproducers, television image and sound recorders and reproducers, and parts and accessories of such articles | RADIO RECEIVERS, NOT FOR USE IN CIVIL AIRCRAFT, VALUED AT $300 PER UNIT WHOLESALE PRICE IN THE US.¹
8527995030 | Electrical machinery and equipment and parts thereof; sound recorders and reproducers, television image and sound recorders and reproducers, and parts and accessories of such articles | RECEPTION APPARATUS, NESOI, VALUED AT $1,000 PER UNIT WHOLESALE PRICE IN THE US.¹
8528710000 | Electrical machinery and equipment and parts thereof; sound recorders and reproducers, television image and sound recorders and reproducers, and parts and accessories of such articles | TV RECEPTION APPARATUS NOT DESIGNED TO INCORPORATE A VIDEO DISPLAY OR SCREEN, VALUED AT $500 PER UNIT WHOLESALE PRICE IN THE US.¹
8528723000 | Electrical machinery and equipment and parts thereof; sound recorders and reproducers, television image and sound recorders and reproducers, and parts and accessories of such articles | TV RECEPTION APPARATUS, COLOR, INCORPORATING VIDEO RECORDING OR REPRODUCING APPARATUS, VALUED AT $500 PER UNIT WHOLESALE PRICE IN THE US.¹
8528726005 | Electrical machinery and equipment and parts thereof; sound recorders and reproducers, television image and sound recorders and reproducers, and parts and accessories of such articles | TV RECEPTION APPARATUS, COLOR, WITH PICTURE TUBE, COMBINED WITH RADIOBROADCAST RECEIVERS OR SOUND RECORDING APPARATUS.¹
8528726010 | Electrical machinery and equipment and parts thereof; sound recorders and reproducers, television image and sound recorders and reproducers, and parts and accessories of such articles | TV RECEPTION APPARATUS, COLOR, HAVING A PICTURE TUBE, NOT EXCEEDING 52 CM (20 INCHES), VALUED AT $300 PER UNIT WHOLESALE PRICE IN THE US.¹
8528726040 | Electrical machinery and equipment and parts thereof; sound recorders and reproducers, television image and sound recorders and reproducers, and parts and accessories of such articles | TV RECEPTION APPARATUS, COLOR, HAVING A PICTURE TUBE, EXCEEDING 52 CM (20 INCHES).¹
8528726057 | Electrical machinery and equipment and parts thereof; sound recorders and reproducers, television image and sound recorders and reproducers, and parts and accessories of such articles | TV RECEPTION APPARATUS, COLOR, WITHOUT PICTURE TUBE, NESOI.¹
8529102020 | Electrical machinery and equipment and parts thereof; sound recorders and reproducers, television image and sound recorders and reproducers, and parts and accessories of such articles | TELEVISION ANTENNAS, RECEIVING ONLY & PARTS SUITABLE FOR USE THEREWITH, VALUED AT $500 PER UNIT WHOLESALE PRICE IN THE US.¹
8529102050 | Electrical machinery and equipment and parts thereof; sound recorders and reproducers, television image and sound recorders and reproducers, and parts and accessories of such articles | TELEVISION ANTENNAS & PARTS SUITABLE FOR USE THEREWITH, NESOI, VALUED AT $750 PER UNIT WHOLESALE PRICE IN THE US.¹
8529102090 | Electrical machinery and equipment and parts thereof; sound recorders and reproducers, television image and sound recorders and reproducers, and parts and accessories of such articles | TELEVISION ANTENNA REFLECTORS & PARTS SUITABLE FOR USE THEREWITH, NESOI, VALUED AT $1,000 PER UNIT WHOLESALE PRICE IN THE US.¹
8529104000 | Electrical machinery and equipment and parts thereof; sound recorders and reproducers, television image and sound recorders and reproducers, and parts and accessories of such articles | ANTENNAS & PARTS FOR RADAR, RADIO NAVIGATIONAL AIDS AND RADIO REMOTE CONTROLS, VALUED AT $750 PER UNIT WHOLESALE PRICE IN THE US.¹
8529109000 | Electrical machinery and equipment and parts thereof; sound recorders and reproducers, television image and sound recorders and reproducers, and parts and accessories of such articles | ANTENNA & ANTENNA REFLECTORS OF ALL KINDS; PARTS SUITABLE FOR USE SOLEY OR PRINCIPALLY W/APPARATUS OF HEADING 8525 TO 8528, NESOI, VALUED AT $750 PER UNIT WHOLESALE PRICE IN THE US.¹
8531100015 | Electrical machinery and equipment and parts thereof; sound recorders and reproducers, television image and sound recorders and reproducers, and parts and accessories of such articles | SMOKE DETECTORS, BATTERY POWERED, VALUED AT $300 PER UNIT WHOLESALE PRICE IN THE US.¹
8531100025 | Electrical machinery and equipment and parts thereof; sound recorders and reproducers, television image and sound recorders and reproducers, and parts and accessories of such articles | SMOKE DETECTORS, NESOI, VALUED AT $300 PER UNIT WHOLESALE PRICE IN THE US.¹
8531100035 | Electrical machinery and equipment and parts thereof; sound recorders and reproducers, television image and sound recorders and reproducers, and parts and accessories of such articles | BURGLAR ALARMS, ELECTRIC, VALUED AT $750 PER SET WHOLESALE PRICE IN THE US.¹
8531100045 | Electrical machinery and equipment and parts thereof; sound recorders and reproducers, television image and sound recorders and reproducers, and parts and accessories of such articles | BURGLAR OR FIRE ALARMS AND SIMILAR APPARATUS, NESOI, VALUED AT $300 PER SET WHOLESALE PRICE IN THE US, VALUED AT $300 PER UNIT WHOLESALE PRICE IN THE US.¹
8543702000 | Electrical machinery and equipment and parts thereof; sound recorders and reproducers, television image and sound recorders and reproducers, and parts and accessories of such articles | PHYSICAL VAPOR DEPOSITION (PVD) APPARATUS, NESOI, VALUED AT $300 PER UNIT WHOLESALE PRICE IN THE US.¹
8543704000 | Electrical machinery and equipment and parts thereof; sound recorders and reproducers, television image and sound recorders and reproducers, and parts and accessories of such articles | ELECTRIC SYNCHROS AND TRANSDUCERS; FLIGHT DATA RECORDERS; DEFROSTERS AND DEMISTERS WITH ELECTRIC RESISTORS FOR AIRCRAFT, VALUED AT $5,000 PER UNIT WHOLESALE PRICE IN THE US.¹
8543706000 | Electrical machinery and equipment and parts thereof; sound recorders and reproducers, television image and sound recorders and reproducers, and parts and accessories of such articles | ARTICLES DESIGNED FOR CONNECTION TO TELEGRAPHIC OR TELEPHONIC APPARATUS OR INSTRUMENTS OR TO TELEGRAPHIC OR TELEPHONIC NETWORKS, VALUED AT $300 PER UNIT WHOLESALE PRICE IN THE US.¹
8543707100 | Electrical machinery and equipment and parts thereof; sound recorders and reproducers, television image and sound recorders and reproducers, and parts and accessories of such articles | ELECTRIC LUMINESCENT LAMPS, VALUED AT $25 PER UNIT WHOLESALE PRICE IN THE US.¹
8543708000 | Electrical machinery and equipment and parts thereof; sound recorders and reproducers, television image and sound recorders and reproducers, and parts and accessories of such articles | MICROWAVE AMPLIFIERS, VALUED AT $300 PER UNIT WHOLESALE PRICE IN THE US.¹
8543708500 | Electrical machinery and equipment and parts thereof; sound recorders and reproducers, television image and sound recorders and reproducers, and parts and accessories of such articles | ELECTRICAL NERVE STIMULATION MACHINES AND APPARATUS, VALUED AT $750 PER UNIT WHOLESALE PRICE IN THE US.¹
8543709610 | Electrical machinery and equipment and parts thereof; sound recorders and reproducers, television image and sound recorders and reproducers, and parts and accessories of such articles | AMPLIFIERS, VALUED AT $750 PER UNIT WHOLESALE PRICE IN THE US.¹
8543709620 | Electrical machinery and equipment and parts thereof; sound recorders and reproducers, television image and sound recorders and reproducers, and parts and accessories of such articles | SPECIAL EFFECTS PEDALS FOR USE WITH MUSICAL INSTRUMENTS.¹
8544300000 | Electrical machinery and equipment and parts thereof; sound recorders and reproducers, television image and sound recorders and reproducers, and parts and accessories of such articles | INSULATED IGNITION WIRING SETS & WIRING SETS FOR VEHICLES, AIRCRAFT OR SHIPS, VALUED AT $500 PER SET OF PARTS WHOLESALE PRICE IN THE US.¹
¹ Entries with a footnote 1 designation were added to supplement no. 5 to part 746 of the EAR on February 24, 2023.

11. Supplement No. 6 to part 746 is amended by

a. Revising the heading of the supplement;

b. Revising paragraphs (c), (d), and (e)(4) and (5);

c. Adding paragraphs (e)(6) and (7);

d. Revising paragraphs (f)(1) through (3), (11), (13) through (19), (22) and (23) and Technical Notes for paragraph (f)(23);

e. Adding paragraphs (f)(24) and (27);

f. Adding Note 6 to paragraph (f); and

The revisions and additions read as follows:

Supplement No. 6 to Part 746—Russian and Belarusian Industry Sector Sanctions Pursuant to § 746.5(a)(1)(iii)

* * * * *

(c) Fentanyl and its derivatives Alfentanil, Sufentanil, Remifentanil, Carfentanil, thiafentanil and salts thereof.

Note 1 to paragraph (c): The items in paragraph (c) are from the EU list, as X.C.IX.002.

Note 2 to paragraph (c): Consistent with EU List X.C.IX.002, paragraph (c) does not control products identified as consumer goods packaged for retail sale for personal use or packaged for individual use.

(d) Chemical precursors to Central Nervous System Acting Chemicals, as follows:

(1) 4-anilino-N-phenethylpiperidine (CAS 21409-26-7);

(2) N-phenethyl-4-piperidone (CAS 39742-60-4);

(3) Tert-butyl 4-(phenylamino) piperidine-1-carboxylate (CAS 125541-22-2);

(4) N-phenyl-N-(piperidin-4-yl)propionamide (Norfentanyl) (CAS 1609-66-1); or

(5) N-phenyl-4-piperidinamine (CAS 504-24-5).

Note 3 to paragraph (d): The items in paragraph (d) are from the EU list, as X.C.IX.003.

Note 4 to paragraph (d): Consistent with EU List X.C.IX.003, paragraph (d) does not control “chemical mixtures” containing one or more of the chemicals specified in paragraph (d) (and consistent with EU List entry X.C.IX.003) in which no individually specified chemical constitutes more than 1% by the weight of the mixture.

Note 5 to paragraph (d): Consistent with EU List X.C.IX.003, paragraph (d) does not control products identified as consumer goods packaged for retail sale for personal use or packaged for individual use.

(e) Biologics. * * *

(4) Isolated or purified nucleotides and oligonucleotides, n.e.s.;

(5) Isolated or purified amino acids, peptides and proteins, n.e.s.;

(6) Reagents and materials for oligonucleotide synthesis, n.e.s.; or

(7) Resins, reagents, and materials for peptide synthesis, n.e.s.

(f) Equipment.

* * * * *

(1) Reaction vessels, agitators, heat exchangers, condensers, pumps (including single seal pumps), valves, storage tanks, containers, receivers, and distillation or absorption columns, n.e.s.;

(2) Vacuum pumps with a manufacturer's specified maximum flow-rate greater than 1 m³/h (under standard temperature and pressure conditions), casings (pump bodies), preformed casing-liners, impellers, rotors, and jet pump nozzles designed for such pumps; n.e.s.;

(3) Laboratory equipment, including “components,” “parts,” and “accessories” for such equipment, for the analysis or detection, destructive or non-destructive, of chemical substances, n.e.s.;

* * * * *

(11) Well plates and microarrays;

* * * * *

(13) Centrifuges and ultracentrifuges capable of separating biological samples, with a maximum capacity of 5L, “components” and “accessories” therefor, n.e.s., including centrifuge tubes and concentrators;

(14) Filtration equipment, “components,” “parts,” and “accessories,” capable of use in handling biological materials, n.e.s.;

(15) Nucleic acid synthesizers and assemblers, “components,” “parts,” and “accessories,” n.e.s.;

(16) Polymerase chain reaction (PCR) and quantitative PCR (qPCR) instruments “components,” “parts,” and “accessories;”

(17) Robotic liquid handling instruments, “components,” “parts,” and “accessories,” n.e.s.;

(18) Chromatography and spectrometry “components,” “parts,” and “accessories,” n.e.s.;

(19) Nucleic acid sequencers, “components,” “parts,” and “accessories;”

* * * * *

(22) Probe sonicators, cell disruptors and tissue homogenizers;

(23) `Continuous flow reactors' and their `modular components,' “parts,” and “accessories,” n.e.s;

Technical Notes for paragraph (f)(23):

1. Consistent with EU List X.B.X.001, for purposes of paragraph (f)(23) `continuous flow reactors' consist of plug and play systems where reactants are continuously fed into the reactor and the resultant product is collected at the outlet.

2. Consistent with EU List X.B.X.001, for purposes of paragraph (f)(23) `modular components' are fluidic modules, liquid pumps, valves, packed-bed modules, mixer modules, pressure gauges, liquid-liquid separators, etc.

(24) Microreactors, n.e.s;

(25) Solid and liquid aerosol generating equipment, n.e.s;

(26) Laboratory milling equipment, “components,” “parts,” and “accessories,” n.e.s.; or

(27) Peptide synthesizers, “components,” “parts,” and “accessories.”

Note 6 to paragraph (f): Consistent with the definitions in part 772 of the EAR, “components,” “parts,” and “accessories” include consumables.

* * * * *

Thea D. Rozman Kendler,
Assistant Secretary for Export Administration.

[FR Doc. 2023-03927 Filed 2-24-23; 8:45 am]

BILLING CODE 3510-JT-P